DEPARTMENT OF COMMERCE

National Oceanic and Atmospheric Administration

50 CFR Part 660

[Docket No. 180625576-8999-02]

RIN 0648-BH93

Magnuson-Stevens Act Provisions; Fisheries Off West Coast States; Pacific Coast Groundfish Fishery; 2019-2020 Biennial Specifications and Management Measures

AGENCY: National Marine Fisheries Service (NMFS), National Oceanic and Atmospheric Administration (NOAA), Commerce.

ACTION: Final rule.

SUMMARY: This final rule establishes the 2019-2020 harvest specifications and management measures for groundfish taken in the U.S. exclusive economic zone off the coasts of Washington, Oregon, and California, consistent with the Magnuson-Stevens Fishery Conservation and Management Act and the Pacific Coast Groundfish Fishery Management Plan. This final rule revises the management measures that are intended to keep the total catch of each groundfish stock or stock complex within the harvest specifications. These measures are intended to help prevent overfishing, rebuild overfished stocks, achieve optimum yield, and ensure that management measures are based on the best scientific information available.

DATES: This final rule is effective January 1, 2019.

ADDRESSES: This rule is accessible via the Office of the Federal Register website at https://www.federalregister.gov/. Background information and documents including an integrated analysis for this action (Analysis), which addresses the statutory requirements of the Magnuson Stevens Fishery Conservation and Management Act (Magnuson-Stevens Act), the National Environmental Policy Act, Presidential Executive Order 12866, and the Regulatory Flexibility Act are available at the NMFS West Coast Region website at http://www.westcoast.fisheries.noaa.gov/fisheries/groundfish/index.html and at the Pacific Fishery Management Council's website at http://www.pcouncil.org. The final 2018 Stock Assessment and Fishery Evaluation (SAFE) report for Pacific Coast groundfish, as well as the SAFE reports for previous years, are available from the Pacific Fishery Management Council's website at http://www.pcouncil.org. Other documents associated with this rule are available at the NMFS West Coast Region website at http://www.westcoast.fisheries.noaa.gov/fisheries/groundfish/index.html.

FOR FURTHER INFORMATION CONTACT: Keeley Kent, phone: 206-526-4655, fax: 206-526-6736, or email: Keeley.Kent@noaa.gov.

SUPPLEMENTARY INFORMATION:

Executive Summary

This final rule implements the 2019-2020 harvest specifications and management measures for groundfish stocks taken in the U.S. exclusive economic zone off the coasts of Washington, Oregon, and California. NMFS published the proposed rule to implement the 2019-2020 harvest specifications and management measures on September 19, 2018 (83 FR 47416). The comment period on the proposed rule ended on October 19, 2018. NMFS received eight comments on the proposed rule. A summary of the comment and NMFS's responses is provided in the Comments and Responses section of this preamble.

Purpose of the Regulatory Action

The purpose of this final rule is to conserve and manage Pacific Coast groundfish fishery resources to prevent overfishing, to rebuild overfished stocks, achieve optimum yield (OY), and ensure that management measures are based on the best scientific information available. This action includes harvest specifications for 2019-2020 consistent with existing or revised default harvest control rules for all stocks, and sets management measures designed to keep catch within the established limits. The harvest specifications are set consistent with the OY harvest management framework described in Chapter 4 of the Pacific Coast Groundfish Fishery Management Plan (PCGFMP).

Major Provisions

This final rule contains two types of major provisions. The first are the harvest specifications (overfishing limits (OFLs), acceptable biological catches (ABCs), and annual catch limits (ACLs)), and the second are management measures designed to keep fishing mortality within the ACLs. The Council developed the harvest specifications (OFLs, ABCs, and ACLs) in this rule through a rigorous scientific review and decision making process, which is described in the proposed rule (83 FR 47416, September 19, 2018).

This final rule includes harvest specifications for the two overfished stocks managed under the PCGFMP, yelloweye rockfish and cowcod. For the 2019-2020 biennium, NMFS is implementing changes to the yelloweye rockfish rebuilding plan due to its improved stock rebuilding outlook and changes to the needs of fishing communities. This final rule modifies the harvest control rule for this stock and establishes harvest specifications and management measures consistent with those revisions. The other overfished stock, cowcod, continues to have a positive rebuilding outlook and no changes to its rebuilding plan are included in this rule. Since the 2017-2018 biennium, three stocks have been declared rebuilt: Darkblotched rockfish, bocaccio rockfish, and Pacific ocean perch (POP). The harvest control rules for these stocks revert back to those established prior to the stock being declared overfished.

To keep mortality of the stocks managed under the PCGFMP within the ACLs, the Council also recommended management measures. Generally speaking, management measures are intended to rebuild overfished stocks, prevent catch from exceeding the ACLs, and allow for the harvest of healthy stocks. Management measures include time and area restrictions, gear restrictions, trip or bag limits, size limits, and other management tools. Management measures may vary by fishing sector because different fishing sectors require different types of management to control catch. Most of the management measures the Council recommended for 2019-2020 were slight variations to existing management measures, and do not represent a change from current management practices. Additionally, the Council recommended several new management measures, including: Establishment of salmon bycatch mitigation measures, modifications to depth restrictions in the Western Cowcod Conservation Area (CCA), modification of discard mortality rates for Individual Fishing Quota (IFQ) for lingcod and sablefish, removal of the Shorebased IFQ Program daily vessel limits, removal of the automatic authority on at-sea set-asides, continuation of the IFQ adaptive management pass-through, and modification of the retention ratios for incidentally caught lingcod in the salmon troll fishery.

I. Harvest Specifications

This final rule sets the 2019-2020 harvest specifications and management measures for all of the 128 groundfish stocks that have ACLs or ACL contributions to stock complexes managed under the PCGFMP, except for Pacific whiting. Pacific whiting harvest specifications are established annually through a separate bilateral process with Canada. The OFLs, ABCs, and ACLs for each stock or stock complex for 2019 are in Table 1 and for 2020 are in Table 2. The harvest specifications set through this rule are for non-overfished and overfished stocks. The SAFE document posted on the Council's website at http://www.pcouncil.org/groundfish/safe-documents/ contains a detailed description of each non-overfished and overfished stock and its status and management. The proposed rules for the 2011-12 (75 FR 67810, November 3, 2010) and 2013-14 (77 FR 67974, November 14, 2012) harvest specifications and management measures contain extensive discussions on the management approach used for overfished stocks, which are not repeated here. A summary of how these harvest specifications were developed, including a description of off-the deductions for tribal, research, incidental, and experimental fisheries, was provided in the proposed rule and is not repeated here. Additional information on the development of these harvest specifications is also provided in the Analysis and its supporting appendices.

Table 1—2019 OFLs, ABCs, ACLs, and HGs for All Groundfish Stocks and Stock Complexes in Metric Tons
Species | Area | OFL | ABC | ACL | Fishery HG
COWCOD | S of 40°10′ N lat | 74 | 67 | 10 | 8.
COWCOD | (Conception) | 61 | 56 | NA | NA.
COWCOD | (Monterey) | 13 | 11 | NA | NA.
YELLOWEYE ROCKFISH | Coastwide | 82 | 74 | 48 | 42.
Arrowtooth Flounder | Coastwide | 18,696 | 15,574 | 15,574 | 13,479.
Big skate | Coastwide | 541 | 494 | 494 | 452.
Black rockfish | California (S of 42° N lat.) | 344 | 329 | 329 | 328.
Black rockfish/blue rockfish/deacon rockfish | Oregon (Between 46°16′ N lat. and 42° N lat.) | 677 | 617 | 617 | 616.
Black rockfish | Washington (N of 46°16′ N lat.) | 312 | 298 | 298 | 280.
Bocaccio | S of 40°10′ N lat | 2,194 | 2,097 | 2,097 | 2,051.
Cabezon | California (S of 42° N lat.) | 154 | 147 | 147 | 147.
Cabezon/kelp greenling | Oregon (Between 46°16′ N lat. and 42° N lat.) | 230 | 218 | 218 | 218.
Cabezon/kelp greenling | Washington (N of 46°16′ N lat.) | 13 | 11 | 11 | 11.
California scorpionfish | S of 34°27′ N lat | 337 | 313 | 313 | 311.
Canary rockfish | Coastwide | 1,517 | 1,450 | 1,450 | 1,383.
Chilipepper rockfish | S of 40°10′ N lat | 2,652 | 2,536 | 2,536 | 2,451.
Darkblotched rockfish | Coastwide | 800 | 765 | 765 | 731.
Dover sole | Coastwide | 91,102 | 87,094 | 50,000 | 48,404.
English sole | Coastwide | 11,052 | 10,090 | 10,090 | 9,874.
Lingcod | N of 40°10′ N lat | 5,110 | 4,885 | 4,871 | 4,593.
Lingcod | S of 40°10′ N lat | 1,143 | 1,093 | 1,039 | 1,028.
Longnose skate | Coastwide | 2,499 | 2,389 | 2,000 | 1,852.
Longspine thornyhead | N of 34°27′ N lat | 4,112 | 3,425 | 2,603 | 2,553.
Longspine thornyhead | S of 34°27′ N lat |  |  | 822 | 821.
Pacific cod | Coastwide | 3,200 | 2,221 | 1,600 | 1,094.
Pacific whiting | Coastwide | TBD | TBD | TBD | TBD.
Pacific ocean perch | N of 40°10′ N lat | 4,753 | 4,340 | 4,340 | 4,318.
Petrale sole | Coastwide | 3,042 | 2,908 | 2,908 | 2,587
Sablefish | N of 36° N lat | 8,489 | 7,750 | 5,606 | See Table 1c.
Sablefish | S of 36° N lat |  |  | 1,990 | 1,986.
Shortbelly rockfish | Coastwide | 6,950 | 5,789 | 500 | 483.
Shortspine thornyhead | N of 34°27′ N lat | 3,089 | 2,573 | 1,683 | 1,618.
Shortspine thornyhead | S of 34°27′ N lat |  |  | 890 | 889.
Spiny dogfish | Coastwide | 2,486 | 2,071 | 2,071 | 1,738.
Splitnose rockfish | S of 40°10′ N lat | 1,831 | 1,750 | 1,750 | 1,733.
Starry flounder | Coastwide | 652 | 452 | 452 | 433.
Widow rockfish | Coastwide | 12,375 | 11,831 | 11,831 | 11,583.
Yellowtail rockfish | N of 40°10′ N lat | 6,568 | 6,279 | 6,279 | 5,234.
Nearshore rockfish | N of 40°10′ N lat | 91 | 81 | 81 | 79.
Shelf rockfish | N of 40°10′ N lat | 2,309 | 2,054 | 2,054 | 1,977.
Slope rockfish | N of 40°10′ N lat | 1,887 | 1,746 | 1,746 | 1,665.
Nearshore rockfish | S of 40°10′ N lat | 1,300 | 1,145 | 1,142 | 1,138.
Shelf rockfish | S of 40°10′ N lat | 1,919 | 1,625 | 1,625 | 1,546.
Slope rockfish | S of 40°10′ N lat | 856 | 744 | 744 | 724.
Other flatfish | Coastwide | 8,750 | 6,498 | 6,498 | 6,249.
Other fish | Coastwide | 286 | 239 | 239 | 230.

Table 2—2020 OFLs, ABCs, ACLs, and HGs for All Groundfish Stocks and Stock Complexes in Metric Tons
Species | Area | OFL | ABC | ACL | Fishery HG
COWCOD | S of 40°10′ N lat | 76 | 68 | 10 | 8.
COWCOD | (Conception) | 62 | 57 | NA | NA.
COWCOD | (Monterey) | 13 | 11 | NA | NA.
YELLOWEYE ROCKFISH | Coastwide | 84 | 77 | 49 | 43.
Arrowtooth Flounder | Coastwide | 15,306 | 12,750 | 12,750 | 10,655.
Big skate | Coastwide | 541 | 494 | 494 | 452.
Black rockfish | California (S of 42° N lat.) | 341 | 326 | 326 | 325.
Black rockfish/blue rockfish/deacon rockfish | Oregon (Between 46°16′ N lat. and 42° N lat.) | 670 | 611 | 611 | 609.
Black rockfish | Washington (N of 46°16′ N lat.) | 311 | 297 | 297 | 279.
Bocaccio | S of 40°10′ N lat | 2,104 | 2,011 | 2,011 | 1,965.
Cabezon | California (S of 42° N lat.) | 153 | 146 | 146 | 146.
Cabezon/kelp greenling | Oregon (Between 46° 16′ N lat. and 42° N lat.) | 216 | 204 | 204 | 204.
Cabezon/kelp greenling | Washington (N of 46°16′ N lat.) | 12 | 10 | 10 | 10.
California scorpionfish | S of 34°27′ N lat | 331 | 307 | 307 | 305.
Canary rockfish | Coastwide | 1,431 | 1,368 | 1,368 | 1,301.
Chilipepper rockfish | S of 40°10′ N lat | 2,521 | 2,410 | 2,410 | 2,325.
Darkblotched rockfish | Coastwide | 853 | 815 | 815 | 781.
Dover sole | Coastwide | 92,048 | 87,998 | 50,000 | 48,404.
English sole | Coastwide | 11,101 | 10,135 | 10,135 | 9,919.
Lingcod | N of 40°10′ N lat | 4,768 | 4,558 | 4,541 | 4,263.
Lingcod | S of 40°10′ N lat | 977 | 934 | 869 | 858.
Longnose skate | Coastwide | 2,474 | 2,365 | 2,000 | 1,852.
Longspine thornyhead | N of 34°27′ N lat | 3,901 | 3,250 | 2,470 | 2,420.
Longspine thornyhead | S of 34°27′ N lat |  |  | 780 | 779.
Pacific cod | Coastwide | 3,200 | 2,221 | 1,600 | 1,094.
Pacific whiting | Coastwide | y/ | y/ | y/ | y/.
Pacific ocean perch | N of 40°10′ N lat | 4,632 | 4,229 | 4,229 | 4,207.
Petrale sole | Coastwide | 2,976 | 2,845 | 2,845 | 2,524.
Sablefish | N of 36° N lat | 8,648 | 7,896 | 5,723 | See Table 2c.
Sablefish | S of 36° N lat |  |  | 2,032 | 2,028.
Shortbelly rockfish | Coastwide | 6,950 | 5,789 | 500 | 483.
Shortspine thornyhead | N of 34°27′ N lat | 3,063 | 2,551 | 1,669 | 1,604.
Shortspine thornyhead | S of 34°27′ N lat |  |  | 883 | 882.
Spiny dogfish | Coastwide | 2,472 | 2,059 | 2,059 | 1,726.
Splitnose rockfish | S of 40°10′ N lat | 1,810 | 1,731 | 1,731 | 1,714.
Starry flounder | Coastwide | 652 | 452 | 452 | 433.
Widow rockfish | Coastwide | 11,714 | 11,199 | 11,199 | 10,951.
Yellowtail rockfish | N of 40°10′ N lat | 6,261 | 5,986 | 5,986 | 4,941.
Nearshore rockfish | N of 40°10′ N lat | 92 | 82 | 82 | 79.
Shelf rockfish | N of 40°10′ N lat | 2,302 | 2,048 | 2,048 | 1,971.
Slope rockfish | N of 40°10′ N lat | 1,873 | 1,732 | 1,732 | 1,651.
Nearshore rockfish | S of 40°10′ N lat | 1,322 | 1,165 | 1,163 | 1,159.
Shelf rockfish | S of 40°10′ N lat | 1,919 | 1,626 | 1,625 | 1,546.
Slope rockfish | S of 40°10′ N lat | 855 | 743 | 743 | 723.
Other flatfish | Coastwide | 8,202 | 6,041 | 6,041 | 5,792.
Other fish | Coastwide | 286 | 239 | 239 | 230.

The most significant changes to harvest specifications from 2018 to 2019 are for stocks that were rebuilt (bocaccio, darkblotched rockfish, and Pacific ocean perch), and for stocks that have a more optimistic stock outlook in a recent stock assessment (lingcod north of 40°10′ N. lat., California scorpionfish south of 34°27′ N. lat., and yelloweye rockfish [an overfished stock]).

Yelloweye Rockfish (Sebastes ruberrimus)

This final rule includes changes to the rebuilding plan for yelloweye rockfish. The Northwest Fisheries Science Center (NWFSC) conducted a new stock assessment for yelloweye rockfish in 2017, and the SSC conducted a rebuilding analysis using the updated assessment. This rule modifies the spawning potential ratio (SPR) harvest rate from 76 percent to 65 percent, and modifies the median time to rebuild (TTARGET) from 2074 to 2029. This improvement in stock status outlook is due to several factors, including: Lower than expected catches of yelloweye rockfish in recent years; a more optimistic value on stock recruit steepness, which corresponds to a more productive stock; and strong year classes entering the spawning population in recent years.

This change in the rebuilding plan allows an ACL for yelloweye rockfish of 48 mt in 2019 and 49 mt in 2020. Within the ACL, for 2019, the Council recommended an HG of 42.1 mt, of which 3.4 mt is the trawl HG and 38.6 mt is the nontrawl HG. For 2020, the Council recommended an HG of 42.1 mt, of which 3.4 is the trawl HG and 39.5 is the nontrawl HG. Additionally, the Council recommended and NMFS is establishing Annual Catch Targets (ACTs) within the nontrawl allocation HG as part of this final rule. The nontrawl sector includes the limited entry fixed gear and open access fixed gear fisheries as well as the recreational fisheries for Washington, Oregon, and California. The nearshore fisheries occur off of Oregon and California and are subject to both Federal and state HGs as well as other state-specific management measures. The non-nearshore fisheries include the limited entry and Federal open access fixed gear fleets. Tables 3 and 4 outline the harvest specifications for 2019 and 2020 for yelloweye rockfish.

Table 3—2019 Harvest Specifications for Yelloweye Rockfish
| OFL (mt) | ABC (mt) | ACL (mt) | HG (mt) | ACT (mt)
All sectors | 82 | 74 | 48 | 42 |
Nontrawl |  |  |  | 38.6 |
Non-Nearshore |  |  |  | 2.0 | 1.6
Nearshore |  |  |  | 6.0 | 4.7
Washington Recreational |  |  |  | 10.0 | 7.8
Oregon Recreational |  |  |  | 8.9 | 7.0
California Recreational |  |  |  | 11.6 | 9.1
Trawl |  |  |  | 3.4 |

Table 4—2020 Harvest Specifications for Yelloweye Rockfish
| OFL (mt) | ABC (mt) | ACL (mt) | HG (mt) | ACT (mt)
All sectors | 84 | 77 | 49 | 43 |
Nontrawl |  |  |  | 39.5 |
Non-Nearshore |  |  |  | 2.1 | 1.7
Nearshore |  |  |  | 6.2 | 4.9
Washington Recreational |  |  |  | 10.2 | 8.1
Oregon Recreational |  |  |  | 9.1 | 7.2
California Recreational |  |  |  | 11.9 | 9.4
Trawl |  |  |  | 3.4 |

The Analysis demonstrates how the changes to the rebuilding plan selects a target time for rebuilding (TTARGET) that is “as short as possible,” while giving consideration to “the status and biology of the overfished species and the needs of the fishing communities,” consistent with Section 303(e)(4) of the Magnuson-Stevens Act (see Appendix B of the Analysis). The Council indicated a new default harvest control rule may more appropriately account for the needs of West Coast communities by providing greater opportunity in both commercial and recreational groundfish sectors and improving income stability for dependent communities. The proposed rule (83 FR 47416, September 19, 2018) includes a summary of this analysis.

II. Management Measures

This section describes biennial fishery HGs and set-asides used to further allocate the ACLs to the various components on the fishery, routine management measures to control fishing, and new management measures adopted for 2019-2020. Routine management measures for the commercial fishery modify fishing behavior during the fishing year to ensure that catch is constrained below the ACL, and include trip and cumulative landing limits, time/area closures, size limits, and gear restrictions. Routine management measures for the recreational fisheries include bag limits, size limits, gear restrictions, fish dressing requirements, and time/area closures. New management measures adopted for the 2019-2020 biennial cycle would work in combination with current management measures to control fishing effort/activity.

Biennial Fishery Allocations

The Council recommends two-year trawl and nontrawl allocations during the biennial specifications process for all stocks without long-term allocations or stocks where the long-term allocation is suspended because the stock is declared overfished. For all stocks, except sablefish north of 36° N lat., the Council recommends allocations for the trawl and nontrawl sectors based on the fishery HG. Additionally, some stocks are further portioned out to the various sectors within the trawl and nontrawl groupings. Table 5 shows the allocations of the fishery HG for 2019 for stocks that the Council biennially allocates. Table 6 shows the allocations of the fishery HG for 2020 for stocks that the Council biennially allocates. Additionally, table 7 shows the HGs for select stocks within stock complexes.

Table 5—2019 Biennial Allocations for Select Stocks
[In mt]
| Big skate | Bocaccio south of 40°10′ N | Canary rockfish | Cowcod south of 40°10′ N | Longnose skate | Minor shelf rockfish N of 40°10′ N | Minor shelf rockfish S of 40°10′ N
Trawl | 429.5 | 800.7 | 999.6 | 3.8 | 1,666.5 | 1,190.2 | 188.6
SB IFQ |  |  | 953.6 |  |  |  |
At-sea |  |  | 46.0 |  |  |  |
C/P |  |  | 16.0 |  |  |  |
M |  |  | 30.0 |  |  |  |
Nontrawl | 22.6 | 1,250.2 | 383.3 | 2.2 | 185.2 | 786.9 | 1,357.3
Nearshore |  | 4.8 | 43.8 |  |  |  |
Non-nearshore |  | 382.0 | 94.3 |  |  |  |
WA Rec |  |  | 47.1 |  |  |  |
OR Rec |  |  | 70.7 |  |  |  |
CA Rec |  | 863.4 | 127.3 |  |  |  |

Table 6—2020 Biennial Allocations for Select Stocks
[In mt]
| Big skate | Bocaccio south of 40°10′ N | Canary rockfish | Cowcod south of 40°10′ N | Longnose skate | Minor shelf rockfish N of 40°10′ N | Minor shelf rockfish S of 40°10′ N
Trawl | 429.5 | 767.1 | 940.3 | 3.8 | 1,666.5 | 1,186.6 | 188.6
SB IFQ |  |  | 894.3 |  |  |  |
At-sea |  |  | 46.0 |  |  |  |
C/P |  |  | 16.0 |  |  |  |
M |  |  | 30.0 |  |  |  |
Nontrawl | 22.6 | 1,197.8 | 360.6 | 2.2 | 185.2 | 784.5 | 1,357.3
Nearshore |  | 4.6 | 41.2 |  |  |  |
Non-nearshore |  | 366.0 | 88.7 |  |  |  |
WA Rec |  |  | 44.3 |  |  |  |
OR Rec |  |  | 66.5 |  |  |  |
CA Rec |  | 827.2 | 119.7 |  |  |  |

Table 7—Fishery HGs for Stocks Within a Stock Complex
[In mt]
Stock (Complex) | 2019 | 2020
Blackgill rockfish S of 40°10′ N lat. (Minor Slope Rockfish complex) | 159.0 | 159.0
Oregon black rockfish (Oregon black/blue/deacon rockfish complex) | 515.8 | 512.2
Oregon cabezon (Oregon cabezon/kelp greenling complex) | 46.8 | 46.8

Tribal Fisheries

Tribes implement management measures for Tribal fisheries both independently as sovereign governments and cooperatively with the management measures in the Federal regulations. The Tribes may adjust their Tribal fishery management measures inseason to stay within the Tribal harvest targets and estimated impacts to overfished stocks. The only change to Tribal harvest targets and management measures for the 2019-2020 biennium is an increase in the petrale sole harvest target from 220 mt to 290 mt.

Rockfish Conservation Areas

Rockfish Conservation Areas (RCAs) are large area closures intended to reduce the catch of a stock or stock complex by restricting fishing activity at specific depths. The boundaries for RCAs are defined by straight lines connecting a series of latitude and longitude coordinates that approximate depth contours. These sets of coordinates, or lines, are not gear or fishery specific, but can be used in combination to define an area. NMFS then implements fishing restrictions for a specific gear and/or fishery within each defined area.

This rule adjusts the coordinates for the 75 fathom (fm) (137 m), 100 fm (183 m), 125 fm (229 m), and 150 fm (274 m) depth contours off of California to more accurately refine the depth contours. These modifications adjust boundaries for RCAs around Santa Cruz Island, Spanish Canyon, Delgada Canyon, Cordell Bank, Point Ano Nuevo, San Miguel Island, Anacapa Island, Usal Canyon, and Noyo Canyon. Currently, the 75, 100, 125, 150 fm depth contours are in use as RCAs for either the trawl sector, limited entry fixed gear sector, or the open access sector. Table 8 shows the RCAs for 2019 and beyond, until otherwise modified.

Table 8—RCA Boundaries by Gear Type
Sector | Area | RCA in effect
Trawl | North of 45°46′ N lat | 100 fm—150 fm.
| 45°46′ N lat.—40°10′ N lat | 100 fm—modified ᵃ 200 fm.
| South of 40°10′ N lat | 100 fm—150 fm.
| South of 34°27′ N lat. around islands | shoreline—150 fm.
Limited entry fixed gear and open access | North of 46°16′ N lat | shoreline—100 fm.
| 46°16′ N lat.—40°10′ N lat | 30 fm—100 fm.
| 40°10′ N lat.—34°27′ N lat | 40 fm—125 fm.
| South of 34°27′ N lat | 75 fm—150 fm (also applies around islands).
ᵃ The “modified” fathom lines are modified to exclude certain petrale sole areas from the RCA.

Limited Entry Trawl

Shorebased IFQ Program Allocations

Table 9 shows the yearly allocations to the Shorebased IFQ Program for 2019 and 2020.

Table 9—Shorebased IFQ Program Allocations for 2019 and 2020
IFQ species | Area | 2019 Shorebased trawl allocation (mt) | 2020 Shorebased trawl allocation (mt)
Arrowtooth flounder | Coastwide | 12,735.1 | 10,052.3
Bocaccio | South of 40°10′ N lat | 800.7 | 767.1
Canary rockfish | Coastwide | 946.9 | 887.8
Chilipepper | South of 40°10′ N lat | 1,838.3 | 1,743.8
COWCOD | South of 40°10′ N lat | 2.2 | 2.2
Darkblotched rockfish | Coastwide | 658.4 | 703.4
Dover sole | Coastwide | 45,979.2 | 45,979.2
English sole | Coastwide | 9,375.1 | 9,417.9
Lingcod | North of 40°10′ N lat | 2,051.9 | 1,903.4
Lingcod | South of 40°10′ N lat | 462.5 | 386.0
Longspine thornyhead | North of 34°27′ N lat | 2,420.0 | 2,293.6
Minor Shelf Rockfish complex | North of 40°10′ N lat | 1,155.2 | 1,151.6
Minor Shelf Rockfish complex | South of 40°10′ N lat | 188.6 | 188.6
Minor Slope Rockfish complex | North of 40°10′ N lat | 1,248.8 | 1,237.5
Minor Slope Rockfish complex | South of 40°10′ N lat | 456.0 | 455.4
Other Flatfish complex | Coastwide | 5,603.7 | 5,192.4
Pacific cod | Coastwide | 1,034.1 | 1,034.1
Pacific ocean perch | North of 40°10′ N lat | 3,697.3 | 3,602.2
Pacific whiting | Coastwide | TBD | TBD
Petrale sole | Coastwide | 2,453.0 | 2,393.2
Sablefish | North of 36° N lat | 2,581.3 | 2,636.8
Sablefish | South of 36° N lat | 834.0 | 851.7
Shortspine thornyhead | North of 34°27′ N lat | 1,511.8 | 1,498.5
Shortspine thornyhead | South of 34°27′ N lat | 50.0 | 50.0
Splitnose rockfish | South of 40°10′ N lat | 1,646.7 | 1,628.7
Starry flounder | Coastwide | 211.6 | 211.6
Widow rockfish | Coastwide | 9,928.8 | 9,387.1
YELLOWEYE ROCKFISH | Coastwide | 3.4 | 3.4
Yellowtail rockfish | North of 40°10′ N lat | 4,305.8 | 4,048.0

Incidental Trip Limits for Limited Entry Trawl Vessels

Table 10 shows the trip limits for limited entry trawl vessels north of 40°10′ N lat. Changes to trip limits are considered a routine measure under § 660.60(c) and may be implemented or adjusted, if determined necessary, through inseason action.

Table 10—Limited Entry Trawl Landing Allowances (Trip Limits) for Non-IFQ Species and Pacific Whiting for 2019 and Beyond, Until Revised
| Jan-Feb | Mar-Apr | May-Jun | Jul-Aug | Sep-Oct | Nov-Dec
1. Minor Nearshore Rockfish, Washington Black rockfish & Oregon Black/blue/deacon rockfish | 300 lb/month.
2. Whiting ᵃ |
3. midwater trawl | Before the primary whiting season: CLOSED.—During the primary season: mid-water trawl permitted in the RCA. See § 660.131 for season and trip limit details.—After the primary whiting season: CLOSED.
4. large & small footrope gear | Before the primary whiting season: 20,000 lb/trip.—During the primary season: 10,000 lb/trip.—After the primary whiting season: 10,000 lb/trip.
5. Oregon Cabezon/Kelp Greenling complex | 50 lb/month.
6. Cabezon in California | 50 lb/month.
7. Shortbelly rockfish | Unlimited.
8. Spiny dogfish | 60,000 lb/month.
9. Big skate | 5,000 lb/2 months | 25,000 lb/2 months | 30,000 lb/2 months | 35,000 lb/2 months | 10,000 lb/2 months | 5,000 lb/2 months.
10. Longspine thornyhead south of 34°27′ N lat | 24,000 lb/2 months.
11. California scorpionfish | Unlimited.
12. Longnose skate | Unlimited.
13. Other Fish ᵇ | Unlimited.
ᵃ As specified at § 660.131(d), when fishing in the Eureka Area, no more than 10,000 lb of whiting may be taken and retained, possessed, or landed by a vessel that, at any time during the fishing trip, fished in the fishery management area shoreward of 100 fm contour.
ᵇ “Other Fish” are defined at § 660.11 and include kelp greenling off California and leopard shark.

At-Sea Whiting Sector Set Asides

The Council and NMFS use either allocations or set asides to manage the non-whiting groundfish catch in the at-sea sectors (the catcher/processor sector and the mothership sector). Set-asides are managed on an annual basis unless there is a risk of catch exceeding a harvest specification (ACL, ACT, or HG) inseason, unforeseen impact on another fishery, or conservation concerns, in which case inseason action may be taken. Table 11 presents the set-asides for the at-sea sector for 2019 and 2020.

Table 11—Set Asides for At-Sea Sectors for 2019 and 2020
Stock or stock complex | Area | 2019 Set aside (mt) | 2020 Set aside (mt)
COWCOD | S of 40°10 N lat | NA | NA.
YELLOWEYE ROCKFISH | Coastwide | 0 | 0.
Arrowtooth flounder | Coastwide | 70 | 70.
Bocaccio | S of 40°10 N lat | NA | NA.
Canary rockfish ᵃ | Coastwide | Allocation | Allocation.
Chilipepper | S of 40°10 N lat | NA | NA.
Darkblotched rockfish ᵇ | Coastwide | 37.2 | 39.6.
Dover sole | Coastwide | 5 | 5.
English sole | Coastwide | 5 | 5.
Lingcod | N of 40°10 N lat | 15 | 15.
Lingcod | S of 40°10 N lat | NA | NA.
Longnose skate | Coastwide | 5 | 5.
Longspine thornyhead | N of 34°27 N lat | 5 | 5.
Longspine thornyhead | S of 34°27 N lat | NA | NA.
Minor Nearshore Rockfish | N of 40°10 N lat | NA | NA.
Minor Nearshore Rockfish | S of 40°10 N lat | NA | NA.
Minor Shelf Rockfish | N of 40°10 N lat | 35 | 35.
Minor Shelf Rockfish | S of 40°10 N lat | NA | NA.
Minor Slope Rockfish | N of 40°10 N lat | 100 | 100.
Minor Slope Rockfish | S of 40°10 N lat | NA | NA.
Other Fish | Coastwide | NA | NA.
Other Flatfish | Coastwide | 20 | 20.
Pacific cod | Coastwide | 5 | 5.
Pacific Halibut ᶜ | Coastwide | 10 | 10.
Pacific ocean perch ᵈ | N of 40°10 N lat | 404.5 | 394.
Pacific Whiting | Coastwide | Allocation | Allocation.
Petrale sole | Coastwide | 5 | 5.
Sablefish | N of 36° N lat | 50 | 50.
Sablefish | S of 36° N lat | NA | NA.
Shortspine thornyhead | N of 34°27 N lat | 30 | 30.
Shortspine thornyhead | S of 34°27 N lat | NA | NA.
Starry flounder | Coastwide | 5 | 5.
Widow Rockfish ᵃ | Coastwide | Allocation | Allocation.
Yellowtail rockfish | N of 40°10 N lat | 300 | 300.
ᵃ See Table 1.b. to subpart C for the at-sea whiting allocations for these species.
ᵇ Darkblotched rockfish will be managed as set-asides for the MS and C/P sectors based on pro-rata distribution described at § 660.55(c)(1)(i)(A).
ᶜ As stated in § 660.55(m), the Pacific halibut set-aside is 10 mt, to accommodate bycatch in the at-sea Pacific whiting fisheries and in the shorebased trawl sector south of 40°10 N lat. (estimated to be approximately 5 mt each).
ᵈ Pacific ocean perch will be managed as set-asides for the MS and C/P sectors based on pro-rata distribution described at § 660.55(c)(1)(i)(B).

Limited Entry Fixed Gear and Open Access Nontrawl Fishery

Management measures for the limited entry fixed gear (LEFG) and open access (OA) nontrawl fisheries tend to be similar because the majority of participants in both fisheries use hook-and-line gear. Management measures, including area restrictions and trip limits in these nontrawl fisheries, are generally designed to allow harvest of target stocks while keeping catch of overfished stocks low. For the 2019-2020 biennium, changes to management measures include: Changes to trip limits for sablefish, minor slope rockfish and darkblotched rockfish, canary rockfish, lingcod, shortspine rockfish, and longspine rockfish. Trip limits for the limited entry fixed gear fishery for 2019 and beyond are shown in Table 12. Trip limits for the open access fishery for 2019 and beyond are shown in Table 13.

Table 12—Limited Entry Fixed Gear Landing Allowances (Trip Limits) for 2019 and Beyond
|  | Jan-Feb | Mar-Apr | May-Jun | Jul-Aug | Sep-Oct | Nov-Dec
1. Minor Slope Rockfish a & Darkblotched rockfish | North of 40°10′ N lat | 4,000 lb/2 month.
2. | South of 40°10′ N lat.b | 40,000 lb/2 months, of which no more than 1,375 lb may be blackgill rockfish |  |  | 40,000 lb/2 months, of which no more than 1,600 lb may be blackgill rockfish.
3. Pacific ocean perch | North of 40°10′ N lat | 1,800 lb/2 months.
4. Splitnose rockfish | South of 40°10′ N lat | 40,000 lb/2 months.
5. Sablefish | North of 36°00′ N lat | 1,300 lb/week, not to exceed 3,900 lb/2 months.
6. | South of 36°00′ N lat | 2,000 lb/week.
7. Longspine thornyhead | Coastwide | 10,000 lb/2 months.
8. Shortspine thornyhead | North of 34°27′ N lat | 2,500 lb/2 months |  |  | 2,500 lb/2 months.
9. | South of 34°27′ N lat | 3,000 lb/2 months.
10. Dover sole, arrowtooth flounder, petrale sole, English sole, starry flounder, Other Flatfish c | Coastwide | 5,000 lb/month.
11. Whiting | Coastwide | 10,000 lb/trip.
12. Minor Shelf Rockfish,d Shortbelly rockfish, Widow rockfish (including Chilipepper between 40°10′—34°27′ N lat.) | North of 40°10′ N lat | 200 lb/month.
13. | 40°10′ N lat.—34°27′ N lat.e | Minor shelf rockfish, shortbelly, widow rockfish, & chilipepper: 2,500 lb/2 months, of which no more than 500 lb may be any species other than chilipepper.
14. | South of 34°27′ N lat.e | 4,000 lb/2 months | CLOSED | 4,000 lb/2 months.
15. Chilipepper rockfish | South of 34°27′ N lat | 2,000 lb/2 months, this opportunity only available seaward of the non-trawl RCA.
16. Yellowtail rockfish | North of 40°10′ N lat | 1,000 lb/month.
17. Canary rockfish | North of 34°27′ N lat | 300 lb/2 months.
18. | South of 34°27′ N lat | 300 lb/2 months | CLOSED | 300 lb/2 months.
19. Bocaccio | 40°10′ N lat.—34°27′ N lat | 1,000 lb/2 months.
20. | South of 34°27′ N lat | 1,500 lb/2 months | CLOSED | 1,500 lb/2 months.
21. Minor Nearshore Rockfish, Washington Black rockfish & Oregon Black/blue/deacon rockfish | North of 42°00′ N lat | 5,000 lb/2 months, no more than 1,200 lb of which may be species other than black rockfish or blue/deacon rockfish f
22. | 42°00′ N lat.—40°10′ N lat | 8,500 lb/2 months, no more than 1,200 lb of which may be species other than black rockfish | 7,000 lb/2 months, no more than 1,200 lb of which may be species other than black rockfish or blue/deacon rockfish.
23. Shallow nearshore rockfish g | South of 40°10′ N lat | 1,200 lb/2 months | CLOSED | 1,200 lb/2 months.
24. Deeper nearshore rockfish h | South of 40°10′ N lat | 1,000 lb/2 months | CLOSED | 1,000 lb/2 months.
25. Lingcod i | North of 42°00′ N lat | 2,000 lb/2 months.
26. | 42°00′ N lat.—40°10′ N lat | 1,400 lb/2 months.
27. | South of 40°10′ N lat | 200 lb/2 months | CLOSED | 800 lb/2 months | 1,200 lb/2 months |  | 600 lb/month (NOV) & 300 lb/month (DEC).
28. California Scorpionfish | South of 40°10′ N lat | 1,500 lb/2 months | CLOSED | 1,500 lb/2 months.
29. Pacific cod | Coastwide | 1,000 lb/2 months.
30. Spiny dogfish | Coastwide | 200,000 lb/2 months |  | 150,000 lb/2 months | 100,000 lb/2 months.
31. Longnose skate | Coastwide | Unlimited.
32. Other Fish j & Cabezon in California | Coastwide | Unlimited.
33. Oregon Cabezon/Kelp Greenling | Oregon | Unlimited.
34. Big skate | Coastwide | Unlimited.
35. Yelloweye rockfish | Coastwide | CLOSED.
36. Cowcod | South of 40°10′ N lat | CLOSED.
37. Bronzespotted rockfish | South of 40°10′ N lat | CLOSED.
a Splitnose rockfish north of 40°10′ N lat. is included in the trip limits for Minor Slope Rockfish.
b POP is included in the trip limits for Minor Slope Rockfish south of 40°10′ N lat. Blackgill rockfish have a species specific trip sub-limit within the Minor Slope Rockfish cumulative limit south of 40°10′ N lat.
c “Other flatfish” are defined at § 660.11 and include butter sole, curlfin sole, flathead sole, Pacific sanddab, rex sole, rock sole, and sand sole.
d Bocaccio, chilipepper and cowcod north of 40°10′ N lat. are included in the trip limits for Minor Shelf Rockfish.
e Yellowtail rockfish are included in the trip limits for Minor Shelf Rockfish south of 40°10′ N lat. Bronzespotted rockfish have a species specific trip limit.
f For black rockfish north of Cape Alava (48°09.50′ N lat.), and between Destruction Is. (47°40′ N lat.) and Leadbetter Pnt. (46°38.17′ N lat.), there is an additional limit of 100 lb or 30 percent by weight of all fish on board, whichever is greater, per vessel, per fishing trip.
g “Shallow Nearshore” are defined at § 660.11 under “Groundfish” (7)(i)(B)(1) and include black and yellow rockfish, S. chrysomelas; China rockfish, S. nebulosus; gopher rockfish, S. carnatus; grass rockfish, S. rastrelliger; kelp rockfish, S. atrovirens.
h “Deeper Nearshore” are defined at § 660.11 under “Groundfish” (7)(i)(B)(2) and include black rockfish, S. melanops; blue rockfish, S. mystinus; brown rockfish, S. auriculatus; calico rockfish, S. dalli; copper rockfish, S. caurinus; deacon rockfish, S. diaconus; olive rockfish, S. serranoides; quillback rockfish, S. maliger; treefish, S. serriceps.
i The commercial minimum size limit for lingcod is 22 inches (56 cm) total length north of 42° N lat. and 24 inches (61 cm) total length south of 42° N lat.
j “Other Fish” are defined at § 660.11 and include kelp greenling off California and leopard shark.

Table 13—Open Access Landing Allowances (Trip Limits) for 2019 and Beyond, Until Revised
|  | Jan-Feb | Mar-Apr | May-Jun | Jul-Aug | Sep-Oct | Nov-Dec
1. Minor Slope Rockfish a & Darkblotched rockfish | North of 40°10′ N lat | 500 pounds/month.
2. | South of 40°10′ N lat | 10,000 lb/2 months, of which no more than 475 lb may be blackgill rockfish |  |  | 10,000 lb/2 months, of which no more than 550 lb may be blackgill rockfish.
3. Splitnose rockfish | South of 40°10′ N lat | 200 lb/month.
4. Pacific ocean perch | North of 40°10′ N lat | 100 lb/month.
6. Sablefish | North of 36°00′ N lat | 300 lb/day or one landing per week up to 1,200 lb, not to exceed 2,400 lb/2 months.
7. | South of 36°00′ N lat | 300 lb/day, or one landing per week of up to 1,600 lb, not to exceed 3,200 lb/2 months.
8. Shortpine thornyheads and longspine thornyheads | North of 40°10′ N lat | 50 lb/month of each.
9. | 40°10′ N lat.—34°27′ N lat | CLOSED.
10. | South of 34°27′ N lat | 50 lb/day, no more than 1,000 lb/2 months (both species combined).
11. Dover sole, arrowtooth flounder, petrale sole, English sole, starry flounder, Other Flatfish b | Coastwide | 3,000 lb/month, no more than 300 lb of which may be species other than Pacific sanddabs.
12. Whiting | Coastwide | 300 lb/month.
13. Minor Shelf Rockfish, c Shortbelly rockfish, & Widow rockfish (and Chilipepper south of 40°10′ N lat.) | North of 40°10′ N lat | 200 lb/month.
14. | 40°10′ N lat.-34°27′ N lat | 400 lb/2 months | CLOSED | 400 lb/2 months.
15. | South of 34°27′ N lat | 1,500 lb/2 months |  | 1,500 lb/2 months.
16. Bocaccio | South of 40°10′ N lat | 500 lb/2 months | CLOSED | 500 lb/2 months.
17. Yellowtail rockfish | North of 40°10′ N lat | 500 lb/month.
18. Canary rockfish | North of 40°10′ N lat | 300 lb/2 months.
19. | South of 40°10′ N lat | 300 lb/2 months | CLOSED | 300 lb/2 months.
20. Minor Nearshore Rockfish, Washington Black rockfish, Oregon Black/Blue/Deacon rockfish, California black rockfish | North of 42°00′ N lat | 5,000 lb/2 months, no more than 1,200 lb of which may be species other than black rockfish or blue/deacon rockfish. d
21. | 42°00′ N lat.—40°10′ N lat | 8,500 lb/2 months, no more than 1,200 lb of which may be species other than black rockfish or blue/deacon rockfish | 7,000 lb/2 months, no more than 1,200 lb of which may be species other than black rockfish or blue/deacon rockfish.
22. Shallow nearshore e | South of 40°10′ N lat | 1,200 lb/2 months | CLOSED | 1,200 lb/2 months.
23. Deeper nearshore f | South of 40°10′ N lat | 1,000 lb/2 months | CLOSED | 1,000 lb/2 months.
24. Lingcod g | North of 42°00′ N lat | 900 lb/month.
25. | 42°00′ N lat.—40°10′ N lat | 600 lb/month.
26. | South of 40°10′ N lat | 300 lb/month | CLOSED | 300 lb/month.
27. California scorpionfish | South of 40°10′ N lat | 1,500 lb/2 months | CLOSED | 1,500 lb/2 months.
28. Pacific cod | Coastwide | 1,000 lb/2 months.
29. Spiny dogfish | North of 40°10′ N lat | 200,000 lb/2 months |  | 150,000 lb/2 months | 100,000 lb/2 months.
30. Longnose skate | Coastwide | Unlimited.
31. Big skate | Coastwide | Unlimited.
32. Other Fish h & Cabezon in California | Coastwide | Unlimited.
33. Oregon Cabezon/Kelp Greenling | North of 40°10′ N lat | Unlimited.
34. Yelloweye rockfish | Coastwide | CLOSED.
35. Cowcod | South of 40°10′ N lat | CLOSED.
36. Bronzespotted rockfish | South of 40°10′ N lat | CLOSED.
a Splitnose rockfish is included in the trip limits for Minor Slope Rockfish north of 40°10′ N lat. POP is included in the trip limits for Minor slope rockfish south of 40°10′ N lat. Blackgill rockfish have a species specific trip sub-limit within the minor slope rockfish cumulative limits.
b “Other flatfish” are defined at § 660.11 and include butter sole, curlfin sole, flathead sole, Pacific sanddab, rex sole, rock sole, and sand sole.
c Bocaccio, chilipepper and cowcod rockfishes are included in the trip limits for Minor Shelf Rockfish north of 40°10′ N lat. Yellowtail rockfish is included in the trip limits for Minor Shelf Rockfish south of 40°10′ N lat. Bronzespotted rockfish have a species specific trip limit.
d For black rockfish north of Cape Alava (48°09.50′ N lat.), and between Destruction Is. (47°40′ N lat.) and Leadbetter Pnt. (46°38.17′ N lat.), there is an additional limit of 100 lbs or 30 percent by weight of all fish on board, whichever is greater, per vessel, per fishing trip.
e “Shallow Nearshore” are defined at § 660.11 under “Groundfish” (7)(i)(B)(1) and include black and yellow rockfish, S. chrysomelas; China rockfish, S. nebulosus; gopher rockfish, S. carnatus; grass rockfish, S. rastrelliger; kelp rockfish, S. atrovirens.
f “Deeper Nearshore” are defined at § 660.11 under “Groundfish” (7)(i)(B)(2) and include black rockfish, S. melanops; blue rockfish, S. mystinus; brown rockfish, S. auriculatus; calico rockfish, S. dalli; copper rockfish, S. caurinus; deacon rockfish, S. diaconus; olive rockfish, S. serranoides; quillback rockfish, S. maliger; treefish, S. serriceps.
g The minimum size limit for lingcod is 22 inches (56 cm) total length North of 42° N lat. and 24 inches (61 cm) total length South of 42° N lat.
h “Other fish” are defined at § 660.11 and include kelp greenling off California and leopard shark.

Primary Sablefish Tier Limits

Some limited entry fixed gear permits are endorsed to receive annual sablefish quota, or “tier limits.” Vessels registered with one, two, or up to three of these permits may participate in the primary sablefish fishery. The tier limits are shown in Table 14.

Table 14—Sablefish Tier Limits for 2019 and 2020
| 2019 | 2020
Tier 1 | 47,637 lb (21,608 kg) | 48,642 lb (22,064 kg).
Tier 2 | 21,653 lb (9,822 kg) | 22,110 lb (10,029 kg).
Tier 3 | 12,373 lb (5,612 kg) | 12,634 lb (5,731 kg).

Recreational Fisheries

This section describes the recreational fisheries management measures for 2019-2020. The Council primarily recommends depth restrictions and groundfish conservation areas (GCAs) to constrain catch within the recreational harvest guidelines for each stock. Most of the changes to recreational management measures are modifications to existing measures.

Washington, Oregon, and California each proposed, and the Council recommended, different combinations of seasons, bag limits, area closures, and size limits for stocks targeted in recreational fisheries. These measures are designed to limit catch of overfished stocks found in the waters adjacent to each state while allowing target fishing opportunities in their particular recreational fisheries. The following sections describe the recreational management measures this final rule implements for each state.

Washington

The state of Washington manages its marine fisheries in four areas: Marine Area 1 extends from the Oregon/Washington border to Leadbetter Point; Marine Area 2 extends from Leadbetter Point to the mouth of the Queets Rivers; Marine Area 3 extends from the Queets River to Cape Alava; and Marine Area 4 extends from Cape Alava to the Sekiu River. Changes from the 2018 fishing season that will be effective for 2019 and beyond include the elimination of the canary rockfish sublimit from all marine areas, and the change to a uniform cabezon sublimit of one fish a day across all marine areas, with no size limit in Marine Area 4. For 2019 and beyond, until otherwise modified, the bag limits for Washington are as follows: 9 groundfish/day, with a sublimit of 7 a day for rockfish, 2 a day for lingcod, and 1 a day for cabezon.

This final rule also aligns the lingcod season in Marine Area 4 with the recreational groundfish season and the lingcod season in Marine Areas 1-3. This adjustment allows for an additional month of fishing in Marine Area 4 compared to 2018. Additionally, this rule allows retention of yellowtail and widow rockfish seaward of 20 fm (37 m) in July and August in Marine Areas 3 and 4.

Oregon

Oregon recreational fisheries in 2019-2020 will operate under the same season structures and bag limits as 2017-2018. As shown in Table 15, this rule expands all-depth fishing from October through March in 2018 to September through May in 2019 and 2020.

Table 15—Oregon Recreational Season Structure and Bag Limits for 2019 and 2020
| Jan | Feb | Mar | Apr | May | Jun | Jul | Aug | Sep | Oct | Nov | Dec
Bottomfish Season | Open all depths |  |  |  |  | <40 fm |  |  | Open all depths.
Marine Bag Limit ᵃ | Ten (10).
Lingcod Bag Limit | Three (3).
Flatfish Bag Limit ᵇ | Twenty Five (25).
a/Marine bag limit is 10 fish per day and includes all species other than lingcod, salmon, steelhead, Pacific halibut, flatfish, surfperch, sturgeon, striped bass, pelagic tuna and mackerel species, and bait fish such as herring, anchovy, sardine, and smelt; of which no more than one may be cabezon.
b/Flounders, soles, sanddabs, turbots and halibuts except Pacific halibut.

California

The Council manages recreational fisheries off of California in five separate management areas. The 2019 and 2020 California season structure includes additional time and depth opportunities. Table 16 shows the season structure and depth limits by management area for 2019 and 2020.

Table 16—California Recreational Fishery Season Structure and Depth Limits by Management Area for 2019 and 2020
Management area | Jan | Feb | Mar | Apr | May | Jun | Jul | Aug | Sep | Oct | Nov | Dec
Northern | Closed |  |  |  | May 1—Oct 31 < 30 fm |  |  |  |  |  | All Depth.
Mendocino | Closed |  |  |  | May 1—Oct 31 < 20 fm |  |  |  |  |  | All Depth.
San Francisco | Closed |  |  | April 1—Dec 31 < 40 fm.
Central | Closed |  |  | April 1—Dec 31 < 50 fm.
Southern | Closed |  | Mar 1—Dec 31 < 75 fm.

Size, bag, and sublimits will remain the same as 2018 for all stocks except for lingcod. To keep within allowable limits, the lingcod bag limit is split into separate limits for north (42° N lat. (California/Oregon border) to 40°10′ N lat. (Northern Management Area)) and south (40°10′ N lat. to the U.S. border with Mexico (Mendocino Management Area, San Francisco Management Area, Central Management Area, and Southern Management Area)). In the north area, the bag limit is 2 lingcod per day; in the south area the bag limit is 1 lingcod per day. Additionally, this rule allows year-round retention of California scorpionfish in the Southern management area.

Salmon Bycatch Mitigation Measures

In December 2017, NMFS completed an Endangered Species Act (ESA) consultation on the continued implementation of the PCGFMP and published a Biological Opinion (see ADDRESSES). The components of this Biological Opinion are described in the proposed rule (83 FR 47416, September 19, 2018). This final rule includes four actions related to the mitigation of salmon bycatch in the groundfish fisheries. The first action removes the Ocean Salmon Conservation Zone provision from the regulations because it is an ineffective measure for mitigating salmon bycatch in midwater trawl fisheries.

The second action creates a new bycatch reduction area (BRA) (a depth-based management provision) at the 200-fm (366-m) depth contour. The Council and NMFS monitor the salmon bycatch rates of the fleet inseason. If any midwater trawl sector's bycatch rates exceed those considered in the Biological Opinion, the Council and NMFS can take inseason action to implement the BRA for any of the midwater trawl sector. The groundfish midwater trawl sectors subject to this area closure are the Pacific whiting IFQ fishery, the catcher/processor (C/P) sector, and the mothership sector as well as the non-whiting midwater trawl sector, which primarily targets widow rockfish and yellowtail rockfish. If the Council and NMFS implements the 200-fm (366-m) BRA during a fishing season, vessels would be prohibited from using midwater trawl gear to target either whiting or non-whiting groundfish in waters shoreward of the 200-fm (366-m) depth contour, but would still be allowed to fish in waters seaward of 200-fm (366-m). This action only applies to non-tribal midwater trawl vessels. NMFS expects that the Tribes may implement area management measures to mitigate salmon bycatch, if necessary.

The third action closes the Columbia River Salmon Conservation Zone (CRSCZ) and the Klamath River Salmon Conservation Zone (KRSCZ) to all midwater trawling and to bottom trawling, unless vessels are using a selective flatfish trawl (SFFT). Vessels are currently prohibited from fishing with midwater trawl gear in both areas. This final action maintains the prohibition on bottom trawling in these areas without SFFT, which is currently included under a blanket requirement that groundfish trawl vessels use SFFT gear shoreward of the trawl RCA north of 40°10′ N lat. Both the CRSCZ and KRSCZ are located inside this area. NMFS proposed removing this blanket requirement in a rule published on September 7, 2018 (83 FR 45396), and anticipates publishing a final rule removing the requirement in time for the start of the groundfish fishing year. This final rule reestablishes the SFFT requirement inside the CRSCZ and KRSCZ.

The fourth action creates a provision in the regulations to give NMFS automatic authority to close either or both of the whiting and non-whiting sector fisheries if: (1) Either sector catches its guideline limit and the reserve amount; or (2) either sector reaches its guideline limit when the other sector has already taken the reserve amount. The guideline limit for the whiting sector (including tribal and non-tribal vessels in the mothership, catcher/processor (C/P), and Shoreside whiting fleets) is 11,000 Chinook salmon. The guideline limit for the non-whiting sector (including tribal and non-tribal vessels in the Shoreside trawl, fixed gear, and recreational fleets) is 5,500 Chinook salmon. The reserve amount of Chinook is 3,500 fish. This provision includes only select recreational fisheries that are not accounted for in pre-season salmon modeling. The recreational fisheries not accounted for in pre-season salmon modeling are those occurring outside of the open salmon seasons and the Oregon longleader fishery. Any Chinook salmon bycatch in these fisheries must be attributed to the non-whiting threshold, and these fisheries are subject to potential closures. Chinook salmon bycatch from each fishery accrues to the larger sector (i.e., whiting or non-whiting) level.

As described in the proposed rule, access to the Reserve for additional Chinook salmon bycatch above the sector's guideline limit is not guaranteed. However, if one sector surpasses its guideline limit, it may be allowed to continue fishing, with additional salmon bycatch accounted for within the Reserve. Under such a scenario, if the sector's bycatch reached the Reserve limit, all fisheries within that sector would be subject to an automatic closure. If one sector is allowed to take the Reserve in a given calendar year, then the other sector, upon reaching its guideline limit, would be subject to an automatic closure rather than potentially being able to access the Reserve. Under the regulations for automatic actions at § 660.60(d), a closure notice would be published in the Federal Register and be effective immediately for all fisheries within either or both of the whiting or non-whiting sectors. NMFS waives notice and comment under the Administrative Procedure Act if good cause exists. The closure would be effective until the end of the fishing year on December 31. However, the Council and NMFS intend to use other available tools, including area management tools, to help manage salmon bycatch before either sector's catch reaches or exceeds the guideline limits to avoid either sector being closed for the remainder of the fishing year.

Modifications to Depth Restrictions Within the Western CCA

This final rule modifies the allowed fishing depths from 20-fm (37-m) to 40-fm (73-m) for the commercial fixed gear fishery and the recreational fishery inside the Western Cowcod Conservation Area (CCA). This rule also adds new waypoints approximating the 30-fm (55-m) and 40-fm (73-m) depth contours around Santa Barbara Island, San Nicolas Island, Tanner Bank, and Cortes Bank because waypoints approximating these contours do not exist at these depths currently. Fisheries are allowed to operate in areas shallower than the depth limit. This final rule increases the area open to fishing within the Western CCA from 40.4 mi² (104.6 km ²) to 150.4 mi ² (389.5 km ²).

Modification of Lingcod and Sablefish Discard Mortality Rates

This rule implements lower discard mortality rates (DMRs) for lingcod and sablefish used to debit IFQ accounts in the Shorebased IFQ Program to match the rates the Council's Scientific and Statistical Committee (SSC) endorsed for use in stock assessments and that WCGOP uses for year-end groundfish catch accounting. By providing IFQ participants with discard survival credits for lingcod and sablefish, this rule will better meet some of the objectives of the IFQ program, such as increased attainments of and increased value of IFQ stocks like Dover sole and thornyheads. The DMRs in Table 17 reflect the best scientific information available and will replace the current DMRs of 100 percent.

Table 17—Discard Mortality Rates for Lingcod and Sablefish
Stock | Gear | DMR (%)
Lingcod | Bottom trawl | 50
| Fixed gear ᵃ | 7
Sablefish | Bottom trawl | 50
| Fixed gear ᵃ | 20
ᵃ Applies to both pot and hook and line gear.

This rule is expected to result in a minimal increase (about 1 percent) in total coastwide IFQ mortality of sablefish (see Section C.5 of Appendix C of the Analysis). The resulting “savings” of trawl sablefish could possibly increase landings of co-occurring, underattained stocks such as Dover sole, shortspine thornyheads, and longspine thornyheads (see Section C.5 of Appendix C of the Analysis).

Removal of IFQ Daily Vessel Limits

Under the Shorebased IFQ Program, vessel limits in vessel accounts restrict the amount of quota pounds (QPs)—the annual currency of quota shares—that any vessel can catch or hold. NMFS calculates annual QP vessel limits, which are a set percentage of the total IFQ sector allocation based on formulas set through Amendment 20 to the PCGFMP. The annual vessel QP limit restricts the amount of used and unused QP in a vessel account during a fishing year.

NMFS also sets daily vessel limits for overfished stocks, which cap the amount of overfished stock QPs any vessel account can have available in their account on a given day. The Council and NMFS established daily vessel limits to prevent a person from acquiring additional QP from others before those QP are needed in order to promote trading of QP of overfished species. As explained in the proposed rule (83 FR 47416, September 19, 2018), the daily vessel limit has been ineffective for keeping catch available for trading, so this rule eliminates the daily limits for all stocks (bocaccio (south), darkblotched rockfish, and Pacific ocean perch, cowcod (south), yelloweye rockfish, and Pacific halibut). Because the daily limits for the remaining overfished stocks and for Pacific halibut have not been constraining, NMFS expects that eliminating this provision will not have a measurable effect on the fishery.

Removal of Automatic Authority for Darkblotched Rockfish and Pacific Ocean Perch (POP) Set-Asides for At-Sea Sector

This rule removes NMFS's automatic authority to close either at-sea sector (C/P and MS sectors) if they exceed their set-aside value for these stocks so that they are managed like all other at-sea set-asides in the PCGFMP. The Analysis demonstrates that the expected risk of the at-sea sectors exceeding their set-aside values for darkblotched rockfish and Pacific ocean perch is low due to low overall attainment in the trawl sector in recent years.

Continuation of Adaptive Management Pass Through

This rule clarifies that NMFS will continue to pass through the QP reserved for the adaptive management program until the Council recommends an alternative use of adaptive management program QP. This is an administrative measure that will not affect fishing opportunity and related catch.

Modification of the Incidental Lingcod Retention Ratio in the Salmon Troll Fishery

This rule modifies the incidental retention ratio for landing lingcod based on the number of Chinook landed in the ocean salmon troll fishery in the area north of 40° 10′ N latitude from a 1 to 15 fish ratio to a 1 to 5 fish ratio. Vessels are also allowed to retain an additional lingcod per trip, up to a trip limit of 10 lingcod. The purpose of the ratio is to allow salmon trollers to retain incidentally caught lingcod, but to discourage lingcod targeting within the nontrawl RCA. Vessels participating in the ocean salmon troll fishery must be equipped with a vessel monitoring system (VMS) to retain incidentally caught groundfish. The Council can adjust the ratio of lingcod retention per Chinook landed through inseason adjustments, if necessary. NMFS does not expect this rule will create an incentive for salmon trollers to target lingcod because these vessels are still restricted to an overall limit of 10 lingcod per trip.

Administrative Actions

NMFS also implements four minor changes to the regulatory text through this final rule to clarify regulatory intent. NMFS will add big skate to the LEFG and OA fixed gear fisheries trip limit tables, Table 2 North and Table 2 South to part 660, subpart E, and Table 3 North and Table 3 South to part 660, subpart F. Big skate is not currently listed in the trip limit table for either the LEFG or OA fisheries, and as such is unlimited.

This rule also removes an obsolete reference to halibut weight provisions off of California at § 660.333(c)(3). California Department of Fish and Wildlife removed this provision from state regulations in 2004.

This rule clarifies the application of Amendment 21-3 set-aside management of darkblotched rockfish and Pacific ocean perch for the at-sea sector for both years of the biennium in Tables 1b, 2b, 1d, and 2d to part 660, subpart C.

Finally, this action removes the WCGOP priority sampling requirement for canary rockfish and bocaccio, formerly overfished stocks that were declared rebuilt, as requested by the Council at its March 2017 meeting. As a result of this change, observers are no longer required to count and weigh these fish on a docked vessel prior to offloading.

III. Response to Comments

NMFS received eight unique comment letters during the public comment period on the proposed rule. Three state agencies submitted comments, including the Washington Department of Fish and Wildlife (WDFW), the California Department of Fish and Wildlife (CDFW), and the Oregon Department of Fish and Wildlife (ODFW). The letters from the state agencies included requests for clarifications on information included in the preamble to the proposed rule and noted several small errors or inconsistencies in the proposed regulations. NMFS has addressed those in separate sections, “Corrections to the Preamble of the Proposed Rule” and “Changes from the Proposed Rule.” The other five comment letters, one of which was a duplicate, were from private citizens and contained substantive comments. NMFS addresses these comments below.

Comment 1: Three private citizens commented in support of the proposed rule, noting the importance of marine life and the belief that this proposed rule will be beneficial for conserving fish stocks. One commenter stated that the rule protects our oceans for the future and that, without regulations, fishing could have negative effects on the environment.

Response: NMFS agrees, and is implementing the proposed measures with this final rule. The final rule appropriately balances NMFS's duties under the Magnuson-Stevens Act to conserve marine resources while simultaneously creating opportunities to achieve optimum yield.

Comment 2: NMFS should consider tighter control over trawl salmon bycatch because a 20,000 fish Chinook salmon limit rewards the trawl industry at the expense of the dedicated ocean salmon fisheries and does not give adequate protection to ESA-listed salmon species. There should be strict penalties, such as a monetary penalty or revocation of quota, for the groundfish trawl sector and individual vessels that take too much salmon in “lightning strike” tows.

Response: NMFS agrees that controlling and limiting salmon impacts from the groundfish fishery is important under both the Magnuson-Stevens Act and the ESA. The analysis in the Biological Opinion predicted that the operation of the groundfish fishery would result in bycatch of no more than 20,000 Chinook. The analysis also concluded this level of take was not likely to jeopardize the continued existence of any of the ESA-listed salmon species covered under the Biological Opinion.

All Chinook salmon catch, including “lightning strike” tows, counts towards the 20,000 Chinook bycatch limit. This rule gives NMFS the automatic authority to close the whiting or non-whiting sectors for the remainder of the fishing year if either exceed their salmon bycatch guideline limit and/or the reserve. Closing either sector for the duration of the fishing year is a severe penalty that, as described in the preamble to the proposed rule, would result in significant economic harm to fishing vessels and fishing communities (83 FR 47416, September 19, 2018). Additionally, the reserve is not guaranteed to be available for either sector. Under the terms and conditions of the Biological Opinion, if either sector's bycatch exceeds their guideline limit, and any portion of the reserve is caught in more than three out of every five years, NMFS is required to reinitiate an ESA consultation to reevaluate the impacts of the groundfish fishery on ESA-listed salmon species. The automatic closure requirement and the potential for reinitiation mean that, in effect, the groundfish fisheries are held to lower limits than the 20,000 Chinook salmon total fishery limit.

This rule also includes a new area management tool, the 200-fm (366 m) BRA, for NMFS and the Council to use to address high bycatch in the midwater trawl fleet. The midwater trawl fleet has historically taken the greatest number of Chinook as bycatch; therefore, this new tool will be beneficial in addressing the bycatch issue where it is most prominent.

Finally, term and condition 2.b. of the December 2017 Biological Opinion also recommend that the Council develop additional management measures it deems are necessary for timely inseason management to keep the sectors from exceeding their salmon bycatch guidelines. The Council is scheduled to discuss and potentially develop additional inseason bycatch measures in a separate action outside of this rulemaking. The first discussion of these measures will take place at the November 2018 Council meeting. Additional inseason management tools could provide more flexibility for NMFS and the Council to further reduce salmon bycatch in the groundfish fisheries.

Comment 3: A private citizen commented that the 20,000 Chinook salmon total fishery limit for the operation of the groundfish fishery is more Chinook than is landed in the ocean commercial and recreational salmon fisheries each year. The salmon industry can never rebound if another fishing sector is allowed to take salmon with little penalty.

Response: The commenter suggests the 20,000 Chinook salmon total fishery limit is more Chinook than is landed in the ocean commercial and recreational salmon fisheries each year. This statement is incorrect. While ocean salmon fisheries have been constrained in recent years, coastwide directed salmon fisheries land substantially more Chinook salmon than are as bycatch in the groundfish fisheries each year. The Council's Review of 2017 Ocean Salmon Fisheries (https://www.pcouncil.org/wp-content/uploads/2018/02/Review_of_2017_Ocean_Salmon_Fisheries_18Final.pdf) showed coastwide commercial troll and ocean recreational landings of Chinook salmon were 212,606 fish in 2016 and 184,331 fish in 2017. Salmon harvest in ocean salmon fisheries in recent years is approximately 10 times higher than the maximum allowed to be taken in the groundfish fishery. Moreover, actual Chinook salmon bycatch in the groundfish fishery has been substantially below 20,000 salmon. As described in the response to Comment 2 above, NMFS is committed to reducing salmon bycatch in the groundfish fishery in order to limit negative impacts on ESA-listed salmon species. Limiting salmon bycatch in groundfish fisheries is also beneficial to the salmon directed fisheries. NMFS manages both directed and incidental salmon catch levels to control catch of ESA-listed species, and controlling ESA-listed salmon catch in both the directed salmon and groundfish fisheries contributes to recovery efforts.

Comment 4: CDFW supports the proposed cowcod harvest specifications, including an ACT of 6 mt, to provide more flexibility to allow continued and expanded research activities to inform future assessments and stability for fisheries. CDFW also supports the change in depth restrictions for commercial and recreational fisheries within the Cowcod Conservation Area (CCA). CDFW also strongly supports the yelloweye rockfish rebuilding plan changes and higher ACLs to prevent the economic losses experienced by restricted or closed fishing opportunities.

Response: NMFS agrees, and is implementing the measures from the proposed rule in this final action.

Comment 5: CDFW states that Federal regulations at § 660.330(a) need to be updated because they list canary rockfish as a species for which retention is prohibited in open access fishery coastwide. CDFW notes that vessels have been permitted to retain this species since 2017.

Response: The regulations at § 660.330(a) state that only cowcod and yelloweye rockfish are prohibited species coastwide in the open access fishery. Canary rockfish is not listed as a prohibited species in this section, and these regulations are consistent with canary rockfish trip limits.

Comment 6: CDFW recommends that bronzespotted rockfish be listed in § 660.230(a) because vessels are not permitted to retain this species south of 40°10′ N lat.

Response: Section 660.230(a) applies to coastwide limited entry fishery management measures. Listing bronzespotted rockfish as a prohibited species in this paragraph would not be appropriate because vessels are permitted to retain bronzespotted rockfish in open times and areas north of 40°10′ N lat. Bronzespotted rockfish retention prohibitions (closures) are listed in trip limit Table 2 (South), subpart E.

IV. Clarifications and Corrections to the Preamble of the Proposed Rule

NMFS received comment letters from CDFW, WDFW, and ODFW noting inaccuracies in information presented in the preamble to the proposed rule. NMFS offers the following corrections in this final rule. These clarifications and corrections to the information described in the preamble to the proposed rule do not change the substance or intent of the final rule.

In the proposed rule preamble under Section I (A): Specification and Management Measure Development Process, NMFS erroneously stated that the NWFSC conducted a full stock assessment for blue/deacon rockfish off of Washington in 2017. However, the NWFSC only conducted full stock assessments in 2017 for blue/deacon rockfish stocks off of Oregon and California. Additionally, NMFS stated that the NWFSC conducted eight stock assessment updates, but only listed updates for four stocks. The NWFSC did conduct assessments in 2017 for the four stocks listed in the proposed rule, and the statement should have said that the 2017 assessment updates were only for the four stocks. The following paragraph is the correct information for stock assessments conducted in 2017 for the purposes of determining OFLs, ABCs, and ACLs for the 2019-2020 fishing years.

The Northwest Fisheries Science Center (NWFSC) conducted full stock assessments in 2017 for the following stocks: Blue/deacon rockfish (CA, OR), California scorpionfish, lingcod [north and south], Pacific ocean perch, yellowtail rockfish north of 40°10′ N lat., yelloweye rockfish. Additionally, the NWFSC conducted assessment updates, which incorporate new data into existing models, for four stocks (arrowtooth flounder, blackgill rockfish south of 40°10′ N lat., bocaccio S of 43° N lat., darkblotched rockfish). The NWFSC did not update assessments for the remaining stocks, so harvest specifications for these stocks are based on assessments from previous years. The stock assessment reports are available on the Council website (https://www.pcouncil.org/).

Public comments from CDFW and WDFW pointed out that the description in Table 1 of the preamble to the proposed rule of the proposed change for the harvest control rule for lingcod north of 40°10\′ N latitude erroneously stated that in addition to changing the P* value for the California portion of the stock (from 0.40 to 0.45), that the assumptions of ACL attainment were also modified. However, both the harvest control rule in place prior to this final rule and the harvest control rule implemented through this final rule assumed a total catch in 2017 and 2018 of 1,000 mt, and then used an average 2015-2017 exploitation rate to distribute catches among the fisheries.

In Section II: Harvest Specifications, B. Proposed ABCs for 2019 and 2020, WDFW pointed out that NMFS failed to include lingcod south of 40°10' N latitude in the list of category two and three stocks for which the Council selected a P* other than 0.4. As was noted in Table 1 of the preamble in the proposed rule, the Council selected a P* of 0.45 for lingcod south of 40°10′ N latitude.

In Section III: Management Measures, B. Stock Complex Restructuring, WDFW noted in their comment letter that NMFS's description of the proposed stock complex change to create a new stock complex with Washington cabezon and Washington kelp greenling did not accurately capture the most recent make-up of that stock complex. The references to ratfish, skates, codling, and grenadier as being part of the Other Fish complex were inaccurate; those stocks were removed from the complex through Amendment 24 to the FMP (80 FR 12567; March 10, 2015). Prior to this final rule, the following stocks were managed under the Other Fish complex: Kelp greenling (Hexagrammos decagrammus), leopard shark (Trakis semifasciata), and cabezon (Scorpaenichthys marmoratus) in waters off Washington. This final rule removes the portion of the kelp greenling stock off Washington and cabezon off Washington from this complex and places them in a new complex together. A separate action under this final rule removes the portion of kelp greenling off Oregon and groups that with Oregon cabezon to create a new complex. As a result of the changes in this final rule, beginning in the 2019 fishing year, the stocks managed under the Other Fish complex are: Kelp greenling (Hexagrammos decagrammus) off California and leopard shark (Trakis semifasciata).

In Section B: Stock Complex Composition Restructuring, in response to CDFW and ODFW comments, NMFS clarifies that the new Oregon black/blue/deacon rockfish complex only includes Oregon blue/deacon rockfish north of 42° N latitude, which is the border between Oregon and California, rather than north of 40°10′ N latitude. The species managed in the minor nearshore rockfish complex off Washington and California are not revised with this rule. This clarification is also made in regulations, and is further described in Changes from the Proposed Rule.

CDFW also noted that in Section C, Table 9 of the preamble to the proposed rule incorrectly transposed the labels for 2019 and 2020. The cowcod allocation is 36 percent of the fishery HG for the trawl fishery, or 2.2 mt, and is 64 percent of the fishery HG for the non-trawl fishery is, or 3.8 mt. The allocations in Tables 1b and 1b to subpart C listed the cowcod allocations correctly, and did not result in a change from the proposed rule.

CDFW requested clarifications regarding commercial non-trawl lingcod trip limit changes described in the preamble of the proposed rule. The text and Table 16 in the preamble mistakenly referenced lingcod trip limit reductions for limited entry fixed gear south of 40°10′ N lat. but changes are only for open access fisheries in this area. The limited entry fixed gear trip limits for lingcod south of 40°10′ N lat. shown in Table 16 were incorrectly reduced, but are correct (and unchanged from current limits) in Table 2 (South) to subpart E regulations.

WDFW requested a clarification on information in the preamble to the proposed rule referenced statements in Section C: Biennial Fishery Allocations: Minor Nearshore Rockfish. The paragraph mentions that under state management, vessels must record their landings on their state landing receipts according to the sorting requirements; which include sorting component stocks within the Minor Nearshore Rockfish complex by stock. However, Washington does not have a commercial nearshore fishery. Therefore, the statement should note that only states for which there are commercial nearshore fisheries require that catch of component stocks within the Minor Nearshore Rockfish complex be sorted by stock.

In Section H: Recreational Fisheries, in the Washington section, the proposed rule erroneously states that Marine Area 4 extends to the Sekiu River. However, for federally-managed groundfish stocks, Marine Area 4 only includes coastal waters west of the Bonilla-Tatoosh line at Cape Flattery. NMFS notes the correction. This means that all of the changes to the lingcod season structure that align harvests in Marine Area 4 with Marine Areas 1-3 apply to only the coastal waters west of the Bonilla-Tatoosh line at Cape Flattery, in addition to the correctly described waters in Marine Areas 1-3.

Additionally, in Section H: Recreational Fisheries, in the Washington section, the proposed rule explains that retention of yellowtail and widow rockfish would be allowed in Marine Areas 3 and 4 seaward of 20 fms in July and August. In a comment letter, WDFW requests a clarification to explain that yellowtail and widow rockfish retention will be allowed in these areas, seaward of 20 fms, on days open to recreational salmon fishing during the months of July and August.

Under Section H: Recreational Fisheries, in the California section, CDFW noted the discrepancy between preamble text stating that the proposed rule would allow year-round retention of California scorpionfish in all management areas. As is correctly set out in the proposed rule at 50 CFR 660.360(c)(3)(v)(A), California scorpionfish will only be open year-round in the Southern Management Area (South of 34°27′ N lat.).

Under Section I: Salmon Bycatch Mitigation Measures of the proposed rule preamble, NMFS incorrectly stated that the Council estimated coho catch in the whiting and non-whiting groundfish fisheries for purposes of the Biological Opinion. While the Council provided an estimate of Chinook bycatch for the proposed action, it did not similarly discuss coho bycatch. In the Biological Opinion, NMFS estimated the bycatch of coho in the whiting and non-whiting sectors based on historical mortalities and assumptions about coho bycatch in newer fisheries, such as the Oregon long-leader fishery. This is because a biological opinion must analyze the proposed action's expected take of listed species. Additionally, for the purposes of clarity requested by CDFW, NMFS notes that under this final rule, tribal bycatch of Chinook and coho in the whiting fishery accrues to the whiting sector bycatch guideline limits for each species and similarly, tribal bycatch of Chinook and coho in the non-whiting fishery accrues to the non-whiting sector's bycatch guideline limits for each species.

The comment letter from WDFW also points out an incorrect statement under Section L: Removal of IFQ Daily Vessel Limits. In this section, NMFS stated that NMFS also sets daily vessel limits for overfished stocks. That statement should have read, NMFS also sets daily vessel limits for overfished stocks and for Pacific halibut. Pacific halibut is not an overfished stock, but is managed as bycatch in the Shorebased IFQ fisheries. NMFS correctly states later in the section that the proposed rule would remove the daily vessel limit for Pacific halibut.

In Section M: Removal of Automatic Authority for Darkblotched Rockfish and Pacific Ocean Perch Set-Asides for At-Sea Sector, WDFW pointed out inconsistencies in the description of how the current set-aside structure was created. The final rule for the 2017-2018 harvest specifications and management measures (82 FR 9634, February 7, 2017) created the buffer originally, and then under Amendment 21-3 to the PCGFMP (83 FR 757, January 8, 2018), the portion of the harvest of each of these stocks for the at-sea sector was changed from an allocation to a set-aside. This final rule removes NMFS's automatic authority to shut down the sector if the set-aside is exceeded.

Under the description of the lingcod retention ratio in the salmon troll fishery in Section O of the proposed rule, NMFS further clarifies in response to WDFW's comment letter that under the revised lingcod retention ratio, salmon troll vessels are still subject to the monthly open access lingcod trip limits. This information is noted in the current regulations in Table 3 (North) to part 660, subpart F, however was not explicitly stated in the preamble to the proposed rule. Under this final rule, any salmon troll vessels seeking to retain incidentally-caught lingcod are subject to the revised ratio (1 lingcod per 5 Chinook per trip, plus 1 lingcod per trip), the vessel trip limit (10 lingcod), and then the current monthly lingcod trip limit noted in the table.

V. Changes From the Proposed Rule

As a result of comments received on the proposed rule, NMFS is making the following changes to the proposed rule. During the process of reviewing the information in the proposed rule, the Council determined that there was a calculation error for the ABC, ACL, HG and subsequent trawl and non-trawl allocations for yellowtail rockfish N of 40°10′ N lat. This error in calculation was the result of the application of an incorrect sigma (σ) value to the OFL for this stock, based on the stock category. Under the Council's procedure for developing harvest specifications, the SSC recommends a σ value. The σ value is based on the scientific uncertainty in the biomass estimates generated from stock assessments. The SSC determined that the Yellowtail rockfish N of 40°10′ N lat. is a category 1 stock and should have the standard sigma value of 0.36 applied. However, in calculating the ABC and ACL for yellowtail rockfish N of 40°10′ N lat, the Council inadvertently used a sigma value of 0.72, which is the sigma value for category 2 stocks. The proposed rule incorrectly stated that the ABC and ACL for yellowtail rockfish N of 40°10′ N lat. for 2019 was 5,997 mt and the HG was 4,952 mt. For 2020, the proposed rule stated the ABC and ACL was 5,716 mt and the HG was 4,671 mt. After making the correction, the resulting ABC and ACL for yellowtail rockfish N of 40°10′ N lat. for 2019 is 6,279 mt, with an HG of 5,234 mt, and for 2020 an ABC and ACL of 5,986 mt, with an HG of 4,941 mt. This results in a 2019 trawl allocation of 4,605.8 mt and 628.1 mt for non-trawl, and an allocation of 4,305.8 mt to the Shorebased IFQ Program. For 2020, the yellowtail rockfish N of 40°10′ N lat. trawl allocation is 4,348.0 mt and the non-trawl allocation is 592.9 mt. The 2020 Shorebased IFQ allocation is 4,048.0 mt. All other allocations of yellowtail rockfish N of 40°10′ N lat. are unchanged from those announced in the proposed rule.

In 50 CFR 660.360(c)(1)(i)(D)(2), NMFS erred in not deleting a closure clause from the recreational fishing season for lingcod in Marine Area 2. This closure clause conflicted with another portion of that paragraph that correctly noted that the lingcod season will be open the second Saturday in March through the third Saturday in October under this final rule. This minor change to the regulations implemented through this final rule is an obvious extension of the Council intent for this action.

In response to a comment from ODFW, at 50 CFR 660.11, in the definition of “groundfish”, this final rule makes clarifications to reflect the new stock complex compositions off Oregon for black/blue/deacon rockfishes. This final rule clarifies that the minor nearshore rockfish complex stock composition off Washington and California are unchanged.

For the Minor Slope Rockfish complex south of 40°10′ N latitude, the 2019 Shorebased trawl allocation was listed incorrectly in 50 CFR 660.140(d)(1)(ii)(D) as 1,049.1 mt. The 2019 Shorebased Trawl allocation is 456.0 mt. This value was listed correctly as the trawl allocation in Table 1b to part 660, subpart C. Because there is no allocation of this species complex to the at-sea sector, the entire trawl allocation is passed through as the Shorebased trawl allocation. This final rule corrects that inconsistency.

In response to CDFW's comments regarding the California recreational fishery, this final rule revises season date changes for the recreational fishery. The updated season dates for the recreational RCA (50 CFR 660.360(c)(3)(i)(A)) and California scorpionfish (§ 660.360(c)(3)(v)(A)) were correct in the proposed rule. However, updated season dates for the other recreational groundfish species groups were mistakenly omitted. This final rule corrects that inconsistency by revising the season dates for the rockfish, cabezon and greenling (RCG) complex (§ 660.360(C)(3)(ii)(A)), lingcod (§ 660.360(C)(3)(iii)(A)), and California scorpionfish (§ 660.360(C)(3)(v)(A)).

Finally, at its November 2018 meeting, the Council recommended changes to the trip limits for the open access fisheries north of 36° N latitude for sablefish, and for the fisheries north and south of 40°10′ N latitude for canary rockfish. Additionally, the Council recommended changes to the trip limit for the limited entry fixed gear fisheries north of 36° N latitude for sablefish. All changes are to increase trip limits as a result of updated catch data that show lower than projected attainment for these stocks in the most recent fishing season. As a result, trip limits can be raised to allow for full attainment of the HG for both of these stocks in 2019. These changes were made under the inseason action process and are incorporated into this rule for implementation for the 2019 fisheries. Because these trip limits are within the range of what was previously analyzed, they are a minor, routine adjustment to the management measures for the 2019 groundfish fisheries.

VI. Classification

Pursuant to sections 304(b)(1)(A) and 305(d) of the Magnuson-Stevens Act, the NMFS Assistant Administrator has determined that this rule is consistent with the FMP, other provisions of the Magnuson-Stevens Act, and other applicable law.

NMFS finds good cause to waive the 30-day delay in effectiveness pursuant to 5 U.S.C. 553(d)(3), so that this final rule may become effective on January 1, 2019. This action establishes the final specifications (i.e., annual catch limits) for the Pacific Coast groundfish fisheries for the 2019 fishing year, which begins on January 1, 2019. If this final rule is not effective on January 1, 2019, then the fishing year begins using the catch limits and management measures from 2018.

Because this final rule increases the catch limits for several species for 2019, leaving 2018 harvest specifications in place could unnecessarily delay fishing opportunities until later in the year, potentially reducing the total catch for these species in 2019. Thus, a delay in effectiveness could ultimately cause economic harm to the fishing industry and associated fishing communities or result in harvest levels inconsistent with the best available scientific information. For example, due to the improved status of yelloweye rockfish, the Council recommended significant changes in catch limits and management measures for a number of sector of the fishery, including higher trip limits for the limited entry fleets, reductions in depth limit restrictions for the recreational fisheries, and more quota pounds for the Shorebased IFQ fishery. This measure provides for a year-round opportunity to access underutilized target stocks. In effect, because this final rule implements higher catch limits for many species than are in effect for 2018, this final rule relieves a restriction on the fishing industry.

This final rule is not unexpected or controversial for the public. The groundfish harvest specifications are published biennially and are intended to be effective on January 1 of odd numbered years. Additionally, the subject of this final rule has been developed over a series of six public meetings of the Pacific Fishery Management Council from June 2017 to June 2018. These meetings are publicly noticed and the public is provided opportunity to comment on actions through this venue as well as through rulemaking.

Because of the potential harm to fishing communities that could be caused by delaying the effectiveness of this final rule and because of the previous notification to the regulated public of these changes through the Council process, NMFS finds there is good cause to waive the 30-day delay in effectiveness.

NMFS prepared an integrated analysis for this action, which addresses the statutory requirements of the Magnuson-Stevens Act, the National Environmental Policy Act, Presidential Executive Order 12866, and the Regulatory Flexibility Act. The NMFS WCR Regional Administrator concluded in a “Finding of No Significant Impact” that there will be no significant impact on the human environment as a result of this rule. A copy of the integrated analysis is available from NMFS (see ADDRESSES). The Office of Management and Budget has determined that this action is not significant for purposes of Executive Order 12866.

NMFS prepared a final regulatory flexibility analysis (FRFA) under section 603 of the Regulatory Flexibility Act (RFA), which incorporates the initial regulatory flexibility analysis (IRFA). A summary of any significant issues raised by the public comments in response to the IRFA, and NMFS's responses to those comments, and a summary of the analyses completed to support the action are addressed below. NMFS also prepared a Regulatory Impact Review (RIR) for this action. A copy of the RIR and FRFA are available from NMFS (see ADDRESSES), and per the requirements of 5 U.S.C. 604(a), the text of the FRFA follows:

Final Regulatory Flexibility Analysis

As applicable, section 604 of the Regulatory Flexibility Act (RFA) requires an agency to prepare a final regulatory flexibility analysis (FRFA) after being required by that section or any other law to publish a general notice of proposed rulemaking and when an agency promulgates a final rule under section 553 of Title 5 of the U.S. Code. The following paragraphs constitute the FRFA for this action.

This FRFA incorporates the Initial Regulatory Flexibility Analysis (IRFA), a summary of any significant issues raised by the public comments, NMFS's responses to those comments, and a summary of the analyses completed to support the action. Analytical requirements for the FRFA are described in the RFA, section 604(a)(1) through (6). FRFAs contain:

1. A statement of the need for, and objectives of, the rule;

2. A statement of the significant issues raised by the public comments in response to the IRFA, a statement of the assessment of the agency of such issues, and a statement of any changes made in the proposed rule as a result of such comments;

3. The response of the agency to any comments filed by the Chief Counsel for Advocacy of the Small Business Administration (SBA) in response to the proposed rule, and a detailed statement of any change made to the proposed rule in the final rule as a result of the comments;

4. A description and an estimate of the number of small entities to which the rule will apply, or an explanation of why no such estimate is available;

5. A description of the projected reporting, recordkeeping, and other compliance requirements of the rule, including an estimate of the classes of small entities which will be subject to the requirement and the type of professional skills necessary for preparation of the report or record; and

6. A description of the steps the agency has taken to minimize the significant economic impact on small entities consistent with the stated objectives of applicable statutes, including a statement of the factual, policy, and legal reasons for selecting the alternative adopted in the final rule and why each one of the other significant alternatives to the rule considered by the agency which affect the impact on small entities was rejected.

The “universe” of entities to be considered in a FRFA generally includes only those small entities that can reasonably be expected to be directly regulated by the action. If the effects of the rule fall primarily on a distinct segment of the industry, or portion thereof (e.g., user group, gear type, geographic area), that segment will be considered the universe for purposes of this analysis.

In preparing a FRFA, an agency may provide either a quantifiable or numerical description of the effects of a rule (and alternatives to the rule), or more general descriptive statements, if quantification is not practicable or reliable.

Need for and Objective of This Final Rule

The purpose of this final rule is to prevent overfishing, to rebuild overfished stocks, to ensure conservation, to facilitate long-term protection of essential fish habitat (EFH), and to realize the full potential of the nation's fishery resources (Magnuson-Stevens Act section 2(a)(6)). This final rule is needed to respond to new scientific information and information about the needs of fishing communities, to provide additional tools to ensure that annual catch limits (ACLs) and other Federal harvest guidelines (HGs) are not exceeded, and to afford additional fishing opportunities where warranted.

Summary of Significant Issues Raised During Public Comment

NMFS published the proposed rule for the 2019-2020 harvest specifications and management measures on September 19, 2018 (83 FR 47416). An IRFA was prepared and summarized in the Classification section of the preamble to the proposed rule. The comment period on the proposed rule ended on October 19, 2018. NMFS received eight comment letters on the proposed rule. The Chief Counsel for Advocacy of the SBA did not file any comments on the IRFA or the proposed rule. One comment was received pertaining to the IRFA, from CDFW, providing results of an analysis that changes the estimated number of vessels that may be impacted by a change in open access lingcod trip limits for vessels fishing in the salmon troll fishery between 42° N lat. and 40°10′ N lat. This information was updated for the FRFA below.

A Description and an Estimate of the Number of Small Entities to Which the Rule Will Apply

The RFA (5 U.S.C. 601 et seq.) requires government agencies to assess the effects that regulatory alternatives would have on small entities, defined as any business/organization independently owned and operated, not dominant in its field of operation (including its affiliates). A small harvesting business has combined annual receipts of $11 million ¹ or less for all affiliated operations worldwide.

¹ On December 29, 2015, the National Marine Fisheries Service (NMFS) issued a final rule establishing a small business size standard of $11 million in annual gross receipts for all businesses primarily engaged in the commercial fishing industry (NAICS 11411) for Regulatory Flexibility Act (RFA) compliance purposes only (80 FR 81194, December 29, 2015). The $11 million standard became effective on July 1, 2016, and after that date it is to be used in all NMFS rules subject to the RFA. Id. at 81194. This NMFS rule is to be used in place of the U.S. Small Business Administration's (SBA) current standards of $20.5 million, $5.5 million, and $7.5 million for the finfish (NAICS 114111), shellfish (NAICS 114112), and other marine fishing (NAICS 114119) sectors of the U.S. commercial fishing industry, respectively.

A small fish-processing business is one that employs 750 or fewer persons for all affiliated operations worldwide. NMFS is applying this standard to catcher/processors for the purposes of this rulemaking, because these vessels earn the majority of their revenue from selling processed fish.

For marinas and charter/party boats, a small business is one that has annual receipts not in excess of $7.5 million. A wholesale business servicing the fishing industry is a small business if it employs 100 or fewer persons on a full-time, part-time, temporary, or other basis, at all its affiliated operations worldwide.

For the purposes of this rulemaking, a nonprofit organization is determined to be “not dominant in its field of operation” if it is considered small under one of the following SBA size standards: Environmental, conservation, or professional organizations are considered small if they have combined annual receipts of $15 million or less, and other organizations are considered small if they have combined annual receipts of $7.5 million or less. The RFA defines small governmental jurisdictions as governments of cities, counties, towns, townships, villages, school districts, or special districts with populations of less than 50,000.

This final rule regulates businesses that participate in the groundfish fishery. This rule directly affects commercial vessels in the groundfish fisheries, trawl quota share (QS) holders and Pacific whiting catch history endorsed permit holders (which include shorebased whiting processors), tribal vessels, and charterboat vessels. Additionally, a provision of this final rule regulates commercial vessels in the salmon troll fleet.

To determine the number of small entities potentially affected by this rule, NMFS reviewed analyses of fish ticket data and limited entry permit data, information on charterboat, tribal, and open access fleets, available cost-earnings data developed by NWFSC, and responses associated with the permitting process for the Trawl Rationalization Program where applicants were asked if they considered themselves a small business based on SBA definitions. This rule primarily regulates businesses that harvest groundfish.

Charter Operations

There were an estimated 287 active Commercial Passenger Fishing Vessels (charter) engaged in groundfish fishing in California in 2017. In 2017, an estimated 49 charter boats targeted groundfish in Oregon. There is no Oregon license or tracking of “six pack” or party fishing vessel businesses that will also be impacted, however in one week in August 2017, there were 285 boat trips targeting recreational groundfish in Oregon, which would include the 49 charter vessels, and is an upper bound of such entities likely to be impacted in Oregon. Similarly in Washington, the number of party/charter vessels likely to be impacted by the rule was 182 in 2017. All 705 of these vessels are likely to be impacted by changes in recreational catch guidelines for groundfish in their respective states.

Commercial Vessels

Groundfish

Entities that are not registered as trusts, estates, governments, or non-profits are assumed to earn the majority of their revenue from commercial fishing. The definition above is used for 124 QS permit owners, who collectively received 76.5 percent of the QP issued in 2018. Limited entry groundfish vessels are required to self-report size across all affiliated entities; of the business who earn the majority of their revenue from commercial fishing, one self-reported as large. This entity owns four groundfish permits and one QS permit. 264 entities owning 376 permits self-reported as small. The average small entity owns 1.4 permits, with 30 small entities owning between 3-6 permits each. Open access groundfish vessel owners are assumed to earn the majority of their revenue from fishing and would thus fall into the SBA definition of small entities. 186 non-limited entry vessels harvested at least $10,000 worth of groundfish in 2017; these are likely to be impacted by this final rule. This number is likely an upper bound as some entities may own more than one vessel; however, these generally small operations are assumed to be independent entities; with the top three vessels having coastwide (including non-groundfish) revenues averaging $585,000. Median revenues were $37,000 per vessel.

In addition to benefits from increasing ACLs in the harvest specifications, several of the new management measures contained in the rule are likely to benefit vessels. Clarifications such as the stock complex restructuring and updates to Rockfish Conservation Area coordinates may streamline management burden for vessels. IFQ vessels are expected to benefit from the removal of daily vessel quota pounds, which did not appear to constrain operations but did account for some level of administrative burden for quota pound account managers. With the elimination of these limits, managers will have greater flexibility in moving and holding quota pounds for the remaining overfished species and halibut IBQ. These vessels and vessel account operators may also benefit somewhat from changes to the discard mortality rates in the IFQ program. Some of the non-trawl fixed gear vessels are expected to benefit by the modifications to the commercial depths inside the Western Cowcod Conservation area in California.

Salmon Trollers

This final rule primarily impacts entities in the groundfish fishery. However, one new management measure included the rule will likely benefit vessels primarily involved in the salmon troll fishery, through a modification in the incidental lingcod retention ratio in that fishery. This modification reflects the increased rate of lingcod encounters during declining Chinook salmon harvest seasons. This modification allows salmon trollers to retain and sell a larger number of lingcod caught incidentally when targeting salmon. The level of activity varies substantially, with trips ranging from 500 to over 5,500 in a year. The subsector of the fleet expected to benefit from the final rule is much smaller, as historically a small proportion has elected to land lingcod within the previously allowed limits. In order to land lingcod, the vessel would have to install VMS, which likely deters salmon trollers, among other factors. Thus, this provision of the final rule may impact between 14 to 133 vessels in California of the approximately 207 operating there if they choose to retain lingcod. These estimates are updated from the IRFA based on public comment from CDFW and the results of their analysis. In Oregon, between 7 and 85 trollers have landed lingcod, and in Washington between 10 and 17. This final rule is expected to have a small benefit to these 235 vessels, which landed lingcod on a median of 1-2 trips, with vessels in the 90th percentile landing lingcod on 5 trips annually. This small positive benefit is not expected to be a substantial impact, nor are the entities likely to be impacted a substantial number of the overall salmon troll fishery.

QS Owners

As the harvest specifications process determines the amount of QP available in the catch share (limited entry trawl permit Individual Fishing Quota) sector, this final rule will impact QS. Twenty-two non-whiting QS permit owners are estimated, based on holdings of first receiver permit affiliation in the non-public West Coast Region permits database, to be primarily engaged in seafood “product preparation and packaging.” According to the size standard defined above, three of the entities that own three of these permits are considered small. These small processing entities were issued 1.7 percent of the non-whiting QP issued in 2018. Some of these small processing entities also own groundfish permits, required on both catcher vessels and catcher processors, which would be regulated by this final rule; three small entities primarily engaged in seafood processing own two groundfish permits. Thirty groundfish vessel permits are owned by seven entities who are considered large both estimated independently using the definition above, as well as through ownership affiliation to self-reported size on groundfish permit and first receiver site license permits (self-reported using the definition above). Six of these seven large processing entities were issued 10.2 percent of the non-whiting QP issued in 2018 across sixteen QS permits.

Governmental Jurisdictions

According to the public IFQ Account database as of June 19, 2018, the City of Monterey owns QS of ten stocks. The U.S. Census estimates the population to be 28,454 as of July 1, 2017, so it would be considered a small governmental jurisdiction by the RFA standard above. The City of Monterey received 0.5 percent of the QP issued for 2018 according to the public IFQ Account database.

Not-for-Profits

According to the public IFQ Account database, six not-for-profit organizations own QS in the catch share program and would thus be impacted by the trawl sector allocation under this final rule. Five of these would be considered small by the definition above (2016 annual receipts as reported on IRS form 990 of $120-500 thousand dollars), and one large (self-reported fiscal year 2017 receipts of $1.1 billion). Collectively, the five small not-for-profit organizations received 7.2 percent of the non-whiting ² QP issued in 2018, and the large not-for-profit organization received 0.5 percent. The large not-for-profit organization also owned four limited entry trawl permits which would be impacted by the management measures of the rule.

² Whiting is issued annually through a separate rulemaking process resulting from international treaty negotiations, see 83 FR 22401 (May 15, 2018) for more information and 2018 allocations.

Small Trusts

Eleven personal or family trusts/estates owned QS permits and would thus potentially be impacted by the trawl sector allocation under this final rule. All of these are assumed to be smaller than the size standard above. Collectively, these eight small entities received 4.2 percent of the non-whiting QP issued for 2018.

Recordkeeping, Reporting, and Other Compliance Requirements

This rule does not modify existing recordkeeping or reporting requirements.

Description of Significant Alternatives to This Final Rule That Minimize Economic Impacts on Small Entities

In the event of a fishery closure under the Biological Opinion provisions included in this rule, the loss of revenue in groundfish fisheries would likely have a substantial negative impact on a significant number of small entities, an equal impact to all large entities in the fishery. However, such a closure is not anticipated by either analysts or industry, given historic catch levels and cooperative management structures with extensive inseason monitoring. Because these provisions are non-discretionary under the ESA, there are no significant alternatives to the rule that would minimize adverse economic impacts on small entities.

The Council did consider alternatives to the rule which would have had a lower level of benefits to small entities, the Council did not consider alternatives that would have had greater benefits to small entities as these would not have met several primary objectives of the rule (prevent overfishing, rebuild overfished stocks, ensure conservation).

Under No Action, the default harvest specifications and associated routine management measures would be implemented using best scientific information available to establish default harvest control rules for all groundfish stocks. The Council considered alternative specifications for California scorpionfish, lingcod north of 40°10′ N lat, and yelloweye rockfish. In each case, the Council selected the harvest control rule that resulted in the maximum benefits to both large and small directly regulated entities. Routine management measures are adjusted according to harvest specifications, which also impact the new management measures available for implementation.

Small Entity Compliance Guide

Section 212 of the Small Business Regulatory Enforcement Fairness Act of 1996 states that, for each rule or group of related rules for which an agency is required to prepare a final regulatory flexibility analysis, the agency shall publish one or more guides to assist small entities in complying with the rule, and shall designate such publications as “small entity compliance guides.” The agency shall explain the actions a small entity is required to take to comply with a rule or group of rules. As part of this rulemaking process, a small entity compliance guide (the guide) was prepared. Copies of this final rule are available from the West Coast Regional Office (see ADDRESSES), and the guide will be included in a public notice sent to all members of the groundfish email group. To sign-up for the groundfish email group, click on the “subscribe” link on the following website: http://www.westcoast.fisheries.noaa.gov/publications/fishery_management/groundfish/public_notices/recent_public_notices.html. The guide and this final rule will also be available on the West Coast Region's website (see ADDRESSES) and upon request.

Executive Order 13175

Pursuant to Executive Order 13175, this rule was developed after meaningful consultation and collaboration with tribal officials from the area covered by the PCGFMP. Under the Magnuson-Stevens Act at 16 U.S.C. 1852(b)(5), one of the voting members of the Pacific Council must be a representative of an Indian tribe with federally recognized fishing rights from the area of the Council's jurisdiction. In addition, regulations implementing the PCGFMP establish a procedure by which the tribes with treaty fishing rights in the area covered by the PCGFMP request new allocations or regulations specific to the tribes, in writing, before the first of the two meetings at which the Council considers groundfish management measures. The regulations at 50 CFR 660.324(d) further state, “the Secretary will develop tribal allocations and regulations under this paragraph in consultation with the affected tribe(s) and, insofar as possible, with tribal consensus.” The tribal management measures in this rule have been developed following these procedures. The tribal representative on the Council made a motion to adopt the non-whiting tribal management measures, which was passed by the Council. Those management measures, which were developed and proposed by the tribes, are included in this final rule.

List of Subjects in 50 CFR Part 660

Fisheries, Fishing, Reporting and recordkeeping requirements.

Dated: December 3, 2018.
Samuel D. Rauch, III,
Deputy Assistant Administrator for Regulatory Programs, National Marine Fisheries Service.

For the reasons set out in the preamble, 50 CFR part 660 is amended as follows:

PART 660--FISHERIES OFF WEST COAST STATES

1. The authority citation for part 660 continues to read as follows:

Authority: 16 U.S.C. 1801 et seq., 16 U.S.C. 773 et seq., and 16 U.S.C. 7001 et seq.

2. In § 660.11, in the definition of “Conservation area(s),” revise paragraph (1), and in the definition of “Groundfish,” revise paragraphs (6), (7)(i), and (9) to read as follows:

§ 660.11 General definitions.

* * * * *

Conservation area(s) * * *

(1) Groundfish Conservation Area or GCA means a geographic area defined by coordinates expressed in degrees latitude and longitude, wherein fishing by a particular gear type or types may be prohibited. Regulations at § 660.60(c)(3) describe the various purposes for which these GCAs may be implemented. Regulations at § 660.70 define coordinates for these polygonal GCAs: Yelloweye Rockfish Conservation Areas, Cowcod Conservation Areas, waters encircling the Farallon Islands, and waters encircling the Cordell Bank. GCAs also include Bycatch Reduction Areas (BRAs), and Rockfish Conservation Areas or RCAs, which are areas closed to fishing by particular gear types, bounded by lines approximating particular depth contours. RCA boundaries may and do change seasonally according to conservation needs. Regulations at §§ 660.70 through 660.74 define boundary lines with latitude/longitude coordinates; regulations at Tables 1 (North) and 1 (South) of subpart D of this part, Tables 2 (North) and 2 (South) of subpart E of this part, and Tables 3 (North) and 3 (South) of subpart F of this part set seasonal boundaries. Fishing prohibitions associated with GCAs are in addition to those associated with EFH Conservation Areas.

* * * * *

Groundfish * * *

* * * * *

(6) Roundfish: Cabezon, Scorpaenichthys marmoratus; kelp greenling, Hexagrammos decagrammus; lingcod, Ophiodon elongatus; Pacific cod, Gadus macrocephalus; Pacific whiting, Merluccius productus; sablefish, Anoplopoma fimbria. Species listed in paragraphs (6)(i) and (ii) of this definition with an area-specific listing are managed within a complex in that area-specific listing.

(i) Between 46°16′ N lat. and the U.S. Canada border (Washington): Cabezon, S. marmoratus and kelp greenling, H. decagrammus.

(ii) Between 46°16′ N lat. and 42° N lat. (Oregon): Cabezon, S. marmoratus and kelp greenling, H. decagrammus.

(7) * * *

(i) Nearshore rockfish includes black rockfish, Sebastes melanops (off Washington and California) and the following nearshore rockfish species managed in “minor rockfish” complexes:

(A) North of 46°16′ N lat. (Washington) and between 42°00′ N lat. and 40°10′ N lat. (northern California): Black and yellow rockfish, S. chrysomelas; blue rockfish, S. mystinus; brown rockfish, S. auriculatus; calico rockfish, S. dalli; China rockfish, S. nebulosus; copper rockfish, S. caurinus; deacon rockfish, S. diaconus, gopher rockfish, S. carnatus; grass rockfish, S. rastrelliger; kelp rockfish, S. atrovirens; olive rockfish, S. serranoides; quillback rockfish, S. maliger; treefish, S. serriceps.

(B) Between 46°16′ N lat. and 42° N lat. (Oregon): Black and yellow rockfish, S. chrysomelas; brown rockfish, S. auriculatus; calico rockfish, S. dalli; China rockfish, S. nebulosus; copper rockfish, S. caurinus; gopher rockfish, S. carnatus; grass rockfish, S. rastrelliger; kelp rockfish, S. atrovirens; olive rockfish, S. serranoides; quillback rockfish, S. maliger; treefish, S. serriceps.

(C) Between 46°16′ N lat. and 42° N lat. (Oregon): Black rockfish, S. melanops, blue rockfish, S. mystinus, and deacon rockfish, S. diaconus.

* * * * *

(9) “Other Fish”: kelp greenling (Hexagrammos decagrammus) off California and leopard shark (Trakis semifasciata).

* * * * *

3. Amend § 660.40 as follows:

a. Remove paragraph (a), (c), and (d);

b. Redesignate paragraphs (b) and (e) as paragraph (a) and (b); and

c. Revise newly redesignated paragraph (b).

The revision reads as follows:

§ 660.40 Overfished species rebuilding plans.

* * * * *

(b) Yelloweye rockfish. Yelloweye rockfish was declared overfished in 2002. The target year for rebuilding the yelloweye rockfish stock to BMSY is 2029. The harvest control rule to be used to rebuild the yelloweye rockfish stock is an annual SPR harvest rate of 65.0 percent.

4. In § 660.50, revise paragraphs (f)(2)(ii) and (f)(6) and add paragraph (h) to read as follows:

§ 660.50 Pacific Coast treaty Indian fisheries.

* * * * *

(f) * * *

(2) * * *

(ii) The Tribal allocation is 561 mt in 2019 and 572 mt in 2020 per year. This allocation is, for each year, 10 percent of the Monterey through Vancouver area (North of 36° N lat.) ACL. The Tribal allocation is reduced by 1.5 percent for estimated discard mortality.

* * * * *

(6) Petrale sole. For petrale sole, treaty fishing vessels are restricted to a fleetwide harvest target of 290 mt each year.

* * * * *

(h) Salmon bycatch. This fishery may be closed through automatic action at § 660.60(d)(1)(v) and (vi).

5. In § 660.55, revise paragraphs (c)(1)(i)(A) and (B) to read as follows:

§ 660.55 Allocations.

* * * * *

(c) * * *

(1) * * *

(i) * * *

(A) Darkblotched rockfish. Distribute 9 percent or 25 mt, whichever is greater, of the total trawl allocation of darkblotched rockfish to the Pacific whiting fishery (MS sector, C/P sector, and Shorebased IFQ sectors). The distribution of darkblotched rockfish to each sector will be done pro rata relative to the sector's allocation of the commercial harvest guideline for Pacific whiting. Darkblotched rockfish distributed to the MS sector and C/P sector are managed as set-asides at Table 1d and Table 2d to this subpart. The allocation of darkblotched rockfish to the Pacific whiting IFQ fishery contributes to the Shorebased IFQ allocation. After deducting allocations for the Pacific whiting fishery, the remaining trawl allocation is allocated to the Shorebased IFQ Program.

(B) Pacific Ocean Perch (POP). Distribute 17 percent or 30 mt, whichever is greater, of the total trawl allocation of POP to the Pacific whiting fishery (MS sector, C/P sector, and Shorebased IFQ sector). The distribution of POP to each sector will be done pro rata relative to the sector's allocation of the commercial harvest guideline for Pacific whiting. POP distributed to the MS sector and C/P sector are managed as set-asides at Table 1d and Table 2d to this subpart. The allocation of POP to the Pacific whiting IFQ fishery contributes to the Shorebased IFQ allocation. After deducting allocations for the Pacific whiting fishery, the remaining trawl allocation is allocated to the Shorebased IFQ Program.

* * * * *

6. Amend § 660.60 as follows:

a. Revise paragraph (d)(1)(v);

b. Remove paragraph (d)(1)(vii);

c. Redesignate paragraph (d)(1)(vi) as paragraph (d)(1)(vii); and

d. Add new paragraph (d)(1)(vi).

The revision and addition read as follows:

§ 660.60 Specifications and management measures.

* * * * *

(d) * * *

(1) * * *

(v) Close one or both of the whiting or non-whiting sectors of the groundfish fishery upon that sector having exceeded its annual Chinook salmon bycatch guideline and the reserve.

The whiting sector includes the Pacific whiting IFQ fishery, MS, and C/P sectors. The non-whiting sector includes the midwater trawl, bottom trawl, and fixed gear fisheries under the Shorebased IFQ Program, limited entry fixed gear fisheries, open access fisheries, and recreational fisheries subject to this provision as set out in § 660.360(d).

(A) The whiting sector Chinook salmon bycatch guideline is 11,000 fish.

(B) The non-whiting sector Chinook salmon bycatch guideline is 5,500 fish.

(C) The reserve is 3,500 fish.

(vi) Close the whiting or non-whiting sector of the groundfish fishery upon that sector having exceeded its annual Chinook salmon bycatch guideline if the other sector has already been closed after exceeding its Chinook salmon bycatch guideline and the reserve. The whiting sector includes the Pacific whiting IFQ fishery, MS, and C/P sectors. The non-whiting sector includes the midwater trawl, bottom trawl, and fixed gear fisheries under the Shorebased IFQ Program, limited entry fixed gear fisheries, open access fisheries, and recreational fisheries subject to this provision as set out in § 660.360(d).

* * * * *

7. Amend § 660.71 as follows:

a. Redesignate paragraphs (k) through (n) as paragraphs (o) through (r); and

b. Add new paragraphs (k) through (n) and paragraphs (s) through (v).

The additions read as follows:

§ 660.71 Latitude/longitude coordinates defining the 10-fm (18-m) through 40-fm (73-m) depth contours.

* * * * *

(k) The 30 fm (55 m) depth contour around Santa Barbara Island off the state of California is defined by straight lines connecting all of the following points in the order stated:

(1) 33°30.38′ N lat., 119°03.15′ W long.;

(2) 33°29.64′ N lat., 119°00.58′ W long.;

(3) 33°27.24′ N lat., 119°01.73′ W long.;

(4) 33°27.76′ N lat., 119°03.48′ W long.;

(5) 33°29.50′ N lat., 119°04.20′ W long.; and

(6) 33°30.38′ N lat., 119°03.15′ W long.

(l) The 30 fm (55 m) depth contour around San Nicholas Island off the state of California is defined by straight lines connecting all of the following points in the order stated:

(1) 33°18.39′ N lat., 119°38.87′ W long.;

(2) 33°18.63′ N lat., 119°27.52′ W long.;

(3) 33°15.24′ N lat., 119°20.10′ W long.;

(4) 33°13.27′ N lat., 119°20.10′ W long.;

(5) 33°12.16′ N lat., 119°26.82′ W long.;

(6) 33°13.20′ N lat., 119°31.87′ W. long.;

(7) 33°15.70′ N lat., 119°38.87′ W long.;

(8) 33°17.52′ N lat., 119°40.15′ W long.; and

(9) 33°18.39′ N lat., 119°38.87′ W long.

(m) The 30 fm (55 m) depth contour around Tanner Bank off the state of California is defined by straight lines connecting all of the following points in the order stated:

(1) 32°43.02′ N lat., 119°08.52′ W long.;

(2) 32°41.81′ N lat., 119°06.20′ W long.;

(3) 32°40.67′ N lat., 119°06.82′ W long.;

(4) 32°41.62′ N lat., 119°09.46′ W long.; and

(5) 32°43.02′ N lat., 119°08.52′ W long.

(n) The 30 fm (55 m) depth contour around Cortes Bank off the state of California is defined by straight lines connecting all of the following points in the order stated:

(1) 32°29.73′ N lat., 119°12.95′ W long.;

(2) 32°28.17′ N lat., 119°07.04′ W long.;

(3) 32°26.27′ N lat., 119°04.14′ W long.;

(4) 32°25.22′ N lat., 119°04.77′ W long.;

(5) 32°28.60′ N lat., 119°14.15′ W long.; and

(6) 32°29.73′ N lat., 119°12.95′ W long.

* * * * *

(s) The 40 fm (73 m) depth contour around Santa Barbara Island off the state of California is defined by straight lines connecting all of the following points in the order stated:

(1) 33°30.87′ N lat., 119°02.43′ W long.;

(2) 33°29.87′ N lat., 119°00.34′ W long.;

(3) 33°27.08′ N lat., 119°01.65′ W long.;

(4) 33°27.64′ N lat., 119°03.45′ W long.;

(5) 33°29.12′ N lat., 119°04.55′ W long.;

(6) 33°29.66′ N lat., 119°05.49′ W long.; and

(7) 33°30.87′ N lat., 119°02.43′ W long.

(t) The 40 fm (73 m) depth contour around Tanner Bank off the state of California is defined by straight lines connecting all of the following points in the order stated:

(1) 32°43.40′ N lat., 119°08.56′ W long.;

(2) 32°41.36′ N lat., 119°05.02′ W long.;

(3) 32°40.07′ N lat., 119°05.59′ W long.;

(4) 32°41.51′ N lat., 119°09.76′ W long.; and

(5) 32°43.40′ N lat., 119°08.56′ W long.

(u) The 40 fm (73 m) depth contour around San Nicholas Island off the state of California is defined by straight lines connecting all of the following points in the order stated:

(1) 33°19.30′ N lat., 119°41.05′ W long.;

(2) 33°19.42′ N lat., 119°27.88′ W long.;

(3) 33°14.31′ N lat., 119°17.48′ W long.;

(4) 33°12.90′ N lat., 119°17.64′ W long.;

(5) 33°11.89′ N lat., 119°27.26′ W long.;

(6) 33°12.19′ N lat., 119°29.96′ W long.;

(7) 33°15.42′ N lat., 119°39.14′ W long.;

(8) 33°17.58′ N lat., 119°41.38′ W long.; and

(9) 33°19.30′ N lat., 119°41.05′ W long.

(v) The 40 fm (73 m) depth contour around Cortes Bank off the state of California is defined by straight lines connecting all of the following points in the order stated:

(1) 32°30.00′ N lat., 119°12.98′ W long.;

(2) 32°28.33′ N lat., 119°06.81′ W long.;

(3) 32°25.69′ N lat., 119°03.21′ W long.;

(4) 32°24.66′ N lat., 119°03.83′ W long.;

(5) 32°28.48′ N lat., 119°14.66′ W long.; and

(6) 32°30.00′ N lat., 119°12.98′ W long.

8. Amend § 660.72 as follows:

a. Redesignate paragraphs (k)(15) through (31) as (k)(17) through (33), respectively; and

b. Add new paragraphs (k)(15) and (16).

The additions read as follows:

§ 660.72 Latitude/longitude coordinates defining the 50 fm (91 m) through 75 fm (137 m) depth contours.

* * * * *

(k) * * *

(15) 33°57.77′ N lat., 119°33.49′ W long.;

(16) 33°57.64′ N lat., 119°35.78′ W long.;

* * * * *

9. Amend § 660.73 as follows:

a. Revise paragraphs (a)(178), (181), and (190) through (192) and (d)(205) through (354);

b. Add paragraphs (d)(355) through (363);

c. Revise paragraphs (h)(281) through (313); and

d. Add paragraphs (h)(314) through (316).

The revisions and additions read as follows:

§ 660.73 Latitude/longitude coordinates defining the 100 fm (183 m) through 150 fm (274 m) depth contours.

* * * * *

(a) * * *

(178) 40°10.13′ N lat., 124°21.92′ W long.;

* * * * *

(181) 40°06.39′ N lat., 124°17.26′ W long.;

* * * * *

(190) 40°01.00′ N lat., 124°09.96′ W long.;

(191) 39°58.07′ N lat., 124°11.81′ W long.;

(192) 39°56.39′ N lat., 124°08.69′ W long.;

* * * * *

(d) * * *

(205) 40°02.67′ N lat., 124°11.83′ W long.;

(206) 40°02.70′ N lat., 124°10.57′ W long.;

(207) 40°04.08′ N lat., 124°10.09′ W long.;

(208) 40°04.08′ N lat., 124°09.10′ W long.;

(209) 40°01.23′ N lat., 124°08.91′ W long.;

(210) 40°01.18′ N lat., 124°09.92′ W long.;

(211) 39°58.05′ N. lat., 124°11.87′ W long.;

(212) 39°56.39′ N lat., 124°08.70′ W long.;

(213) 39°54.64′ N lat., 124°07.31′ W long.;

(214) 39°53.87′ N lat., 124°07.95′ W long.;

(215) 39°52.42′ N lat., 124°08.18′ W long.;

(216) 39°49.64′ N lat., 124°06.05′ W long.;

(217) 39°49.30′ N lat., 124°04.60′ W long.;

(218) 39°48.49′ N lat., 124°03.86′ W long.;

(219) 39°47.73′ N lat., 124°04.59′ W long.;

(220) 39°42.50′ N lat., 124°00.60′ W long.;

(221) 39°34.23′ N lat., 123°56.82′ W long.;

(222) 39°33.00′ N lat., 123°56.44′ W long.;

(223) 39°30.96′ N lat., 123°56.00′ W long.;

(224) 39°31.34′ N lat., 123°56.71′ W long.;

(225) 39°32.03′ N lat., 123°57.44′ W long.;

(226) 39°31.43′ N lat., 123°58.16′ W long.;

(227) 39°05.56′ N lat., 123°57.24′ W long.;

(228) 39°01.75′ N lat., 123°56.83′ W long.;

(229) 38°59.52′ N lat., 123°55.95′ W long.;

(230) 38°58.98′ N lat., 123°56.57′ W long.;

(231) 38°57.50′ N lat., 123°56.57′ W long.;

(232) 38°53.91′ N lat., 123°56.00′ W long.;

(233) 38°42.57′ N lat., 123°46.60′ W long.;

(234) 38°28.72′ N lat., 123°35.61′ W long.;

(235) 38°28.01′ N lat., 123°36.47′ W long.;

(236) 38°20.94′ N lat., 123°31.26′ W long.;

(237) 38°15.94′ N lat., 123°25.33′ W long.;

(238) 38°10.95′ N lat., 123°23.19′ W long.;

(239) 38°05.52′ N lat., 123°22.90′ W long.;

(240) 38°08.46′ N lat., 123°26.23′ W long.;

(241) 38°06.95′ N lat., 123°28.03′ W long.;

(242) 38°06.25′ N lat., 123°29.70′ W long.;

(243) 38°04.57′ N lat., 123°31.37′ W long.;

(244) 38°02.32′ N lat., 123°31.09′ W long.;

(245) 37°59.97′ N lat., 123°28.43′ W long.;

(246) 37°58.10′ N lat., 123°26.69′ W long.;

(247) 37°55.46′ N lat., 123°27.05′ W long.;

(248) 37°51.51′ N lat., 123°24.86′ W long.;

(249) 37°45.01′ N lat., 123°12.09′ W long.;

(250) 37°35.67′ N lat., 123°01.56′ W long.;

(251) 37°26.62′ N lat., 122°56.21′ W long.;

(252) 37°14.41′ N lat., 122°49.07′ W long.;

(253) 37°11.00′ N lat., 122°45.87′ W long.;

(254) 37°07.00′ N lat., 122°41.97′ W long.;

(255) 37°03.19′ N lat., 122°38.31′ W long.;

(256) 37°00.99′ N lat., 122°35.51′ W long.;

(257) 36°58.31′ N lat., 122°27.56′ W long.;

(258) 37°00.54′ N lat., 122°24.74′ W long.;

(259) 36°57.81′ N lat., 122°24.65′ W long.;

(260) 36°58.54′ N lat., 122°21.67′ W long.;

(261) 36°56.52′ N lat., 122°21.70′ W long.;

(262) 36°55.37′ N lat., 122°18.45′ W long.;

(263) 36°52.16′ N lat., 122°12.17′ W long.;

(264) 36°51.53′ N lat., 122°10.67′ W long.;

(265) 36°48.05′ N lat., 122°07.59′ W long.;

(266) 36°47.35′ N lat., 122°03.27′ W long.;

(267) 36°50.71′ N lat., 121°58.17′ W long.;

(268) 36°48.89′ N lat., 121°58.90′ W long.;

(269) 36°47.70′ N lat., 121°58.76′ W long.;

(270) 36°48.37′ N lat., 121°51.15′ W long.;

(271) 36°45.74′ N lat., 121°54.18′ W long.;

(272) 36°45.50′ N lat., 121°57.73′ W long.;

(273) 36°44.02′ N lat., 121°58.55′ W long.;

(274) 36°38.84′ N lat., 122°01.32′ W long.;

(275) 36°35.63′ N lat., 122°00.98′ W long.;

(276) 36°32.47′ N lat., 121°59.17′ W long.;

(277) 36°32.52′ N lat., 121°57.62′ W long.;

(278) 36°30.16′ N lat., 122°00.55′ W long.;

(279) 36°24.56′ N lat., 121°59.19′ W long.;

(280) 36°22.19′ N lat., 122°00.30′ W long.;

(281) 36°20.62′ N lat., 122°02.93′ W long.;

(282) 36°18.89′ N lat., 122°05.18′ W long.;

(283) 36°14.45′ N lat., 121°59.44′ W long.;

(284) 36°13.73′ N lat., 121°57.38′ W long.;

(285) 36°14.41′ N lat., 121°55.45′ W long.;

(286) 36°10.25′ N lat., 121°43.08′ W long.;

(287) 36°07.67′ N lat., 121°40.92′ W long.;

(288) 36°02.51′ N lat., 121°36.76′ W long.;

(289) 36°01.04′ N lat., 121°36.68′ W long.;

(290) 36°00.00′ N lat., 121°35.15′ W long.;

(291) 35°57.84′ N lat., 121°33.10′ W long.;

(292) 35°45.57′ N lat., 121°27.26′ W long.;

(293) 35°39.02′ N lat., 121°22.86′ W long.;

(294) 35°25.92′ N lat., 121°05.52′ W long.;

(295) 35°16.26′ N lat., 121°01.50′ W long.;

(296) 35°07.60′ N lat., 120°56.49′ W long.;

(297) 34°57.77′ N lat., 120°53.87′ W long.;

(298) 34°42.30′ N lat., 120°53.42′ W long.;

(299) 34°37.69′ N lat., 120°50.04′ W long.;

(300) 34°30.13′ N lat., 120°44.45′ W long.;

(301) 34°27.00′ N lat., 120°39.24′ W long.;

(302) 34°24.71′ N lat., 120°35.37′ W long.;

(303) 34°21.63′ N lat., 120°24.86′ W long.;

(304) 34°24.39′ N lat., 120°16.65′ W long.;

(305) 34°22.48′ N lat., 119°56.42′ W long.;

(306) 34°18.54′ N lat., 119°46.26′ W long.;

(307) 34°16.37′ N lat., 119°45.12′ W long.;

(308) 34°15.91′ N lat., 119°47.29′ W long.;

(309) 34°13.80′ N lat., 119°45.40′ W long.;

(310) 34°11.69′ N lat., 119°41.80′ W long.;

(311) 34°09.98′ N lat., 119°31.87′ W long.;

(312) 34°08.12′ N lat., 119°27.71′ W long.;

(313) 34°06.35′ N lat., 119°32.65′ W long.;

(314) 34°06.80′ N lat., 119°40.08′ W long.;

(315) 34°07.48′ N lat., 119°47.54′ W long.;

(316) 34°08.21′ N lat., 119°54.90′ W long.;

(317) 34°06.85′ N lat., 120°05.60′ W long.;

(318) 34°07.03′ N lat., 120°10.47′ W long.;

(319) 34°08.77′ N lat., 120°18.46′ W long.;

(320) 34°11.89′ N lat., 120°28.09′ W long.;

(321) 34°12.53′ N lat., 120°29.82′ W long.;

(322) 34°09.02′ N lat., 120°37.47′ W long.;

(323) 34°01.01′ N lat., 120°31.17′ W long.;

(324) 33°58.07′ N lat., 120°28.33′ W long.;

(325) 33°53.37′ N lat., 120°14.43′ W long.;

(326) 33°50.53′ N lat., 120°07.20′ W long.;

(327) 33°45.88′ N lat., 120°04.26′ W long.;

(328) 33°38.19′ N lat., 119°57.85′ W long.;

(329) 33°38.19′ N lat., 119°50.42′ W long.;

(330) 33°42.36′ N lat., 119°49.60′ W long.;

(331) 33°53.95′ N lat., 119°53.81′ W long.;

(332) 33°55.99′ N lat., 119°41.40′ W long.;

(333) 33°58.48′ N lat., 119°27.90′ W long.;

(334) 33°59.24′ N lat., 119°23.61′ W long.;

(335) 33°59.35′ N lat., 119°21.71′ W long.;

(336) 33°59.94′ N lat., 119°19.57′ W long.;

(337) 34°04.48′ N lat., 119°15.32′ W long.;

(338) 34°02.80′ N lat., 119°12.95′ W long.;

(339) 34°02.39′ N lat., 119°07.17′ W long.;

(340) 34°03.75′ N lat., 119°04.72′ W long.;

(341) 34°01.82′ N lat., 119°03.24′ W long.;

(342) 33°59.33′ N lat., 119°03.49′ W long.;

(343) 33°59.01′ N lat., 118°59.56′ W long.;

(344) 33°59.51′ N lat., 118°57.25′ W long.;

(345) 33°58.83′ N lat., 118°52.50′ W long.;

(346) 33°58.55′ N lat., 118°41.86′ W long.;

(347) 33°55.10′ N lat., 118°34.25′ W long.;

(348) 33°54.30′ N lat., 118°38.71′ W long.;

(349) 33°50.88′ N lat., 118°37.02′ W long.;

(350) 33°39.78′ N lat., 118°18.40′ W long.;

(351) 33°35.50′ N lat., 118°16.85′ W long.;

(352) 33°32.46′ N lat., 118°10.90′ W long.;

(353) 33°34.11′ N lat., 117°54.07′ W long.;

(354) 33°31.61′ N lat., 117°49.30′ W long.;

(355) 33°16.36′ N lat., 117°35.48′ W long.;

(356) 33°06.81′ N lat., 117°22.93′ W long.;

(357) 32°59.28′ N lat., 117°19.69′ W long.;

(358) 32°55.37′ N lat., 117°19.55′ W long.;

(359) 32°53.35′ N lat., 117°17.05′ W long.;

(360) 32°53.36′ N lat., 117°19.12′ W long.;

(361) 32°46.42′ N lat., 117°23.45′ W long.;

(362) 32°42.71′ N lat., 117°21.45′ W long.; and

(363) 32°34.54′ N lat., 117°23.04′ W long.

* * * * *

(h) * * *

(281) 34°07.10′ N lat., 120°10.37′ W long.;

(282) 34°11.07′ N lat., 120°25.03′ W long.;

(283) 34°09.00′ N lat., 120°18.40′ W long.;

(284) 34°13.16′ N lat., 120°29.40′ W long.;

(285) 34°09.41′ N lat., 120°37.75′ W long.;

(286) 34°03.15′ N lat., 120°34.71′ W long.;

(287) 33°57.09′ N lat., 120°27.76′ W long.;

(288) 33°51.00′ N lat., 120°09.00′ W long.;

(289) 33°38.16′ N lat., 119°59.23′ W long.;

(290) 33°37.04′ N lat., 119°50.17′ W long.;

(291) 33°42.28′ N lat., 119°48.85′ W long.;

(292) 33°53.96′ N lat., 119°53.77′ W long.;

(293) 33°55.88′ N lat., 119°41.05′ W long.;

(294) 33°59.18′ N lat., 119°23.64′ W long.;

(295) 33°59.26′ N lat., 119°21.92′ W long.;

(296) 33°59.94′ N lat., 119°19.57′ W long.;

(297) 34°03.12′ N lat., 119°15.51′ W long.;

(298) 34°01.97′ N lat., 119°07.28′ W long.;

(299) 34°03.60′ N lat., 119°04.71′ W long.;

(300) 33°59.30′ N lat., 119°03.73′ W long.;

(301) 33°58.87′ N lat., 118°59.37′ W long.;

(302) 33°58.08′ N lat., 118°41.14′ W long.;

(303) 33°50.93′ N lat., 118°37.65′ W long.;

(304) 33°39.54′ N lat., 118°18.70′ W long.;

(305) 33°35.42′ N lat., 118°17.14′ W long.;

(306) 33°32.15′ N lat., 118°10.84′ W long.;

(307) 33°33.71′ N lat., 117°53.72′ W long.;

(308) 33°31.17′ N lat., 117°49.11′ W long.;

(309) 33°16.53′ N lat., 117°36.13′ W long.;

(310) 33°06.77′ N lat., 117°22.92′ W long.;

(311) 32°58.94′ N lat., 117°20.05′ W long.;

(312) 32°55.83′ N lat., 117°20.15′ W long.;

(313) 32°46.29′ N lat., 117°23.89′ W long.;

(314) 32°42.00′ N lat., 117°22.16′ W long.;

(315) 32°39.47′ N lat., 117°27.78′ W long.; and

(316) 32°34.83′ N lat., 117°24.69′ W long.

* * * * *

10. Tables 1a to part 660, subpart C, through 1d to part 660, subpart C, are revised to read as follows:

Sec.
* * * * *
Table 1a to Part 660, Subpart C—2019, Specifications of OFL, ABC, ACL, ACT and Fishery HG (Weights in Metric Tons)
Table 1b to Part 660, Subpart C—2019, Allocations by Species or Species Group (Weight in Metric Tons)
Table 1c to Part 660, Subpart C—Sablefish North of 36° N lat. Allocations, 2019
Table 1d to Part 660, Subpart C—At-Sea Whiting Fishery Annual Set-Asides, 2019

* * * * *

Table 1a to Part 660, Subpart C—2019, Specifications of OFL, ABC, ACL, ACT and Fishery HG
[Weights in metric tons]
Stocks/stock complexes | Area | OFL | ABC | ACL ᵃ | Fishery HG ᵇ
COWCOD ᶜ | S of 40°10′ N lat | 74 | 67 | 10 | 8
COWCOD | (Conception) | 61 | 56 | NA | NA
COWCOD | (Monterey) | 13 | 11 | NA | NA
YELLOWEYE ROCKFISH ᵈ | Coastwide | 82 | 74 | 48 | 42
Arrowtooth Flounder ᵉ | Coastwide | 18,696 | 15,574 | 15,574 | 13,479
Big Skate ᶠ | Coastwide | 541 | 494 | 494 | 452
Black Rockfish ᵍ | California (S of 42° N lat.) | 344 | 329 | 329 | 328
Black Rockfish ʰ | Washington (N of 46°16′ N lat.) | 312 | 298 | 298 | 280
Bocaccio ⁱ | S of 40°10′ N lat | 2,194 | 2,097 | 2,097 | 2,051
Cabezon ʲ | California (S of 42° N lat.) | 154 | 147 | 147 | 147
California Scorpionfish ᵏ | S of 34°27′ N lat | 337 | 313 | 313 | 311
Canary Rockfish ˡ | Coastwide | 1,517 | 1,450 | 1,450 | 1,383
Chilipepper Rockfish ᵐ | S of 40°10′ N lat | 2,652 | 2,536 | 2,536 | 2,451
Darkblotched Rockfish ⁿ | Coastwide | 800 | 765 | 765 | 731
Dover Sole ᵒ | Coastwide | 91,102 | 87,094 | 50,000 | 48,404
English Sole ᵖ | Coastwide | 11,052 | 10,090 | 10,090 | 9,874
Lingcod q | N of 40°10′ N lat | 5,110 | 4,885 | 4,871 | 4,593
Lingcod ʳ | S of 40°10′ N lat | 1,143 | 1,093 | 1,039 | 1,028
Longnose Skate ˢ | Coastwide | 2,499 | 2,389 | 2,000 | 1,852
Longspine Thornyhead ᵗ | N of 34°27′ N lat | 4,112 | 3,425 | 2,603 | 2,553
Longspine Thornyhead ᵘ | S of 34°27′ N lat |  |  | 822 | 821
Pacific Cod ᵛ | Coastwide | 3,200 | 2,221 | 1,600 | 1,094
Pacific Whiting ʷ | Coastwide | (w) | (w) | (w) | (w)
Pacific Ocean Perch ˣ | N of 40°10′ N lat | 4,753 | 4,340 | 4,340 | 4,318
Petrale Sole ʸ | Coastwide | 3,042 | 2,908 | 2,908 | 2,587
Sablefish ᶻ | N of 36° N lat | 8,489 | 7,750 | 5,606 | See Table 1c
Sablefish ᵃᵃ | S of 36° N lat |  |  | 1,990 | 1,986
Shortbelly Rockfish ᵇᵇ | Coastwide | 6,950 | 5,789 | 500 | 483
Shortspine Thornyhead ᶜᶜ | N of 34°27′ N lat | 3,089 | 2,573 | 1,683 | 1,618
Shortspine Thornyhead ᵈᵈ | S of 34°27′ N lat |  |  | 890 | 889
Spiny Dogfish ᵉᵉ | Coastwide | 2,486 | 2,071 | 2,071 | 1,738
Splitnose Rockfish ᶠᶠ | S of 40°10′ N lat | 1,831 | 1,750 | 1,750 | 1,733
Starry Flounder ᵍᵍ | Coastwide | 652 | 452 | 452 | 433
Widow Rockfish ʰʰ | Coastwide | 12,375 | 11,831 | 11,831 | 11,583
Yellowtail Rockfish ⁱⁱ | N of 40°10′ N lat | 6,568 | 6,279 | 6,279 | 5,234
Black Rockfish/Blue Rockfish/Deacon Rockfish ʲʲ | Oregon (Between 46°16′ N lat. and 42° N lat.) | 677 | 617 | 617 | 616
Cabezon/Kelp Greenling ᵏᵏ | Oregon (Between 46°16′ N lat. and 42° N lat.) | 230 | 218 | 218 | 218
Cabezon/Kelp Greenling ˡˡ | Washington (N of 46°16′ N lat.) | 13 | 11 | 11 | 11
Nearshore Rockfish ᵐᵐ | N of 40°10′ N lat | 91 | 81 | 81 | 79
Shelf Rockfish ⁿⁿ | N of 40°10′ N lat. | 2,309 | 2,054 | 2,054 | 1,977
Slope Rockfish ᵒᵒ | N of 40°10′ N lat | 1,887 | 1,746 | 1,746 | 1,665
Nearshore Rockfish ᵖᵖ | S of 40°10′ N lat. | 1,300 | 1,145 | 1,142 | 1,138
Shelf Rockfish qq | S of 40°10′ N lat | 1,919 | 1,625 | 1,625 | 1,546
Slope Rockfish ʳʳ | S of 40°10′ N lat | 856 | 744 | 744 | 724
Other Flatfish ˢˢ | Coastwide | 8,750 | 6,498 | 6,498 | 6,249
Other Fish ᵗᵗ | Coastwide | 286 | 239 | 239 | 230
ᵃ Annual catch limits (ACLs), annual catch targets (ACTs) and harvest guidelines (HGs) are specified as total catch values.
ᵇ Fishery HGs means the HG or quota after subtracting Pacific Coast treaty Indian tribes allocations and projected catch, projected research catch, deductions for fishing mortality in non-groundfish fisheries, and deductions for EFPs from the ACL or ACT.
ᶜ Cowcod south of 40°10′ N lat. 2 mt is deducted from the ACL to EFP fishing (less than 0.1 mt) and research activity (2 mt), resulting in a fishery HG of 8 mt. Any additional mortality in research activities will be deducted from the ACL. A single ACT of 6 mt is being set for the Conception and Monterey areas combined.
ᵈ Yelloweye rockfish. The 48 mt ACL is based on the current rebuilding plan with a target year to rebuild of 2029 and an SPR harvest rate of 65 percent. 6.1 mt is deducted from the ACL to accommodate the Tribal fishery (2.3 mt), the incidental open access fishery (0.62 mt), EFP catch (0.24 mt) and research catch (2.92 mt), resulting in a fishery HG of 42 mt. The non-trawl HG is 38.6 mt. The non-nearshore HG is 2.0 mt and the nearshore HG is 6.0 mt. Recreational HGs are: 10 mt (Washington); 8.9 mt (Oregon); and 11.6 mt (California). In addition, there are the following ACTs: Non-nearshore (1.6 mt), nearshore (4.7 mt), Washington recreational (7.8 mt), Oregon recreational (7.0 mt), and California recreational (9.1 mt).
ᵉ Arrowtooth flounder. 2,094.9 mt is deducted from the ACL to accommodate the Tribal fishery (2,041 mt), the incidental open access fishery (40.8 mt), EFP fishing (0.1 mt), and research catch (13 mt), resulting in a fishery HG of 13,479 mt.
ᶠ Big skate. 41.9 mt is deducted from the ACL to accommodate the Tribal fishery (15 mt), the incidental open access fishery (21.3 mt), EFP fishing (0.1 mt), and research catch (5.5 mt), resulting in a fishery HG of 452 mt.
ᵍ Black rockfish (California). 1.3 mt is deducted from the ACL to accommodate EFP fishing (1.0 mt) and incidental open access fishery (0.3 mt), resulting in a fishery HG of 328 mt.
ʰ Black rockfish (Washington). 18.1 mt is deducted from the ACL to accommodate the Tribal fishery (18 mt) and research catch (0.1 mt), resulting in a fishery HG of 280 mt.
ⁱ Bocaccio south of 40°10′ N lat. The stock is managed with stock-specific harvest specifications south of 40°10′ N lat. and within the Minor Shelf Rockfish complex north of 40°10′ N lat. 46.1 mt is deducted from the ACL to accommodate the incidental open access fishery (0.5 mt), EFP catch (40 mt) and research catch (5.6 mt), resulting in a fishery HG of 2,051 mt. The California recreational fishery south of 40°10′ N lat has an HG of 863.4 mt.
ʲ Cabezon (California). 0.3 mt is deducted from the ACL to accommodate the incidental open access fishery, resulting in a fishery HG of 147 mt.
ᵏ California scorpionfish south of 34°27′ N lat. 2.4 mt is deducted from the ACL to accommodate the incidental open access fishery (2.2 mt) and research catch (0.2 mt), resulting in a fishery HG of 311 mt.
ˡ Canary rockfish. 67.1 mt is deducted from the ACL to accommodate the Tribal fishery (50 mt), the incidental open access fishery (1.3 mt), EFP catch (8 mt), and research catch (7.8 mt), resulting in a fishery HG of 1,383 mt. Recreational HGs are: 47.1 mt (Washington); 70.7 mt (Oregon); and 127.3 mt (California).
ᵐ Chilipepper rockfish south of 40°10′ N lat. Chilipepper are managed with stock-specific harvest specifications south of 40°10′ N lat. and within the Minor Shelf Rockfish complex north of 40°10′ N lat. 84.9 mt is deducted from the ACL to accommodate the incidental open access fishery (11.5 mt), EFP fishing (60 mt), and research catch (13.4 mt), resulting in a fishery HG of 2,451 mt.
ⁿ Darkblotched rockfish. 33.8 mt is deducted from the ACL to accommodate the Tribal fishery (0.2 mt), the incidental open access fishery (24.5 mt), EFP catch (0.6 mt), and research catch (8.5 mt) resulting in a fishery HG of 731 mt.
ᵒ Dover sole. 1,595.6 mt is deducted from the ACL to accommodate the Tribal fishery (1,497 mt), the incidental open access fishery (49.3 mt), EFP fishing (0.1 mt), and research catch (49.2 mt), resulting in a fishery HG of 48,404 mt.
ᵖ English sole. 216.2 mt is deducted from the ACL to accommodate the Tribal fishery (200 mt), the incidental open access fishery (8.1 mt), EFP fishing (0.1 mt), and research catch (8 mt), resulting in a fishery HG of 9,874 mt.
q Lingcod north of 40°10′ N lat. 278 mt is deducted from the ACL for the Tribal fishery (250 mt), the incidental open access fishery (9.8 mt), EFP catch (1.6 mt) and research catch (16.6 mt), resulting in a fishery HG of 4,593 mt.
ʳ Lingcod south of 40°10′ N lat. 11.3 mt is deducted from the ACL to accommodate the incidental open access fishery (8.1 mt) and research catch (3.2 mt), resulting in a fishery HG of 1,028 mt.
ˢ Longnose skate. 148.3 mt is deducted from the ACL to accommodate the Tribal fishery (130 mt), incidental open access fishery (5.7 mt), EFP catch (0.1 mt), and research catch (12.5 mt), resulting in a fishery HG of 1,852 mt.
ᵗ Longspine thornyhead north of 34°27′ N lat. 50.4 mt is deducted from the ACL to accommodate the Tribal fishery (30 mt), the incidental open access fishery (6.2 mt), and research catch (14.2 mt), resulting in a fishery HG of 2,553 mt.
ᵘ Longspine thornyhead south of 34°27′ N lat. 1.4 mt is deducted from the ACL to accommodate research catch, resulting in a fishery HG of 821 mt.
ᵛ Pacific cod. 506.2 mt is deducted from the ACL to accommodate the Tribal fishery (500 mt), research catch (5.5 mt), EFP fishing (0.1 mt), and the incidental open access fishery (0.6 mt), resulting in a fishery HG of 1,094 mt.
ʷ Pacific whiting. Pacific whiting are assessed annually. The final specifications will be determined consistent with the U.S.-Canada Pacific Whiting Agreement and will be announced after the Council's April 2019 meeting.
ˣ Pacific ocean perch north of 40°10′ N lat. 22.4 mt is deducted from the ACL to accommodate the Tribal fishery (9.2 mt), the incidental open access fishery (10 mt), EFP fishing (0.1 mt), and research catch (3.1 mt) resulting in a fishery HG of 4,318 mt.
ʸ Petrale sole. 320.6 mt is deducted from the ACL to accommodate the Tribal fishery (290 mt), the incidental open access fishery (6.4 mt), EFP catch (0.1 mt), and research catch (24.1 mt), resulting in a fishery HG of 2,587 mt.
ᶻ Sablefish north of 36° N lat. The 40-10 adjustment is applied to the ABC to derive a coastwide ACL value because the stock is in the precautionary zone. This coastwide ACL value is not specified in regulations. The coastwide ACL value is apportioned north and south of 36° N lat., using the 2003-2014 average estimated swept area biomass from the NMFS NWFSC trawl survey, with 73.8 percent apportioned north of 36° N lat. and 26.2 percent apportioned south of 36° N lat. The northern ACL is 5,606 mt and is reduced by 561 mt for the Tribal allocation (10 percent of the ACL north of 36° N lat.). The 561 mt Tribal allocation is reduced by 1.5 percent to account for discard mortality. Detailed sablefish allocations are shown in Table 1c.
ᵃᵃ Sablefish south of 36° N lat. The ACL for the area south of 36° N lat. is 1,990 mt (26.2 percent of the calculated coastwide ACL value). 4.2 mt is deducted from the ACL to accommodate the incidental open access fishery (1.8 mt) and research catch (2.4 mt), resulting in a fishery HG of 1,986 mt.
ᵇᵇ Shortbelly rockfish. 17.2 mt is deducted from the ACL to accommodate the incidental open access fishery (8.9 mt), EFP catch (0.1 mt), and research catch (8.2 mt), resulting in a fishery HG of 483 mt.
ᶜᶜ Shortspine thornyhead north of 34°27′ N lat. 65.3 mt is deducted from the ACL to accommodate the Tribal fishery (50 mt), the incidental open access fishery (4.7 mt), EFP catch (0.1 mt), and research catch (10.5 mt), resulting in a fishery HG of 1,618 mt for the area north of 34°27′ N lat.
ᵈᵈ Shortspine thornyhead south of 34°27′ N lat. 1.2 mt is deducted from the ACL to accommodate the incidental open access fishery (0.5 mt) and research catch (0.7 mt), resulting in a fishery HG of 889 mt for the area south of 34°27′ N lat.
ᵉᵉ Spiny dogfish. 333 mt is deducted from the ACL to accommodate the Tribal fishery (275 mt), the incidental open access fishery (22.6 mt), EFP catch (1.1 mt), and research catch (34.3 mt), resulting in a fishery HG of 1,738 mt.
ᶠᶠ Splitnose rockfish south of 40°10′ N lat. Splitnose rockfish in the north is managed in the Slope Rockfish complex and with stock-specific harvest specifications south of 40°10′ N lat. 16.6 mt is deducted from the ACL to accommodate the incidental open access fishery (5.8 mt), research catch (9.3 mt) and EFP catch (1.5 mt), resulting in a fishery HG of 1,733 mt.
ᵍᵍ Starry flounder. 18.8 mt is deducted from the ACL to accommodate the Tribal fishery (2 mt), EFP catch (0.1 mt), research catch (0.6 mt), and the incidental open access fishery (16.1 mt), resulting in a fishery HG of 433 mt.
ʰʰ Widow rockfish. 248.4 mt is deducted from the ACL to accommodate the Tribal fishery (200 mt), the incidental open access fishery (3.1 mt), EFP catch (28 mt) and research catch (17.3 mt), resulting in a fishery HG of 11,583 mt.
ⁱⁱ Yellowtail rockfish north of 40°10′ N lat. 1,045.1 mt is deducted from the ACL to accommodate the Tribal fishery (1,000 mt), the incidental open access fishery (4.5 mt), EFP catch (20 mt) and research catch (20.6 mt), resulting in a fishery HG of 5,234 mt.
ʲʲ Black rockfish/Blue rockfish/Deacon rockfish (Oregon). 1.2 mt is deducted from the ACL to accommodate the incidental open access fishery (0.3 mt) and EFP catch (0.9 mt), resulting in a fishery HG of 616 mt.
ᵏᵏ Cabezon/kelp greenling (Oregon). 0.2 mt is deducted from the ACL to accommodate EFP catch, resulting in a fishery HG of 218 mt.
ˡˡ Cabezon/kelp greenling (Washington). There are no deductions from the ACL so the fishery HG is equal to the ACL of 11 mt.
ᵐᵐ Nearshore Rockfish north of 40°10′ N lat. 2.8 mt is deducted from the ACL to accommodate the Tribal fishery (1.5 mt), EFP fishing (0.1 mt), research catch (0.3 mt) and the incidental open access fishery (0.9 mt), resulting in a fishery HG of 79 mt.
ⁿⁿ Shelf Rockfish north of 40°10′ N lat. 76.9 mt is deducted from the ACL to accommodate the Tribal fishery (30 mt), the incidental open access fishery (17.7 mt), EFP catch (4.5 mt), and research catch (24.7 mt), resulting in a fishery HG of 1,977 mt.
ᵒᵒ Slope Rockfish north of 40°10′ N lat. 80.8 mt is deducted from the ACL to accommodate the Tribal fishery (36 mt), the incidental open access fishery (21.7 mt), EFP catch (1.5 mt), and research catch (21.6 mt), resulting in a fishery HG of 1,665 mt.
ᵖᵖ Nearshore Rockfish south of 40°10′ N lat. 4.1 mt is deducted from the ACL to accommodate the incidental open access fishery (1.4 mt) and research catch (2.7 mt), resulting in a fishery HG of 1,138 mt.
qq Shelf Rockfish south of 40°10′ N lat. 79.1 mt is deducted from the ACL to accommodate the incidental open access fishery (4.6 mt), EFP catch (60 mt), and research catch (14.5 mt), resulting in a fishery HG of 1,546 mt.
ʳʳ Slope Rockfish south of 40°10′ N lat. 20.2 mt is deducted from the ACL to accommodate the incidental open access fishery (16.9 mt), EFP catch (1 mt), and research catch (2.3 mt), resulting in a fishery HG of 724 mt. Blackgill rockfish has a stock-specific HG for the entire groundfish fishery south of 40°10′ N lat. set equal to the species' contribution to the 40-10-adjusted ACL. Harvest of blackgill rockfish in all groundfish fisheries south of 40°10′ N lat. counts against this HG of 159 mt.
ˢˢ Other Flatfish. The Other Flatfish complex is comprised of flatfish species managed in the PCGFMP that are not managed with stock-specific OFLs/ABCs/ACLs. Most of the species in the Other Flatfish complex are unassessed and include: Butter sole, curlfin sole, flathead sole, Pacific sanddab, rock sole, sand sole, and rex sole. 249.5 mt is deducted from the ACL to accommodate the Tribal fishery (60 mt), the incidental open access fishery (161.6 mt), EFP fishing (0.1 mt), and research catch (27.8 mt), resulting in a fishery HG of 6,249 mt.
ᵗᵗ Other Fish. The Other Fish complex is comprised of kelp greenling off California and leopard shark coastwide. 8.9 mt is deducted from the ACL to accommodate the incidental open access fishery (8.8 mt) and research catch (0.1 mt), resulting in a fishery HG of 230 mt.

Table 1b to Part 660, Subpart C—2019, Allocations by Species or Species Group
[Weight in metric tons]
Stocks/stock complexes | Area | Fishery HG or ACT ᵃ ᵇ | Trawl: % | Trawl: Mt | Non-trawl: % | Non-trawl: Mt
Arrowtooth flounder | Coastwide | 13,479.1 | 95 | 12,805.1 | 5 | 674.0
Big skate ᵃ | Coastwide | 452.1 | 95 | 429.5 | 5 | 22.6
Bocaccio ᵃ | S of 40°10′ N lat | 2,050.9 | 39 | 800.7 | 61 | 1,250.2
Canary rockfish ᵃ ᶜ | Coastwide | 1,382.9 | 72 | 999.6 | 28 | 383.3
Chilipepper rockfish | S of 40°10′ N lat | 2,451.1 | 75 | 1,838.3 | 25 | 612.8
COWCOD ᵃ ᵇ | S of 40°10′ N lat | 6.0 | 36 | 2.2 | 64 | 3.8
Darkblotched rockfish ᵈ | Coastwide | 731.2 | 95 | 694.6 | 5 | 36.6
Dover sole | Coastwide | 48,404.4 | 95 | 45,984.2 | 5 | 2,420.2
English sole | Coastwide | 9,873.8 | 95 | 9,380.1 | 5 | 493.7
Lingcod | N of 40′10° N lat | 4,593.0 | 45 | 2,066.9 | 55 | 2,526.2
Lingcod | S of 40′10° N lat | 1,027.7 | 45 | 462.5 | 55 | 565.2
Longnose skate ᵃ | Coastwide | 1,851.7 | 90 | 1,666.5 | 10 | 185.2
Longspine thornyhead | N of 34°27′ N lat | 2,552.6 | 95 | 2,425.0 | 5 | 127.6
Pacific cod | Coastwide | 1,093.8 | 95 | 1,039.1 | 5 | 54.7
Pacific whiting | Coastwide | TBD | 100 | TBD | 0 | TBD
Pacific ocean perch ᵉ | N of 40°10′ N lat | 4,317.6 | 95 | 4,101.7 | 5 | 215.9
Petrale sole | Coastwide | 2,587.4 | 95 | 2,458.0 | 5 | 129.4
Sablefish | N of 36° N lat | NA | See Table 1c
Sablefish | S of 36° N lat | 1,985.8 | 42 | 834.0 | 58 | 1,151.8
Shortspine thornyhead | N of 34°27′ N lat | 1,617.7 | 95 | 1,536.8 | 5 | 80.9
Shortspine thornyhead | S of 34°27′ N lat | 888.8 | NA | 50.0 | NA | 838.8
Splitnose rockfish | S of 40°10′ N lat | 1,733.4 | 95 | 1,646.7 | 5 | 86.7
Starry flounder | Coastwide | 433.2 | 50 | 216.6 | 50 | 216.6
Widow rockfish ᶠ | Coastwide | 11,582.6 | 91 | 10,540.2 | 9 | 1,042.4
YELLOWEYE ROCKFISH | Coastwide | 41.9 | 8 | 3.4 | 92 | 38.6
Yellowtail rockfish | N of 40°10′ N lat | 5,233.9 | 88 | 4,605.8 | 12 | 628.1
Minor Shelf Rockfish North ᵃ | N of 40°10′ N lat | 1,977.1 | 60.2 | 1,190.2 | 39.8 | 786.9
Minor Shelf Rockfish South ᵃ | S of 40°10′ N lat | 1,545.9 | 12.2 | 188.6 | 87.8 | 1,357.3
Minor Slope Rockfish North | N of 40°10′ N lat | 1,665.2 | 81 | 1,348.8 | 19 | 316.4
Minor Slope Rockfish South | S of 40°10′ N lat | 723.8 | 63 | 456.0 | 37 | 267.8
Other Flatfish | Coastwide | 6,248.5 | 90 | 5,623.7 | 10 | 624.9
ᵃ Allocations decided through the biennial specification process.
ᵇ The cowcod fishery harvest guideline is further reduced to an ACT of 6.0 mt.
ᶜ 46 mt of the total trawl allocation of canary rockfish is allocated to the MS and C/P sectors, as follows: 30 mt for the MS sector, and 16 mt for the C/P sector.
ᵈ Consistent with regulations at § 660.55(c), 9 percent (62.5 mt) of the total trawl allocation for darkblotched rockfish is allocated to the Pacific whiting fishery, as follows: 26.3 mt for the Shorebased IFQ Program, 15.0 mt for the MS sector, and 21.3 mt for the C/P sector. The tonnage calculated here for the Pacific whiting IFQ fishery contributes to the total shorebased trawl allocation, which is found at § 660.140(d)(1)(ii)(D).
ᵉ Consistent with regulations at § 660.55(c), 17 percent (697.3 mt) of the total trawl allocation for Pacific ocean perch is allocated to the Pacific whiting fishery, as follows: 292.9 mt for the Shorebased IFQ Program, 167.4 mt for the MS sector, and 237.1 mt for the C/P sector. The tonnage calculated here for the Pacific whiting IFQ fishery contributes to the total shorebased trawl allocation, which is found at § 660.140(d)(1)(ii)(D).
ᶠ Consistent with regulations at § 660.55(c), 10 percent (1,054 mt) of the total trawl allocation for widow rockfish is allocated to the whiting fisheries, as follows: 442.7 mt for the shorebased IFQ fishery, 253 mt for the mothership fishery, and 358.4 mt for the catcher/processor fishery. The tonnage calculated here for the whiting portion of the shorebased IFQ fishery contributes to the total shorebased trawl allocation, which is found at § 660.140(d)(1)(ii)(D).

Table 1c to Part 660, Subpart C—Sablefish North of 36° N lat. Allocations, 2019
Year | ACL | Set-asides: Tribal ᵃ | Set-asides: Research | Recreational estimate | EFP | Commercial HG | Limited Entry HG: Percent | Limited Entry HG: mt | Open Access HG: Percent | Open Access HG: mt ᵇ
2019 | 5,606 | 561 | 30.68 | 6 | 1.1 | 5,007 | 90.6 | 4,537 | 9.4 | 471

Year | LE All | Limited entry trawl ᶜ: All trawl | Limited entry trawl ᶜ: At-sea whiting | Limited entry trawl ᶜ: Shorebased IFQ | Limited entry fixed gear ᵈ: All FG | Limited entry fixed gear ᵈ: Primary | Limited entry fixed gear ᵈ: DTL
2019 | 4,537 | 2,631 | 50 | 2,581 | 1,905 | 1,620 | 286
ᵃ The tribal allocation is further reduced by 1.5 percent for discard mortality resulting in 553 mt in 2019.
ᵇ The open access HG is taken by the incidental OA fishery and the directed OA fishery.
ᶜ The trawl allocation is 58 percent of the limited entry HG.
ᵈ The limited entry fixed gear allocation is 42 percent of the limited entry HG.

Table 1d to Part 660, Subpart C—At-Sea Whiting Fishery Annual Set-Asides, 2019
Stock or stock complex | Area | Set aside (mt)
COWCOD | S of 40°10 N lat | NA.
YELLOWEYE ROCKFISH | Coastwide | 0.
Arrowtooth flounder | Coastwide | 70.
Bocaccio | S of 40°10 N lat | NA.
Canary rockfish ᵃ | Coastwide | Allocation.
Chilipepper rockfish | S of 40°10 N lat | NA.
Darkblotched rockfish ᵇ | Coastwide | 36.3.
Dover sole | Coastwide | 5.
English sole | Coastwide | 5.
Lingcod | N of 40°10 N lat | 15.
Lingcod | S of 40°10 N lat | NA.
Longnose skate | Coastwide | 5.
Longspine thornyhead | N of 34°27 N lat | 5.
Longspine thornyhead | S of 34°27 N lat | NA.
Minor Nearshore Rockfish | N of 40°10 N lat | NA.
Minor Nearshore Rockfish | S of 40°10 N lat | NA.
Minor Shelf Rockfish | N of 40°10 N lat | 35.
Minor Shelf Rockfish | S of 40°10 N lat | NA.
Minor Slope Rockfish | N of 40°10 N lat | 100.
Minor Slope Rockfish | S of 40°10 N lat | NA.
Other Fish | Coastwide | NA.
Other Flatfish | Coastwide | 20.
Pacific cod | Coastwide | 5.
Pacific Halibut ᶜ | Coastwide | 10.
Pacific ocean perch ᵈ | N of 40°10 N lat | 404.5.
Pacific Whiting | Coastwide | Allocation.
Petrale sole | Coastwide | 5.
Sablefish | N of 36° N lat | 50.
Sablefish | S of 36° N lat | NA.
Shortspine thornyhead | N of 34°27 N lat | 30.
Shortspine thornyhead | S of 34°27 N lat | NA.
Starry flounder | Coastwide | 5.
Widow rockfish ᵃ | Coastwide | Allocation.
Yellowtail rockfish | N of 40°10 N lat | 300.
ᵃ See Table 1b to this subpart for the at-sea whiting allocations for these species.
ᵇ Darkblotched rockfish will be managed as set-asides for the MS and C/P sectors based on pro-rata distribution described at § 660.55(c)(1)(i)(A), resulting in a set-aside of 15.0 mt for the MS sector, and a set-aside of 21.3 mt for the C/P sector.
ᶜ As stated in § 660.55(m), the Pacific halibut set-aside is 10 mt, to accommodate bycatch in the at-sea Pacific whiting fisheries and in the shorebased trawl sector south of 40°10 N lat. (estimated to be approximately 5 mt each).
ᵈ Pacific ocean perch will be managed as set-asides for the MS and C/P sectors based on pro-rata distribution described at § 660.55(c)(1)(i)(B), resulting in a set-aside of 167.4 mt for the MS sector, and a set-aside of 237.1 mt for the C/P sector.

11. Tables 2a to part 660, subpart C, through 2d to part 660, subpart C, are revised to read as follows:

Sec.
* * * * *
Table 2a to Part 660, Subpart C—2020, and Beyond, SpecificatioN of OFL, ABC, ACL, ACT and Fishery Harvest Guidelines (Weights in Metric Tons)
Table 2b to Part 660, Subpart C—2020, and Beyond, Allocations by Species or Species Group [Weight in Metric Tons]
Table 2c to Part 660, Subpart C—Sablefish North of 36° N lat. Allocations, 2020 and Beyond
Table 2d to Part 660, Subpart C—At-Sea Whiting Fishery Annual Set-Asides, 2020 and Beyond

* * * * *

Table 2a to Part 660, Subpart C—2020, and Beyond, SpecificatioN of OFL, ABC, ACL, ACT and Fishery Harvest Guidelines
[Weights in metric tons]
Stocks/stock complexes | Area | OFL | ABC | ACL ᵃ | Fishery HG ᵇ
COWCOD ᶜ | S of 40°10′ N lat | 76 | 68 | 10 | 8.
COWCOD | (Conception) | 62 | 57 | NA | NA.
COWCOD | (Monterey) | 13 | 11 | NA | NA.
YELLOWEYE ROCKFISH ᵈ | Coastwide | 84 | 77 | 49 | 43.
Arrowtooth Flounder ᵉ | Coastwide | 15,306 | 12,750 | 12,750 | 10,655.
Big Skate ᶠ | Coastwide | 541 | 494 | 494 | 452.
Black Rockfish ᵍ | California (S of 42° N lat.) | 341 | 326 | 326 | 325.
Black Rockfish ʰ | Washington (N of 46°16′ N lat.) | 311 | 297 | 297 | 279.
Bocaccio ⁱ | S of 40°10′ N lat | 2,104 | 2,011 | 2,011 | 1,965.
Cabezon ʲ | California (S of 42° N lat.) | 153 | 146 | 146 | 146.
California Scorpionfish ᵏ | S of 34°27′ N lat | 331 | 307 | 307 | 305.
Canary Rockfish ˡ | Coastwide | 1,431 | 1,368 | 1,368 | 1,301.
Chilipepper Rockfish ᵐ | S of 40°10′ N lat | 2,521 | 2,410 | 2,410 | 2,325.
Darkblotched Rockfish ⁿ | Coastwide | 853 | 815 | 815 | 781.
Dover Sole ᵒ | Coastwide | 92,048 | 87,998 | 50,000 | 48,404.
English Sole ᵖ | Coastwide | 11,101 | 10,135 | 10,135 | 9,919.
Lingcod q | N of 40°10′ N lat | 4,768 | 4,558 | 4,541 | 4,263.
Lingcod ʳ | S of 40°10′ N lat | 977 | 934 | 869 | 858.
Longnose Skate ˢ | Coastwide | 2,474 | 2,365 | 2,000 | 1,852.
Longspine Thornyhead ᵗ | N of 34°27′ N lat | 3,901 | 3,250 | 2,470 | 2,420.
Longspine Thornyhead ᵘ | S of 34°27′ N lat |  |  | 780 | 779.
Pacific Cod ᵛ | Coastwide | 3,200 | 2,221 | 1,600 | 1,094.
Pacific Whiting ʷ | Coastwide | (ʷ) | (ʷ) | (ʷ) | (ʷ)
Pacific Ocean Perch ˣ | N of 40°10′ N lat | 4,632 | 4,229 | 4,229 | 4,207.
Petrale Sole ʸ | Coastwide | 2,976 | 2,845 | 2,845 | 2,524.
Sablefish ᶻ | N of 36° N lat | 8,648 | 7,896 | 5,723 | See Table 2c.
Sablefish ᵃᵃ | S of 36° N lat |  |  | 2,032 | 2,028.
Shortbelly Rockfish ᵇᵇ | Coastwide | 6,950 | 5,789 | 500 | 483.
Shortspine Thornyhead ᶜᶜ | N of 34°27′ N lat | 3,063 | 2,551 | 1,669 | 1,604.
Shortspine Thornyhead ᵈᵈ | S of 34°27′ N lat |  |  | 883 | 882.
Spiny Dogfish ᵉᵉ | Coastwide | 2,472 | 2,059 | 2,059 | 1,726.
Splitnose Rockfish ᶠᶠ | S of 40°10′ N lat | 1,810 | 1,731 | 1,731 | 1,714.
Starry Flounder ᵍᵍ | Coastwide | 652 | 452 | 452 | 433.
Widow Rockfish ʰʰ | Coastwide | 11,714 | 11,199 | 11,199 | 10,951.
Yellowtail Rockfish ⁱⁱ | N of 40°10′ N lat | 6,261 | 5,986 | 5,986 | 4,941.
Black Rockfish/Blue Rockfish/Deacon Rockfish ʲʲ | Oregon (Between 46°16′ N lat. and 42° N lat.) | 670 | 611 | 611 | 609.
Cabezon/Kelp Greenling ᵏᵏ | Oregon (Between 46°16′ N lat. and 42° N lat.) | 216 | 204 | 204 | 204.
Cabezon/Kelp Greenling ˡˡ | Washington (N of 46°16′ N lat.) | 12 | 10 | 10 | 10.
Nearshore Rockfish ᵐᵐ | N of 40°10′ N lat | 92 | 82 | 82 | 79.
Shelf Rockfish ⁿⁿ | N of 40°10′ N lat | 2,302 | 2,048 | 2,048 | 1,971.
Slope Rockfish ᵒᵒ | N of 40°10′ N lat | 1,873 | 1,732 | 1,732 | 1,651.
Nearshore Rockfish ᵖᵖ | S of 40°10′ N lat | 1,322 | 1,165 | 1,163 | 1,159.
Shelf Rockfish qq | S of 40°10′ N lat | 1,919 | 1,626 | 1,625 | 1,546.
Slope Rockfish ʳʳ | S of 40°10′ N lat | 855 | 743 | 743 | 723.
Other Flatfish ˢˢ | Coastwide | 8,202 | 6,041 | 6,041 | 5,792.
Other Fish ᵗᵗ | Coastwide | 286 | 239 | 239 | 230.
ᵃ Annual catch limits (ACLs), annual catch targets (ACTs) and harvest guidelines (HGs) are specified as total catch values.
ᵇ Fishery HGs means the HG or quota after subtracting Pacific Coast treaty Indian tribes allocations and projected catch, projected research catch, deductions for fishing mortality in non-groundfish fisheries, and deductions for EFPs from the ACL or ACT.
ᶜ Cowcod south of 40°10′ N lat. 2 mt is deducted from the ACL to accommodate EFP fishing (less than 0.1 mt) and research activity (2 mt), resulting in a fishery HG of 8 mt. Any additional mortality in research activities will be deducted from the ACL. A single ACT of 6 mt is being set for the Conception and Monterey areas combined.
ᵈ Yelloweye rockfish. The 49 mt ACL is based on the current rebuilding plan with a target year to rebuild of 2029 and an SPR harvest rate of 65 percent. 6.1 mt is deducted from the ACL to accommodate the Tribal fishery (2.3 mt), the incidental open access fishery (0.62 mt), EFP catch (0.24 mt) and research catch (2.92 mt), resulting in a fishery HG of 43 mt. The non-trawl HG is 39.5 mt. The non-nearshore HG is 2.1 mt and the nearshore HG is 6.2 mt. Recreational HGs are: 10.2 mt (Washington); 9.1 mt (Oregon); and 11.9 mt (California). In addition, there are the following ACTs: Non-nearshore (1.7 mt), nearshore (4.9 mt), Washington recreational (8.1 mt), Oregon recreational (7.2 mt), and California recreational (9.4 mt).
ᵉ Arrowtooth flounder. 2,094.9 mt is deducted from the ACL to accommodate the Tribal fishery (2,041 mt), the incidental open access fishery (40.8 mt), EFP fishing (0.1 mt), and research catch (13 mt), resulting in a fishery HG of 10,655 mt.
ᶠ Big skate. 41.9 mt is deducted from the ACL to accommodate the Tribal fishery (15 mt), the incidental open access fishery (21.3 mt), EFP fishing (0.1 mt), and research catch (5.5 mt), resulting in a fishery HG of 452 mt.
ᵍ Black rockfish (California). 1.3 mt is deducted from the ACL to accommodate EFP fishing (1.0 mt) and the incidental open access fishery (0.3 mt), resulting in a fishery HG of 325 mt.
ʰ Black rockfish (Washington). 18.1 mt is deducted from the ACL to accommodate the Tribal fishery (18 mt) and research catch (0.1 mt), resulting in a fishery HG of 279 mt.
ⁱ Bocaccio south of 40°10′ N lat. The stock is managed with stock-specific harvest specifications south of 40°10′ N lat. and within the Minor Shelf Rockfish complex north of 40°10′ N lat. 46.1 mt is deducted from the ACL to accommodate the incidental open access fishery (0.5 mt), EFP catch (40 mt) and research catch (5.6 mt), resulting in a fishery HG of 1,965 mt. The California recreational fishery has an HG of 827.2 mt.
ʲ Cabezon (California). 0.3 mt is deducted from the ACL to accommodate the incidental open access fishery, resulting in a fishery HG of 146 mt.
ᵏ California scorpionfish south of 34°27′ N lat. 2.4 mt is deducted from the ACL to accommodate the incidental open access fishery (2.2 mt) and research catch (0.2 mt), resulting in a fishery HG of 305 mt.
ˡ Canary rockfish. 67.1 mt is deducted from the ACL to accommodate the Tribal fishery (50 mt), the incidental open access fishery (1.3 mt), EFP catch (8 mt), and research catch (7.8 mt), resulting in a fishery HG of 1,301 mt. Recreational HGs are: 44.3 mt (Washington); 66.5 mt (Oregon); and 119.7 mt (California).
ᵐ Chilipepper rockfish south of 40°10′ N lat. Chilipepper are managed with stock-specific harvest specifications south of 40°10′N lat. and within the Minor Shelf Rockfish complex north of 40°10′ N lat. 84.9 mt is deducted from the ACL to accommodate the incidental open access fishery (11.5 mt), EFP fishing (60 mt), and research catch (13.4 mt), resulting in a fishery HG of 2,325 mt.
ⁿ Darkblotched rockfish. 33.8 mt is deducted from the ACL to accommodate the Tribal fishery (0.2 mt), the incidental open access fishery (24.5 mt), EFP catch (0.6 mt), and research catch (8.5 mt) resulting in a fishery HG of 781 mt.
ᵒ Dover sole. 1,595.6 mt is deducted from the ACL to accommodate the Tribal fishery (1,497 mt), the incidental open access fishery (49.3 mt), EFP fishing (0.1 mt), and research catch (49.2 mt), resulting in a fishery HG of 48,404 mt.
ᵖ English sole. 216.2 mt is deducted from the ACL to accommodate the Tribal fishery (200 mt), the incidental open access fishery (8.1 mt), EFP fishing (0.1 mt), and research catch (8 mt), resulting in a fishery HG of 9,919 mt.
q Lingcod north of 40°10′ N lat. 278 mt is deducted from the ACL for the Tribal fishery (250 mt), the incidental open access fishery (9.8 mt), EFP catch (1.6 mt) and research catch (16.6 mt), resulting in a fishery HG of 4,263 mt.
ʳ Lingcod south of 40°10′ N lat. 11.3 mt is deducted from the ACL to accommodate the incidental open access fishery (8.1 mt) and research catch (3.2 mt), resulting in a fishery HG of 858 mt.
ˢ Longnose skate. 148.3 mt is deducted from the ACL to accommodate the Tribal fishery (130 mt), incidental open access fishery (5.7 mt), EFP catch (0.1 mt), and research catch (12.5 mt), resulting in a fishery HG of 1,852 mt.
ᵗ Longspine thornyhead. 50.4 mt is deducted from the ACL to accommodate the Tribal fishery (30 mt), the incidental open access fishery (6.2 mt), and research catch (14.2 mt), resulting in a fishery HG of 2,420 mt.
ᵘ Longspine thornyhead south of 34°27′ N lat. 1.4 mt is deducted from the ACL to research catch, resulting in a fishery HG of 779 mt.
ᵛ Pacific cod. 506.2 mt is deducted from the ACL to accommodate the Tribal fishery (500 mt), EFP catch (0.1 mt), research catch (5.5 mt), and the incidental open access fishery (0.6 mt), resulting in a fishery HG of 1,094 mt.
ʷ Pacific whiting. Pacific whiting are assessed annually. The final specifications will be determined consistent with the U.S.-Canada Pacific Whiting Agreement and will be announced after the Council's April 2020 meeting.
ˣ Pacific ocean perch north of 40°10′ N lat. 22.4 mt is deducted from the ACL to accommodate the Tribal fishery (9.2 mt), the incidental open access fishery (10 mt), EFP fishing (0.1 mt), and research catch (3.1 mt)-resulting in a fishery HG of 4,207 mt.
ʸ Petrale sole. 320.6 mt is deducted from the ACL to accommodate the Tribal fishery (290 mt), the incidental open access fishery (6.4 mt), EFP catch (0.1 mt), and research catch (24.1 mt), resulting in a fishery HG of 2,524 mt.
ᶻ Sablefish north of 36° N lat. The 40-10 adjustment is applied to the ABC to derive a coastwide ACL value because the stock is in the precautionary zone. This coastwide ACL value is not specified in regulations. The coastwide ACL value is apportioned north and south of 36° N lat., using the 2003-2014 average estimated swept area biomass from the NMFS NWFSC trawl survey, with 73.8 percent apportioned north of 36° N lat. and 26.2 percent apportioned south of 36° N lat. The northern ACL is 5,723 mt and is reduced by 572 mt for the Tribal allocation (10 perceN of the ACL north of 36° N lat.). The 572 mt Tribal allocation is reduced by 1.5 percent to account for discard mortality. Detailed sablefish allocations are shown in Table 2c.
ᵃᵃ Sablefish south of 36° N lat. The ACL for the area south of 36° N lat. is 2,032 mt (26.2 perceN of the calculated coastwide ACL value). 4.2 mt is deducted from the ACL to accommodate the incidental open access fishery (1.8 mt) and research catch (2.4 mt), resulting in a fishery HG of 2,028 mt.
ᵇᵇ Shortbelly rockfish. 17.2 mt is deducted from the ACL to accommodate the incidental open access fishery (8.9 mt), EFP catch (0.1 mt), and research catch (8.2 mt), resulting in a fishery HG of 483 mt.
ᶜᶜ Shortspine thornyhead north of 34°27′ N lat. 65.3 mt is deducted from the ACL to accommodate the Tribal fishery (50 mt), the incidental open access fishery (4.7 mt), EFP catch (0.1 mt), and research catch (10.5 mt), resulting in a fishery HG of 1,604 mt for the area north of 34°27′ N lat.
ᵈᵈ Shortspine thornyhead south of 34°27′ N lat. 1.2 mt is deducted from the ACL to accommodate the incidental open access fishery (0.5 mt) and research catch (0.7 mt), resulting in a fishery HG of 882 mt for the area south of 34°27′ N lat.
ᵉᵉ Spiny dogfish. 333 mt is deducted from the ACL to accommodate the Tribal fishery (275 mt), the incidental open access fishery (22.6 mt), EFP catch (1.1 mt), and research catch (34.3 mt), resulting in a fishery HG of 1,726 mt.
ᶠᶠ Splitnose rockfish south of 40°10′ N lat. Splitnose rockfish in the north is managed in the Slope Rockfish complex and with stock-specific harvest specifications south of 40°10′ N lat. 16.6 mt is deducted from the ACL to accommodate the incidental open access fishery (5.8 mt), research catch (9.3 mt) and EFP catch (1.5 mt), resulting in a fishery HG of 1,714 mt.
ᵍᵍ Starry flounder. 18.8 mt is deducted from the ACL to accommodate the Tribal fishery (2 mt), EFP catch (0.1 mt), research catch (0.6 mt), and the incidental open access fishery (16.1 mt), resulting in a fishery HG of 433 mt.
ʰʰ Widow rockfish. 248.4 mt is deducted from the ACL to accommodate the Tribal fishery (200 mt), the incidental open access fishery (3.1 mt), EFP catch (28 mt) and research catch (17.3 mt), resulting in a fishery HG of 10,951 mt.
ⁱⁱ Yellowtail rockfish north of 40°10′ N lat. 1,045.1 mt is deducted from the ACL to accommodate the Tribal fishery (1,000 mt), the incidental open access fishery (4.5 mt), EFP catch (20 mt) and research catch (20.6 mt), resulting in a fishery HG of 4,941 mt.
ʲʲ Black rockfishBlue rockfishDeacon rockfish (Oregon). 1.2 mt is deducted from the ACL to accommodate the incidental open access fishery (0.3 mt) and EFP catch (0.9 mt), resulting in a fishery HG of 609 mt.
ᵏᵏ CabezonKelp greenling (Oregon). 0.2 mt is deducted from the ACL to accommodate EFP catch, resulting in a fishery HG of 204 mt.
ˡˡ CabezonKelp greenling (Washington). There are no deductions from the ACL so the fishery HG is equal to the ACL of 10 mt.
ᵐᵐ Nearshore Rockfish north of 40°10′ N lat. 2.8 mt is deducted from the ACL to accommodate the Tribal fishery (1.5 mt), EFP catch (0.1 mt), research catch (0.3), and the incidental open access fishery (0.9 mt), resulting in a fishery HG of 79 mt.
ⁿⁿ Shelf Rockfish north of 40°10′ N lat. 76.9 mt is deducted from the ACL to accommodate the Tribal fishery (30 mt), the incidental open access fishery (17.7 mt), EFP catch (4.5 mt), and research catch (24.7 mt), resulting in a fishery HG of 1,971 mt.
ᵒᵒ Slope Rockfish north of 40°10′ N lat. 80.8 mt is deducted from the ACL to accommodate the Tribal fishery (36 mt), the incidental open access fishery (21.7 mt), EFP catch (1.5 mt), and research catch (21.6 mt), resulting in a fishery HG of 1,651 mt.
ᵖᵖ Nearshore Rockfish south of 40°10′ N lat. 4.1 mt is deducted from the ACL to accommodate the incidental open access fishery (1.4 mt) and research catch (2.7 mt), resulting in a fishery HG of 1,159 mt.
qq Shelf Rockfish south of 40°10′ N lat. 79.1 mt is deducted from the ACL to accommodate the incidental open access fishery (4.6 mt), EFP catch (60 mt), and research catch (14.5 mt), resulting in a fishery HG of 1,546 mt.
ʳʳ Slope Rockfish south of 40°10′ N lat. 20.2 mt is deducted from the ACL to accommodate the incidental open access fishery (16.9 mt), EFP catch (1 mt), and research catch (2.3 mt), resulting in a fishery HG of 723 mt. Blackgill rockfish has a stock-specific HG for the entire groundfish fishery south of 40°10′ N lat. set equal to the species' contribution to the 40-10-adjusted ACL. HarveS of blackgill rockfish in all groundfish fisheries south of 40°10′ N lat. counts against this HG of 159 mt.
ˢˢ Other Flatfish. The Other Flatfish complex is comprised of flatfish species managed in the PCGFMP that are not managed with stock-specific OFLs/ABCs/ACLs. MoS of the species in the Other Flatfish complex are unassessed and include: butter sole, curlfin sole, flathead sole, Pacific sanddab, rock sole, sand sole, and rex sole. 249.5 mt is deducted from the ACL to accommodate the Tribal fishery (60 mt), the incidental open access fishery (161.6 mt), EFP fishing (0.1 mt), and research catch (27.8 mt), resulting in a fishery HG of 5,792 mt.
ᵗᵗ Other Fish. The Other Fish complex is comprised of kelp greenliN off California and leopard shark coastwide. 8.9 mt is deducted from the ACL to accommodate the incidental open access fishery (8.8 mt) and research catch (0.1 mt), resulting in a fishery HG of 230 mt.

Table 2b to Part 660, Subpart C—2020, and Beyond, Allocations by Species or Species Group
[Weight in metric tons]
Stocks/stock complexes | Area | Fishery HG or ACT ᵃ ᵇ | Trawl: % | Trawl: Mt | Non-trawl: % | Non-trawl: Mt
Arrowtooth flounder | Coastwide | 10,655.1 | 95 | 10,122.3 | 5 | 532.8
Big skate ᵃ | Coastwide | 452.1 | 95 | 429.5 | 5 | 22.6
Bocaccio ᵃ | S of 40°10′ N lat | 1,964.9 | 39 | 767.1 | 61 | 1,197.8
Canary rockfish ᵃ ᵈ | Coastwide | 1,300.9 | 72 | 940.3 | 28 | 360.6
Chilipepper rockfish | S of 40°10′ N lat | 2,325.1 | 75 | 1,743.8 | 25 | 581.3
COWCOD ᵃ ᵇ | S of 40°10′ N lat | 6.0 | 36 | 2.2 | 64 | 3.8
Darkblotched rockfish ᶜ | Coastwide | 781.2 | 95 | 742.1 | 5 | 39.1
Dover sole | Coastwide | 48,404.4 | 95 | 45,984.2 | 5 | 2,420.2
English sole | Coastwide | 9,918.8 | 95 | 9,422.9 | 5 | 495.9
Lingcod | N of 40′10° N lat | 4,263.0 | 45 | 1,918.4 | 55 | 2,344.7
Lingcod | S of 40′10° N lat | 857.7 | 45 | 386.0 | 55 | 471.7
Longnose skate ᵃ | Coastwide | 1,851.7 | 90 | 1,666.5 | 10 | 185.2
Longspine thornyhead | N of 34°27′ N lat | 2,419.6 | 95 | 2,298.6 | 5 | 121.0
Pacific cod | Coastwide | 1,093.8 | 95 | 1,039.1 | 5 | 54.7
Pacific whiting | Coastwide | TBD | 100 | ᶠ | 0 | TBD
Pacific ocean perch ᵉ | N of 40°10′ N lat | 4,206.6 | 95 | 3,996.3 | 5 | 210.3
Petrale sole | Coastwide | 2,524.4 | 95 | 2,398.2 | 5 | 126.2
Sablefish | N of 36° N lat | NA | See Table 2c
Sablefish | S of 36° N lat | 2,027.8 | 42 | 851.7 | 58 | 1,176.1
Shortspine thornyhead | N of 34°27′ N lat | 1,603.7 | 95 | 1,523.5 | 5 | 80.2
Shortspine thornyhead | S of 34°27′ N lat | 881.8 | NA | 50.0 | NA | 831.8
Splitnose rockfish | S of 40°10′ N lat | 1,714.4 | 95 | 1,628.7 | 5 | 85.7
Starry flounder | Coastwide | 433.2 | 50 | 216.6 | 50 | 216.6
Widow rockfish ᶠ | Coastwide | 10,950.6 | 91 | 9,965.0 | 9 | 985.6
YELLOWEYE ROCKFISH | Coastwide | 42.9 | 8 | 3.4 | 92 | 39.5
Yellowtail rockfish | N of 40°10′ N lat | 4,940.9 | 88 | 4,348.0 | 12 | 592.9
Minor Shelf Rockfish North | N of 40°10′ N lat | 1,971.1 | 60.2 | 1,186.6 | 39.8 | 784.5
Minor Shelf Rockfish South | S of 40°10′ N lat | 1,545.9 | 12.2 | 188.6 | 87.8 | 1,357.3
Minor Slope Rockfish North | N of 40°10′ N lat | 1,651.2 | 81 | 1,337.5 | 19 | 313.7
Minor Slope Rockfish South | S of 40°10′ N lat | 722.8 | 63 | 455.4 | 37 | 267.4
Other Flatfish | Coastwide | 5,791.5 | 90 | 5,212.4 | 10 | 579.2
ᵃ Allocations decided through the biennial specification process.
ᵇ The cowcod fishery harvest guideline is further reduced to an ACT of 6.0 mt.
ᶜ 46 mt of the total trawl allocation of canary rockfish is allocated to the MS and C/P sectors, as follows: 30 mt for the MS sector, and 16 mt for the C/P sector.
ᵈ Consistent with regulations at § 660.55(c), 9 percent (66.8 mt) of the total trawl allocation for darkblotched rockfish is allocated to the Pacific whiting fishery, as follows: 28.1 mt for the Shorebased IFQ Program, 16.0 mt for the MS sector, and 22.7 mt for the C/P sector. The tonnage calculated here for the Pacific whiting IFQ fishery contributes to the total shorebased trawl allocation, which is found at § 660.140(d)(1)(ii)(D).
ᵉ Consistent with regulations at § 660.55(c), 17 percent (679.4 mt) of the total trawl allocation for Pacific ocean perch is allocated to the Pacific whiting fishery, as follows: 285.3 mt for the Shorebased IFQ Program, 163.0 mt for the MS sector, and 231.0 mt for the C/P sector. The tonnage calculated here for the Pacific whiting IFQ fishery contributes to the total shorebased trawl allocation, which is found at § 660.140(d)(1)(ii)(D).
ᶠ Consistent with regulations at § 660.55(c), 10 percent (996.5 mt) of the total trawl allocation for widow rockfish is allocated to the whiting fisheries, as follows: 418.5 mt for the shorebased IFQ fishery, 239.2 mt for the mothership fishery, and 338.8 mt for the catcher/processor fishery. The tonnage calculated here for the whiting portion of the shorebased IFQ fishery contributes to the total shorebased trawl allocation, which is found at § 660.140(d)(1)(ii)(D).

Table 2c to Part 660, Subpart C—Sablefish North of 36° N Lat. Allocations, 2020 and Beyond
Year | ACL | Set-asides: Tribal ᵃ | Set-asides: Research | Recreational estimate | EFP | Commercial HG | Limited entry HG: Percent | Limited entry HG: mt | Open access HG: Percent | Open access HG: mt ᵇ
2020 | 5,723 | 572 | 30.68 | 6 | 1.1 | 5,113 | 90.6 | 4,632 | 9.4 | 481

Year | LE All | Limited entry trawl ᶜ: All trawl | Limited entry trawl ᶜ: At-sea whiting | Limited entry trawl ᶜ: Shorebased IFQ | Limited entry fixed gear ᵈ: All FG | Limited entry fixed gear ᵈ: Primary | Limited entry fixed gear ᵈ: DTL
2020 | 4,632 | 2,687 | 50 | 2,637 | 1,946 | 1,654 | 292
ᵃ The tribal allocation is further reduced by 1.5 percent for discard mortality resulting in 563 mt in 2020.
ᵇ The open access HG is taken by the incidental OA fishery and the directed OA fishery.
ᶜ The trawl allocation is 58 percent of the limited entry HG.
ᵈ The limited entry fixed gear allocation is 42 percent of the limited entry HG.

Table 2d to Part 660, Subpart C—At-Sea Whiting Fishery Annual Set-Asides, 2020 and Beyond
Stock or stock complex | Area | Set aside (mt)
COWCOD | S of 40°10 N lat | NA
YELLOWEYE ROCKFISH | Coastwide | 0
Arrowtooth flounder | Coastwide | 70
Bocaccio | S of 40°10 N lat | NA
Canary rockfish ᵃ | Coastwide | Allocation
Chilipepper rockfish | S of 40°10 N lat | NA
Darkblotched rockfish ᵇ | Coastwide | 38.7
Dover sole | Coastwide | 5
English sole | Coastwide | 5
Lingcod | N of 40°10 N lat | 15
Lingcod | S of 40°10 N lat | NA
Longnose skate | Coastwide | 5
Longspine thornyhead | N of 34°27 N lat | 5
Longspine thornyhead | S of 34°27 N lat | NA
Minor Nearshore Rockfish | N of 40°10 N lat | NA
Minor Nearshore Rockfish | S of 40°10 N lat | NA
Minor Shelf Rockfish | N of 40°10 N lat | 35
Minor Shelf Rockfish | S of 40°10 N lat | NA
Minor Slope Rockfish | N of 40°10 N lat | 100
Minor Slope Rockfish | S of 40°10 N lat | NA
Other Fish | Coastwide | NA
Other Flatfish | Coastwide | 20
Pacific cod | Coastwide | 5
Pacific Halibut ᶜ | Coastwide | 10
Pacific ocean perch ᵈ | N of 40°10 N lat | 394
Pacific Whiting | Coastwide | Allocation
Petrale sole | Coastwide | 5
Sablefish | N of 36° N lat | 50
Sablefish | S of 36° N lat | NA
Shortspine thornyhead | N of 34°27 N lat | 30
Shortspine thornyhead | S of 34°27 N lat | NA
Starry flounder | Coastwide | 5
Widow Rockfish ᵃ | Coastwide | Allocation
Yellowtail rockfish | N of 40°10 N lat | 300
ᵃ See Table 1b to this subpart for the at-sea whiting allocations for these species.
ᵇ Darkblotched rockfish will be managed as set-asides for the MS and C/P sectors based on pro-rata distribution described at § 660.55(c)(1)(i)(A), resulting in a set-aside of 16.0 mt for the MS sector, and a set-aside of 22.7 mt for the C/P sector.
ᶜ As stated in § 660.55(m), the Pacific halibut set-aside is 10 mt, to accommodate bycatch in the at-sea Pacific whiting fisheries and in the shorebased trawl sector south of 40°10 N lat. (estimated to be approximately 5 mt each).
ᵈ Pacific ocean perch will be managed as set-asides for the MS and C/P sectors based on pro-rata distribution described at § 660.55(c)(1)(i)(B), resulting in a set-aside of 163 mt for the MS sector, and a set-aside of 231 mt for the C/P sector.

12. In § 660.130, revise paragraphs (c)(2)(ii) and (iii), (d)(1)(ii), and (e)(6) and add paragraph (e)(8) to read as follows:

§ 660.130 Trawl fishery—management measures.

* * * * *

(c) * * *

(2) * * *

(ii) Salmon bycatch mitigation restrictions. The use of small footrope trawl, other than selective flatfish trawl gear, is prohibited between 42° North latitude and 40°10′ North latitude.

(iii) Salmon conservation area restrictions. The uS of small footrope trawl, other than of selective flatfish trawl gear, is required inside the Klamath River Salmon Conservation Zone (defined at § 660.131(c)(1)) and the Columbia River Salmon Conservation Zone (defined at § 660.131(c)(2)).

* * * * *

(d) * * *

(1) * * *

(ii) North of 40°10′ N lat. POP, yellowtail rockfish, Washington cabezon/kelp greenling complex, Oregon cabezon/kelp greenling complex, cabezon off California; and

* * * * *

(e) * * *

(6) Bycatch reduction areas (BRAs). Vessels using midwater groundfish trawl gear during the applicable Pacific whiting primary season may be prohibited from fishing shoreward of a boundary line approximating the 75 fm (137 m), 100 fm (183 m), 150 fm (274 m), or 200 fm (366 m) depth contours.

* * * * *

(8) Salmon conservation zones. Fishing with midwater trawl gear and bottom trawl gear, other than selective flatfish trawl gear, is prohibited in the following areas:

(i) Klamath River Salmon Conservation Zone. The ocean area surrounding the Klamath River mouth bounded on the north by 41°38.80′ N lat. (approximately 6 nm north of the Klamath River mouth), on the west by 124°23′ W long. (approximately 12 nm from shore), and on the south by 41°26.80′ N lat. (approximately 6 nm south of the Klamath River mouth).

(ii) Columbia River Salmon Conservation Zone. The ocean area surrounding the Columbia River mouth bounded by a line extending for 6 nm due west from North Head along 46°18′ N lat. to 124°13.30′ W long., then southerly along a line of 167 True to 46°11.10′ N lat. and 124°11′ W long. (Columbia River Buoy), then northeast along Red Buoy Line to the tip of the south jetty.

13. In § 660.131, remove and reserve paragraph (c)(3) and add paragraph (i) to read as follows:

§ 660.131 Pacific whiting fishery management measures.

* * * * *

(i) Salmon bycatch. This fishery may be closed through automatic action at § 660.60(d)(1)(v) and (vi).

14. In § 660.140, revise paragraphs (d)(1)(ii)(D), (e)(4)(i), (g)(1), (h)(1)(i)(A)(3), and (l)(2) to read as follows:

§ 660.140 Shorebased IFQ Program.

* * * * *

(d) * * *

(1) * * *

(ii) * * *

(D) For the trawl fishery, NMFS will issue QP based on the following shorebased trawl allocations:

IFQ species | Area | 2019 Shorebased trawl allocation (mt) | 2020 Shorebased trawl allocation (mt)
Arrowtooth flounder | Coastwide | 12,735.1 | 10,052.3
Bocaccio | South of 40°10′ N lat | 800.7 | 767.1
Canary rockfish | Coastwide | 946.9 | 887.8
Chilipepper | South of 40°10′ N lat | 1,838.3 | 1,743.8
COWCOD | South of 40°10′ N lat | 2.2 | 2.2
Darkblotched rockfish | Coastwide | 658.4 | 703.4
Dover sole | Coastwide | 45,979.2 | 45,979.2
English sole | Coastwide | 9,375.1 | 9,417.9
Lingcod | North of 40°10′ N lat | 2,051.9 | 1,903.4
Lingcod | South of 40°10′ N lat | 462.5 | 386.0
Longspine thornyhead | North of 34°27′ N lat | 2,420.0 | 2,293.6
Minor Shelf Rockfish complex | North of 40°10′ N lat | 1,155.2 | 1,151.6
Minor Shelf Rockfish complex | South of 40°10′ N lat | 188.6 | 188.6
Minor Slope Rockfish complex | North of 40°10′ N lat | 1,248.8 | 1,237.5
Minor Slope Rockfish complex | South of 40°10′ N lat | 456.0 | 455.4
Other Flatfish complex | Coastwide | 5,603.7 | 5,192.4
Pacific cod | Coastwide | 1,034.1 | 1,034.1
Pacific ocean perch | North of 40°10′ N lat | 3,697.3 | 3,602.2
Pacific whiting | Coastwide | TBD | TBD
Petrale sole | Coastwide | 2,453.0 | 2,393.2
Sablefish | North of 36° N lat. | 2,581.3 | 2,636.8
Sablefish | South of 36° N lat | 834.0 | 851.7
Shortspine thornyhead | North of 34°27′ N lat | 1,511.8 | 1,498.5
Shortspine thornyhead | South of 34°27′ N lat | 50.0 | 50.0
Splitnose rockfish | South of 40°10′ N lat | 1,646.7 | 1,628.7
Starry flounder | Coastwide | 211.6 | 211.6
Widow rockfish | Coastwide | 9,928.8 | 9,387.1
YELLOWEYE ROCKFISH | Coastwide | 3.4 | 3.4
Yellowtail rockfish | North of 40°10′ N lat | 4,305.8 | 4,048.0

* * * * *

(e) * * *

(4) * * *

(i) Vessel limits. For each IFQ species or species group specified in this paragraph (e)(4)(i), vessel accounts may not have QP or IBQ pounds in excess of the annual QP vessel limit in any year. The annual QP vessel limit is calculated as all QPs transferred in minus all QPs transferred out of the vessel account.

Species category | Annual QP vessel limit (in percent)
Arrowtooth flounder | 20
Bocaccio S of 40°10′ N lat | 15.4
Canary rockfish | 10
Chilipepper S of 40°10′ N lat | 15
Cowcod S of 40°10′ N lat | 17.7
Darkblotched rockfish | 6.8
Dover sole | 3.9
English sole | 7.5
Lingcod:
N of 40°10′ N lat | 5.3
S of 40°10′ N lat | 13.3
Longspine thornyhead:
N of 34°27′ N lat | 9
Minor rockfish complex N of 40°10′ N lat.:
Shelf species | 7.5
Slope species | 7.5
Minor rockfish complex S of 40°10′ N lat.:
Shelf species | 13.5
Slope species | 9
Other Flatfish complex | 15
Pacific cod | 20
Pacific halibut (IBQ) N of 40°10′ N lat | 14.4
Pacific ocean perch N of 40°10′ N lat | 6
Pacific whiting (shoreside) | 15
Petrale sole | 4.5
Sablefish:
N of 36° N lat. (Monterey north) | 4.5
S of 36° N lat. (Conception area) | 15
Shortspine thornyhead:
N of 34°27′ N lat | 9
S of 34°27′ N lat | 9
Splitnose rockfish S of 40°10′ N lat | 15
Starry flounder | 20
Widow rockfish | 8.5
Yelloweye rockfish | 11.4
Yellowtail rockfish N of 40°10′ N lat | 7.5
Non-whiting groundfish species | 3.2

* * * * *

(g) * * *

(1) General. Shorebased IFQ Program vessels may discard IFQ species/species groups, and the discard mortality must be accounted for and deducted from QP in the vessel account. With the exception of vessels on Pacific whiting IFQ trips engaged in maximized retention, prohibited and protected species must be discarded at sea; Pacific halibut must be discarded as soon as practicable and the discard mortality must be accounted for and deducted from IBQ pounds in the vessel account. Non-IFQ species and non-groundfish species may be discarded at sea. The sorting of catch, the weighing and discarding of any IBQ and IFQ species, and the retention of IFQ species must be monitored by the observer.

* * * * *

(h) * * *

(1) * * *

(i) * * *

(A) * * *

(3) Is exempt from the requirement to maintain observer coverage as specified in this paragraph (h) while remaining docked in port when the observer makes available to the catch monitor an Observer Program reporting form documenting the weight and number of any overfished species listed under a rebuilding plan at § 660.40 retained during that trip and which documents any discrepancy the vessel operator and observer may have in the weights and number of the overfished species, unless modified inseason under routine management measures at § 660.60(c)(1).

* * * * *

(l) * * *

(2) AMP QP pass through. The 10 percent of non-whiting QS will be reserved for the AMP, but the resulting AMP QP will be issued to all QS permit owners in proportion to their non-whiting QS until an alternative use of AMP QP is implemented.

15. In § 660.150, revise paragraph (c)(1)(ii) to read as follows:

§ 660.150 Mothership (MS) Coop Program.

* * * * *

(c) * * *

(1) * * *

(ii) Species with set-asides for the MS and C/P Coop Programs, as described in Table 1d and Table 2d to subpart C of this part.

* * * * *

16. In § 660.160, revise paragraph (c)(1)(ii) to read as follows:

§ 660.160 Catcher/processor (C/P) Coop Program.

* * * * *

(c) * * *

(1) * * *

(ii) Species with set-asides for the MS and C/P Programs, as described in Table 1d and Table 2d to subpart C of this part.

* * * * *

17. Revise Tables 1 (North) and 1 (South) to part 660, subpart D, to read as follows:

Table 1 (North) to Part 660, Subpart D—Limited Entry Trawl Rockfish Conservation Areas and Landing Allowances for non-IFQ Species and Pacific Whiting North of 40°10′ N Lat.

Table 1 (South) to Part 660, Subpart D—Limited Entry Trawl Rockfish Conservation Areas and Landing Allowances for non-IFQ Species and Pacific Whiting South of 40°10′ N Lat.

18. In § 660.230, revise paragraphs (c)(2)(ii) and (d)(10)(ii) and add paragraph (f) to read as follows:

§ 660.230 Fixed gear fishery—management measures.

* * * * *

(c) * * *

(2) * * *

(ii) North of 40°10′ N lat.—POP, yellowtail rockfish, cabezon (California), Washington cabezon/kelp greenling complex, Oregon cabezon/kelp greenling complex; and

* * * * *

(d) * * *

(10) * * *

(ii) Fishing for rockfish and lingcod is permitted shoreward of the 40 fm (73 m) depth contour within the CCAs when trip limits authorize such fishing and provided a valid declaration report as required at § 660.13(d) has been filed with NMFS OLE.

* * * * *

(f) Salmon bycatch. This fishery may be closed through automatic action at § 660.60(d)(1)(v) and (vi).

19. In § 660.231, revise paragraph (b)(3)(i) to read as follows:

§ 660.231 Limited entry fixed gear sablefish primary fishery.

* * * * *

(b) * * *

(3) * * *

(i) A vessel participating in the primary season will be constrained by the sablefish cumulative limit associated with each of the permits registered for use with that vessel. During the primary season, each vessel authorized to fish in that season under paragraph (a) of this section may take, retain, possess, and land sablefish, up to the cumulative limits for each of the permits registered for use with that vessel (i.e., stacked permits). If multiple limited entry permits with sablefish endorsements are registered for use with a single vessel, that vessel may land up to the total of all cumulative limits announced in this paragraph for the tiers for those permits, except as limited by paragraph (b)(3)(ii) of this section. Up to 3 permits may be registered for use with a single vessel during the primary season; thus, a single vessel may not take and retain, possess or land more than 3 primary season sablefish cumulative limits in any one year. A vessel registered for use with multiple limited entry permits is subject to per vessel limits for species other than sablefish, and to per vessel limits when participating in the daily trip limit fishery for sablefish under § 660.232. In 2019, the following annual limits are in effect: Tier 1 at 47,637 lbs (21,608 kg), Tier 2 at 21,653 lbs (9,822 kg), and Tier 3 at 12,373 lbs (5,612 kg). In 2020 and beyond, the following annual limits are in effect: Tier 1 at 48,642 lbs (22,064 kg), Tier 2 at 22,110 lbs (10,029 kg), and Tier 3 at 12,634 lbs (5,731 kg).

* * * * *

20. Revise Tables 2 (North) and 2 (South) to part 660, subpart E, to read as follows:

Table 2 (North) to Part 660, Subpart E—Non-Trawl Rockfish Conservation Areas and Trip Limits for Limited Entry Fixed Gear North of 40°10′ N Lat.

Table 2 (South) to Part 660, Subpart E—Non-Trawl Rockfish Conservation Areas and Trip Limits for Limited Entry Fixed Gear South of 40°10′ N Lat.

21. In § 660.330, revise paragraph (c)(2)(ii) and (d)(11)(ii) and add paragraph (f) to read as follows:

§ 660.330 Open access fishery—management measures.

* * * * *

(c) * * *

(2) * * *

(ii) North of 40°10′ N. lat.—POP, yellowtail rockfish, cabezon (California), Washington cabezon/kelp greenling complex, Oregon cabezon/kelp greenling complex; and

* * * * *

(d) * * *

(11) * * *

(ii) Fishing for rockfish and lingcod is permitted shoreward of the 40 fm (73 m) depth contour within the CCAs when trip limits authorize such fishing and provided a valid declaration report as required at § 660.13(d) has been filed with NMFS OLE.

* * * * *

(f) Salmon bycatch. This fishery may be closed through automatic action at § 660.60(d)(1)(v) and (vi).

22. In § 660.333, revise paragraph (c)(3) to read as follows:

§ 660.333 Open access non-groundfish trawl fishery—management measures.

* * * * *

(c) * * *

(3) The landing includes California halibut of a size required by California Fish and Game Code section 8392, which states: “No California halibut may be taken, possessed or sold which measures less than 22 in (56 cm) in total length. Total length means the shortest distance between the tip of the jaw or snout, whichever extends farthest while the mouth is closed, and the tip of the longest lobe of the tail, measured while the halibut is lying flat in natural repose, without resort to any force other than the swinging or fanning of the tail.”

* * * * *

23. Revise Tables 3 (North) and 3 (South) in part 660, subpart F, to read as follows:

Table 3 (North) to Part 660, Subpart F—Non-Trawl Rockfish Conservation Areas and Trip Limits for Open Access Gears North of 40°10′ N Lat.

24. Amend § 660.360 as follows:

a. Revise paragraphs (c)(1) introductory text, (c)(1)(i)(D)(1) through (3), (c)(1)(ii) through (iv), (c)(2)(i)(B), (c)(3)(i)(A) through (C), (c)(3)(ii)(A) and (D), (c)(3)(iii)(A), (B), and (D), (c)(3)(iv), and (c)(3)(v)(A) and (B); and

b. Add paragraph (d).

The revisions and addition read as follows:

§ 660.360 Recreational fishery—management measures.

* * * * *

(c) * * *

(1) Washington. For each person engaged in recreational fishing off the coast of Washington, the groundfish bag limit is 9 groundfish per day, including rockfish, cabezon and lingcod. Within the groundfish bag limit, there are sub-limits for rockfish, lingcod, and cabezon outlined in paragraph (c)(1)(i)(D) of this section. In addition to the groundfish bag limit of 9, there will be a flatfish limit of 3 fish, not to be counted towards the groundfish bag limit but in addition to it. The recreational groundfish fishery will open the second Saturday in March through the third Saturday in October for all species. In the Pacific halibut fisheries, retention of groundfish is governed in part by annual management measures for Pacific halibut fisheries, which are published in the Federal Register. The following seasons, closed areas, sub-limits and size limits apply:

(i) * * *

(D) * * *

(1) West of the Bonilla-Tatoosh line between the U.S. border with Canada and the Queets River (Washington state Marine Area 3 and 4), recreational fishing for groundfish is prohibited seaward of a boundary line approximating the 20 fm (37 m) depth contour from June 1 through Labor Day, except on days when the Pacific halibut fishery is open in this area it is lawful to retain lingcod, Pacific cod, and sablefish seaward of the 20 fm (37 m) boundary. Yellowtail and widow rockfish can be retained seaward of 20 fm (37 m) in the months of July and August on days open to the recreational salmon fishery. Days open to Pacific halibut recreational fishing off Washington and days open to recreational fishing for salmon are announced on the NMFS hotline at (206) 526-6667 or (800) 662-9825. Coordinates for the boundary line approximating the 20 fm (37 m) depth contour are listed in § 660.71.

(2) Between the Queets River (47°31.70′ N lat.) and Leadbetter Point (46°38.17′ N lat.) (Washington state Marine Area 2), recreational fishing for lingcod is prohibited seaward of a boundary line approximating the 30 fm (55 m) depth contour from the second Saturday in March through May 31 except that recreational fishing for lingcod is permitted within the RCA on days that the primary halibut fishery is open. In addition to the RCA described in the preceding sentence, between the Queets River (47°31.70′ N lat.) and Leadbetter Point (46°38.17′ N lat.) (Washington state Marine Area 2), recreational fishing for lingcod is prohibited year round seaward of a straight line connecting all of the following points in the order stated: 47°31.70′ N lat., 124°45.00′ W long.; 46°38.17′ N lat., 124°30.00′ W long. with the following exceptions: on days that the primary halibut fishery is open lingcod may be taken, retained and possessed within the lingcod area closure; lingcod may also be taken, retained, and possessed from June 1 through June 15 and from September 1 through September 15 within the lingcod area closure. If the Pacific halibut recreational fishery in Washington state Marine Area 2 is not open for at least four days, lingcod may be taken, retained, and possessed seaward of the boundary line approximating the 30 fm (55 m) depth contour and the straight line connecting all of the following points in the order stated: 47°31.70′ N lat., 124°45.00′ W long.; 46°38.17′ N lat., 124°30.00′ W long. on Sundays in May. Days open to Pacific halibut recreational fishing off Washington are announced on the NMFS hotline at (206) 526-6667 or (800) 662-9825. For additional regulations regarding the Washington recreational lingcod fishery, see paragraph (c)(1)(iv) of this section. Coordinates for the boundary line approximating the 30 fm (55 m) depth contour are listed in § 660.71.

(3) Between Leadbetter Point (46°38.17′ N lat.) and the Columbia River (46°16.00′ N lat.) (Marine Area 1), when Pacific halibut are onboard the vessel, no groundfish may be taken and retained, possessed or landed, except sablefish, flatfish species (except halibut), Pacific cod, and lingcod from May 1 through September 30. Except that taking, retaining, possessing or landing incidental halibut with groundfish on board is allowed in the nearshore area on days not open to all-depth Pacific halibut fisheries in the area shoreward of the boundary line approximating the 30 fathom (fm) (55 m) depth contour extending from Leadbetter Point, WA (46°38.17′ N lat., 124°15.88′ W long.) to the Columbia River (46°16.00′ N lat., 124°15.88′ W long.) and from there, connecting to the boundary line approximating the 40 fm (73 m) depth contour in Oregon. Nearshore season days are established in the annual management measures for Pacific halibut fisheries, which are published in the Federal Register and are announced on the NMFS halibut hotline, 1-800-662-9825. Between Leadbetter Point (46°38.17′ N lat. 124°21.00′ W long) and 46°33.00′ N lat. 124°21.00′ W long., recreational fishing for lingcod is prohibited year round seaward of a straight line connecting all of the following points in the order stated: 46°38.17′ N lat., 124°21.00′ W long.; and 46°33.00′ N lat., 124°21.00′ W long.

(ii) Rockfish. In areas of the EEZ seaward of Washington (Washington Marine Areas 1-4) that are open to recreational groundfish fishing, there is a 7 rockfish per day bag limit. Taking and retaining yelloweye rockfish is prohibited in all Marine areas.

(iii) Cabezon. In areas of the EEZ seaward of Washington (Washington Marine Areas 1-4) that are open to recreational groundfish fishing, there is a 1 cabezon per day bag limit.

(iv) Lingcod. In areas of the EEZ seaward of Washington (Washington Marine Areas 1-4) that are open to recreational groundfish fishing and when the recreational season for lingcod is open, there is a bag limit of 2 lingcod per day. The recreational fishing seasons for lingcod is open from the second Saturday in March through the third Saturday in October.

(2) * * *

(i) * * *

(B) Recreational rockfish conservation area (RCA). Fishing for groundfish with recreational gear is prohibited within the recreational RCA, a type of closed area or groundfish conservation area, except with long-leader gear (as defined at § 660.351). It is unlawful to take and retain, possess, or land groundfish taken with recreational gear within the recreational RCA, except with long-leader gear (as defined at § 660.351). A vessel fishing in the recreational RCA may not be in possession of any groundfish. [For example, if a vessel fishes in the recreational salmon fishery within the RCA, the vessel cannot be in possession of groundfish while within the RCA. The vessel may, however, on the same trip fish for and retain groundfish shoreward of the RCA on the return trip to port.] Off Oregon, from June 1 through August 31, recreational fishing for groundfish is prohibited seaward of a recreational RCA boundary line approximating the 40 fm (73 m) depth contour, except that fishing for flatfish (other than Pacific halibut) is allowed seaward of the 40 fm (73 m) depth contour when recreational fishing for groundfish is permitted. Coordinates for the boundary line approximating the 40 fm (73 m) depth contour are listed at § 660.71.

* * * * *

(3) * * *

(i) * * *

(A) Recreational rockfish conservation areas. The recreational RCAs are areas that are closed to recreational fishing for groundfish. Fishing for groundfish with recreational gear is prohibited within the recreational RCA, except that recreational fishing for “Other Flatfish,” petrale sole, and starry flounder is permitted within the recreational RCA as specified in paragraph (c)(3)(iv) of this section. It is unlawful to take and retain, possess, or land groundfish taken with recreational gear within the recreational RCA, unless otherwise authorized in this section. A vessel fishing in the recreational RCA may not be in possession of any species prohibited by the restrictions that apply within the recreational RCA. [For example, if a vessel fishes in the recreational salmon fishery within the RCA, the vessel cannot be in possession of rockfish while in the RCA. The vessel may, however, on the same trip fish for and retain rockfish shoreward of the RCA on the return trip to port.] If the season is closed for a species or species group, fishing for that species or species group is prohibited both within the recreational RCA and shoreward of the recreational RCA, unless otherwise authorized in this section.

(1) Between 42° N lat. (California/Oregon border) and 40°10′ N lat. (Northern Management Area), recreational fishing for all groundfish (except petrale sole, starry flounder, and “Other Flatfish” as specified in paragraph (c)(3)(iv) of this section) is closed from January 1 through April 30; is prohibited seaward of the 30 fm (55 m) depth contour along the mainland coast and along islands and offshore seamounts from May 1 through October 31 (shoreward of 30 fm is open); and is open at all depths from November 1 through December 31. Coordinates for the boundary line approximating the 30 fm (55 m) depth contour are listed in § 660.71.

(2) Between 40°10′ N lat. and 38°57.50′ N lat. (Mendocino Management Area), recreational fishing for all groundfish (except petrale sole, starry flounder, and “Other Flatfish” as specified in paragraph (c)(3)(iv) of this section) is closed from January 1 through April 30; prohibited seaward of the 20 fm (37 m) depth contour along the mainland coast and along islands and offshore seamounts from May 1 through October 31 (shoreward of 20 fm is open), and is open at all depths from November 1 through December 31.

(3) Between 38°57.50′ N lat. and 37°11′ N lat. (San Francisco Management Area), recreational fishing for all groundfish (except petrale sole, starry flounder, and “Other Flatfish” as specified in paragraph (c)(3)(iv) of this section) is closed from January 1 through March 31; is prohibited seaward of the boundary line approximating the 40 fm (73 m) depth contour along the mainland coast and along islands and offshore seamounts from April 1 through December 31. Closures around Cordell Bank (see paragraph (c)(3)(i)(C) of this section) also apply in this area. Coordinates for the boundary line approximating the 40 fm (73 m) depth contour are listed in § 660.71.

(4) Between 37°11′ N lat. and 34°27′ N lat. (Central Management Area), recreational fishing for all groundfish (except petrale sole, starry flounder, and “Other Flatfish” as specified in paragraph (c)(3)(iv) of this section) is closed from January 1 through March 31; and is prohibited seaward of a boundary line approximating the 50 fm (91 m) depth contour along the mainland coast and along islands and offshore seamounts from April 1 through December 31. Coordinates for the boundary line approximating the 50 fm (91 m) depth contour are specified in § 660.72.

(5) South of 34°27′ N lat. (Southern Management Area), recreational fishing for all groundfish (except California scorpionfish, “Other Flatfish,” petrale sole, and starry flounder) is closed entirely from January 1 through the last day of February. Recreational fishing for all groundfish (except “Other Flatfish,” petrale sole, and starry flounder, as specified in paragraph (c)(3)(iv) of this section) is prohibited seaward of a boundary line approximating the 75 fm (137 m) depth contour from March 1 through December 31 along the mainland coast and along islands and offshore seamounts, except in the CCAs where fishing is prohibited seaward of the 40 fm (73 m) depth contour when the fishing season is open (see paragraph (c)(3)(i)(B) of this section). Coordinates for the boundary lines approximating the depth contours are specified at §§ 660.71 through 660.74.

(B) Cowcod conservation areas. The latitude and longitude coordinates of the Cowcod Conservation Areas (CCAs) boundaries are specified at § 660.70. In general, recreational fishing for all groundfish is prohibited within the CCAs, except that fishing for petrale sole, starry flounder, and “Other Flatfish” is permitted within the CCAs as specified in paragraph (c)(3)(iv) of this section. However, recreational fishing for the following species is prohibited seaward of the 40 fm (37 m) depth contour when the season for those species is open south of 34°27′ N lat.: Minor nearshore rockfish, cabezon, kelp greenling, lingcod, California scorpionfish, and shelf rockfish. Retention of yelloweye rockfish, bronzespotted rockfish and cowcod is prohibited within the CCA. [Note: California state regulations also permit recreational fishing for California sheephead, ocean whitefish, and all greenlings of the genus Hexagrammos shoreward-of the 40 fm (73 m) depth contour in the CCAs when the season for the RCG complex is open south of 34°27′ N lat.] It is unlawful to take and retain, possess, or land groundfish taken within the CCAs, except for species authorized in this section.

(C) Cordell Bank. Recreational fishing for groundfish is prohibited in waters less than 100 fm (183 m) around Cordell Bank as defined by specific latitude and longitude coordinates at § 660.70, subpart C, except that recreational fishing for petrale sole, starry flounder, and “Other Flatfish” is permitted around Cordell Bank as specified in paragraph (c)(3)(iv) of this section.

* * * * *

(ii) * * *

(A) Seasons. When recreational fishing for the RCG complex is open, it is permitted only outside of the recreational RCAs described in paragraph (c)(3)(i) of this section.

(1) Between 42° N lat. (California/Oregon border) and 40°10′ N lat. (North Management Area), recreational fishing for the RCG complex is open from May 1 through December 31 (i.e., it's closed from January 1 through April 30).

(2) Between 40°10′ N lat. and 38°57.50′ N lat. (Mendocino Management Area), recreational fishing for the RCG Complex is open from May 1 through December 31 (i.e., it's closed from January 1 through April 30).

(3) Between 38°57.50′ N lat. and 37°11′ N lat. (San Francisco Management Area), recreational fishing for the RCG complex is open from April 1 through December 31 (i.e., it's closed from January 1 through March 31).

(4) Between 37°11′ N lat. and 34°27′ N lat. (Central Management Area), recreational fishing for the RCG complex is open from April 1 through December 31 (i.e., it's closed from January 1 through March 31).

(5) South of 34°27′ N lat. (Southern Management Area), recreational fishing for the RCG Complex is open from March 1 through December 31 (i.e., it's closed from January 1 through the last day in February).

* * * * *

(D) Dressing/filleting. Cabezon, kelp greenling, and rock greenling taken in the recreational fishery may not be filleted at sea. Rockfish skin may not be removed when filleting or otherwise dressing rockfish taken in the recreational fishery.

(iii) * * *

(A) Seasons. When recreational fishing for lingcod is open, it is permitted only outside of the recreational RCAs described in paragraph (c)(3)(i) of this section.

(1) Between 42° N lat. (California/Oregon border) and 40°10′ N lat. (Northern Management Area), recreational fishing for lingcod is open from May 1 through December 31 (i.e., it's closed from January 1 through April 30).

(2) Between 40°10′ N lat. and 38°57.50′ N lat. (Mendocino Management Area), recreational fishing for lingcod is open from May 1 through December 31 (i.e., it's closed from January 1 through April 30).

(3) Between 38°57.50′ N lat. and 37°11′ N lat. (San Francisco Management Area), recreational fishing for lingcod is open from April 1 through December 31 (i.e., it's closed from January 1 through March 31).

(4) Between 37°11′ N lat. and 34°27′ N lat. (Central Management Area), recreational fishing for lingcod is open from April 1 through December 31 (i.e., it's closed from January 1 through March 31).

(5) South of 34°27′ N lat. (Southern Management Area), recreational fishing for lingcod is open from March 1 through December 31 (i.e., it's closed from January 1 through the last day in February).

(B) Bag limits, hook limits. In times and areas when the recreational season for lingcod is open, there is a limit of 2 hooks and 1 line when fishing for lingcod. Multi-day limits are authorized by a valid permit issued by California and must not exceed the daily limit multiplied by the number of days in the fishing trip.

(1) The bag limit between 42° N lat. (California/Oregon border) and 40°10′ N lat. (Northern Management Area) is 2 lingcod per day.

(2) The bag limit between 40°10′ N lat. and the U.S. border with Mexico (Mendocino Management Area, San Francisco Management Area, Central Management Area, and Southern Management Area) is 1 lingcod per day.

* * * * *

(D) Dressing/filleting. Lingcod filets may be no smaller than 14 in (36 cm) in length. Each fillet shall bear an intact 1 in (2.6 cm) square patch of skin.

(iv) “Other Flatfish,” petrale sole, and starry flounder. Coastwide off California, recreational fishing for “Other Flatfish,” petrale sole, and starry flounder, is permitted both shoreward of and within the closed areas described in paragraph (c)(3)(i) of this section. “Other Flatfish” are defined at § 660.11, and include butter sole, curlfin sole, flathead sole, Pacific sanddab, rex sole, rock sole, and sand sole. “Other Flatfish,” are subject to the overall 20-fish bag limit for all species of finfish, of which there may be no more than 10 fish of any one species; there is no daily bag limit for petrale sole, starry flounder and Pacific sanddab. There are no size limits for “Other Flatfish,” petrale sole, and starry flounder. “Other Flatfish”, petrale sole, and starry flounder may be filleted at sea. Fillets may be of any size, but must bear intact a one-inch (2.6 cm) square patch of skin.

(v) * * *

(A) Seasons. When recreational fishing for California scorpionfish is open, it is permitted only outside of the recreational RCAs described in paragraph (c)(3)(i) of this section.

(1) Between 40°10′ N lat. and 38°57.50′ N lat. (Mendocino Management Area), recreational fishing for California scorpionfish is open from May 1 through December 31 (i.e., it's closed from January 1 through April 30).

(2) Between 38°57.50′ N lat. and 37°11′ N lat. (San Francisco Management Area), recreational fishing for California scorpionfish is open from April 1 through December 31 (i.e., it's closed from January 1 through March 31).

(3) Between 37°11′ N lat. and 34°27′ N lat. (Central Management Area), recreational fishing for California scorpionfish is open from April 1 through December 31 (i.e., it's closed from January 1 through March 31).

(4) South of 34°27′ N lat. (Southern Management Area), recreational fishing for California scorpionfish is open from January 1 through December 31.

(B) Bag limits, hook limits. South of 40°10.00′ N lat., in times and areas where the recreational season for California scorpionfish is open there is a limit of 2 hooks and 1 line, the bag limit is 5 California scorpionfish per day. California scorpionfish do not count against the 10 RCG Complex fish per day limit. Multi-day limits are authorized by a valid permit issued by California and must not exceed the daily limit multiplied by the number of days in the fishing trip.

* * * * *

(d) Salmon bycatch. Recreational fisheries that are not accounted for within pre-season salmon modeling may be closed through automatic action at § 660.60(d)(1)(v) and (vi).

[FR Doc. 2018-26602 Filed 12-11-18; 8:45 am]

BILLING CODE 3510-22-P